DEPARTMENT OF HOMELAND SECURITY

Coast Guard

33 CFR Parts 1, 20, 70, 95, 101, 110, 141, 155, 156, 160, 162, 163, 164, and 165

46 CFR Parts 1, 4, 5, 10, 11, 12, 13, 14, 15, 16, 26, 28, 30, 31, 35, 42, 58, 61, 78, 97, 98, 105, 114, 115, 122, 125, 131, 151, 166, 169, 175, 176, 185, 196, 199, 401, and 402

[Docket No. USCG-2006-24371]

RIN 1625-AB02

Consolidation of Merchant Mariner Qualification Credentials

AGENCY: Coast Guard, DHS.

ACTION: Final rule.

SUMMARY: The Coast Guard issues this final rule to consolidate the regulations covering issuance of merchant mariner qualification credentials, to reduce the burden on mariners by limiting the number of times they need to appear in person to provide fingerprints and proof of identity, and to address comments received from the public in response to the Supplemental Notice of Proposed Rulemaking, in some cases through revisions based on those comments. This final rule works in tandem with the joint final rule published by the Coast Guard and the Transportation Security Administration on January 25, 2007, entitled “Transportation Worker Identification Credential (TWIC) Implementation in the Maritime Sector; Hazardous Materials Endorsement for a Commercial Driver's License”.

DATES: This final rule is effective April 15, 2009. The incorporation by reference of certain publications listed in the rule is approved by the Director of the Federal Register as of April 15, 2009.

ADDRESSES: Comments and material received from the public, as well as documents mentioned in this preamble as being available in the docket, are part of docket USCG-2006-24371 and are available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet at http://www.regulations.gov.

FOR FURTHER INFORMATION CONTACT: If you have questions on this rule, call Mayte Medina, Coast Guard, telephone 202-372-1406. If you have questions on viewing the docket, call Renee V. Wright, Program Manager, Docket Operations, telephone 202-366-9826.

SUPPLEMENTARY INFORMATION:

Table of Contents

I. Acronyms

II. Regulatory History

III. Background and Purpose

IV. Summary of Changes From SNPRM

V. Discussion of Comments and Changes

A. Comments Regarding the TWIC Rulemaking

B. General

C. Appeals

D. Application Process

E. Background Checks

F. Coast Guard Authority

G. Citizenship

H. Consistency

I. Continuity Documents

J. Definitions

K. Fees

L. Format

M. Large Passenger Vessels

N. License Creep

O. Medical

P. National Maritime Center

Q. Oaths

R. Pilots

S. Posting of Credential

T. Social Security Numbers

U. International Convention on the Standards on Training, Certification, and Watchkeeping for Seafarers, 1978, as Amended (STCW)

V. Training

W. Integration With TWIC

X. Questions Outside the Scope of This Rulemaking

VI. Regulatory Evaluation

A. Executive Order 12866

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Acronyms

ADA Americans with Disabilities Act

ARPA Automatic Radar Plotting Aid

ATP Airline Transport Pilot

CFR Code of Federal Regulations

CBP Customs and Border Patrol

COR Certificate of Registry

EEOC Equal Employment Opportunity Commission

FAA Federal Aviation Administration

FR Final Rule

GMDSS Global Maritime Distress and Safety System

ILO International Labor Organization

IMO International Maritime Organization

MERPAC Merchant Marine Personnel Advisory Committee

MMC Merchant Mariner Credential

MMD Merchant Mariner Document

MODU Mobile Offshore Drilling Unit

NARA National Archives and Records Administration

NDR National Driver Register

NEPA National Environmental Policy Act

NMC National Maritime Center

NPRM Notice of Proposed Rulemaking

NTTAA National Technology Transfer and Advancement Act

NVIC Navigation and Inspection Circular

OCMI Officer in Charge, Marine Inspection

OICEW Officer in Charge of Engineering Watch

OICNW Officer in Charge of Navigational Watch

OMB Office of Management and Budget

OSV Offshore Supply Vessels

PVSA Passenger Vessel Safety Act of 1993

QMED Qualified Member of the Engine Department

REC Regional Examination Center

RFPNW Rating Forming Part of a Navigational Watch

SNPRM Supplemental Notice of Proposed Rulemaking

SOLAS Convention for the Safety of Life at Sea

SSN Social Security Number

STCW International Convention on the Standards of Training, Certification and Watchkeeping for Seafarers, 1978, as amended.

TOAR Towing Officer's Assessment Record

TSA Transportation Security Administration

TWIC Transportation Worker Identification Credential

US United States

USC United States Code

II. Regulatory History

On May 22, 2006, the Coast Guard published a Notice of Proposed Rulemaking (NPRM) in the Federal Register titled “Consolidation of Merchant Mariner Qualification Credentials” (71 FR 29462). The NPRM included a 45-day comment period, and announced four public meetings that were held in Newark, NJ, Tampa, FL, St. Louis, MO, and Long Beach, CA. During the comment period for the NPRM, the Coast Guard received over 100 requests, both in writing and in person at the public meetings, for additional time to comment.

In response, on January 25, 2007, the Coast Guard published a Supplemental Notice of Proposed Rulemaking (SNPRM) under the same title in the Federal Register (72 FR 3605) providing an additional three months for comments. The SNPRM included a discussion of all comments received in response to the NPRM. We received 19 letters commenting on the SNPRM. No public meeting was requested and none was held.

III. Background and Purpose

A complete discussion of the background and purpose for this rule can be found in the preamble to the NPRM, 71 FR 29463. Under the current regulations being amended in this rule, the Coast Guard may issue up to four credentials to a mariner: A Merchant Mariner's Document (MMD), Merchant Mariner's License (License), Certificate of Registry (COR), and an International Convention on Standards of Training, Certification and Watchkeeping for Seafarers (STCW) Endorsement. Each credential serves a separate purpose, thus creating the possibility that a mariner might need all four.

The Maritime Transportation Security Act of 2002, 46 U.S.C. 70105, (MTSA) requires all merchant mariners credentialed under 46 U.S.C. part E to undergo a security threat assessment and obtain a transportation security card. This provision has been implemented by the Transportation Security Administration (TSA), which has begun implementing the Transportation Worker Identification Credential (TWIC) into the maritime sector, and the Coast Guard. All mariners are required, under Coast Guard regulations, to obtain a TWIC by April 15, 2009.¹ This means that, without a regulatory change, a mariner would need up to five credentials.

¹ The first TWIC Final Rule, published on January 25, 2007, required all mariners to have a TWIC by September 25, 2008. See 72 FR 3492. On May 7, 2008, the Department of Homeland Security published a Final Rule delaying the date by which mariners must hold a TWIC until April 15, 2009. See 73 FR 25562.

This rule will minimize these redundant credentialing requirements, and ease the burden on merchant mariners. The Coast Guard is streamlining its mariner regulations and consolidating the four separate credentialing documents into one Merchant Mariner Credential (MMC). In addition to reducing the number of credentials a mariner will need to hold, this rule also eliminates redundant burdens and government processes.

IV. Summary of Changes From SNPRM

Cite | Change | Reason
Throughout document | Changed the date by which a mariner must hold a TWIC from September 25, 2008 to April 15, 2009 | To reflect change in mariner compliance date published by DHS in a Final Rule on May 7, 2008 (73 FR 25562).
46 CFR 10.209, 10.211, 10.214, 10.221, 10.223, 10.225, 10.227, 10.229, 10.231, 10.235, 12.02-7 | Added language to reflect that applications for MMC's prior to April 15, 2009 will still need to be made in person at an REC to provide fingerprints and proof of identity, and that for these applications, the Coast Guard will still conduct security threat assessments. After April 15, 2009, TSA will collect the fingerprints and proof of identity and forward that information to the Coast Guard (National Maritime Center (NMC)) | To allow the Coast Guard to begin issuing the MMC prior to the date that mariners are required to hold a TWIC, and prior to the date when TSA will begin sharing applicant information with the Coast Guard.
33 CFR 164.13 | Changed the term from properly, to appropriately | In response to comments.
46 CFR 10.107 | Added language to the definition of safe and suitable person to refer the reader to 46 CFR 10.211 and 10.213; and added definitions for large passenger ship, non-resident alien and steward's department | In response to comments and changes to regulations.
46 CFR 10.109 | Added the first class pilot endorsement, and in (b) added subcategories of able seaman for consistency as well as clarity with the requirements in Parts 12 and 15 | In response to comments.
46 CFR 10.211 | Added language to specifically state responses that applicants need only provide written disclosure of convictions not previously disclosed on an application | In response to comments.
46 CFR 10.215 Table (a) | Revised the table to place the reg cites for the requirement | In response to comments.
46 CFR 10.215(c) | Revised to allow the medical examiner, if qualified, to conduct the appropriate examinations | In response to comments.
46 CFR 10.221(a)(2) | Added exception for large passenger vessel | In response to comments and Congress.
46 CFR 10.225 | Removed the requirement that a mariner have proof of applying for a TWIC within the past 30 days | In response to comments. Additionally, it provides more flexibility.
46 CFR 10.237 | Added language to specify that the Coast Guard will provide the applicant the reason(s) for denial of an application directly to the applicant | In response to comments.
46 CFR 11.304(h)(7) | Removed the requirement for gathering the TWIC information | In response to comments and realization that we had sufficient information to determine the identity of the officer conducting the assessment.
46 CFR 11.518 | Added the abbreviation for Qualified Member of the Engine Department (QMED) | In response to comments.
46 CFR 11.520 | Replaced qualified member of the engine department with QMED | In response to comments.
46 CFR 11.1005 | Removed the date | In response to comments and date is no longer necessary.
46 CFR 12.02-11(d) | Revised to state that ratings endorsements will be issued if the holder or applicant is qualified for the endorsement | In response to comments.
46 CFR 12.02-17 | Revised section to remove reference to Officer in Charge Marine Inspection. In paragraph (g) revised section for clarity | In response to comments and to provide clarity after the revisions.
46 CFR 12.05-3(c) | Revised paragraph to remove the date and to provide clarity that the endorsement for Rating Forming Part of a Navigational Watch (RFPNW) will be issued upon meeting the requirements of STCW | In response to comments and to provide clarity.
46 CFR 12.05-7 | Removed the term Commanding Officer | In response to comments and for consistency with changes previously proposed.
46 CFR 12.10-1 | Removed the term “United States collector or deputy collector of customs'' and replaced it with the appropriate term with the DHS reorganization | In response to comments and updating the regulations with current terminology.
46 CFR 12.10-3 | Removed the term Commanding Officer | In response to comments and for consistency with changes previously proposed.
46 CFR 12.15-1 | Removed the term “United States collector or deputy collector of customs'' and replaced it with the appropriate term with the DHS reorganization | In response to comments and updating the regulations with current terminology.
46 CFR 12.15-3(d) | Removed the February 1, 2002 date | In response to comments and because that date is no longer necessary.
46 CFR 12.15-7(c) | Revised the newly inserted word from engineer department to engine department | Consistency with existing language and in response to comment.
46 CFR 12.40 | Revised subpart for the requirements for non-resident aliens working on large passenger vessels | In response to comments and new interim rule.
46 CFR 15.401 | Spelled out the first use of TWIC | In response to comments.
46 CFR 15.530 | Revised subpart for the requirements for non-resident aliens working on large passenger vessels | In response to comments and new interim rule.
46 CFR 15.701 | Removed the word Customs and replaced it with Customs and Border Protection | In response to comments and updating the regulations with current terminology.
46 CFR 15.812(b)(1) | Clarified the requirement to state that it is either a first class pilot's license or an MMC with a first class pilot's endorsement | In response to comments and for clarification.
46 CFR 15.815 | Revised radar endorsement language to make it consistent with language proposed in the NPRM for radar endorsements | Consistency with other ongoing rulemaking project that is specifically on that requirement.
46 CFR 15.915 | Revised header from “Engineer Licenses” to “Engineer Officer Endorsements” | In response to comment and to make consistent with the remainder of the proposed rule.
46 CFR 42.05-70 | Renumbered section to 42.05-27 | In response to comment and because the definition was out of order.
46 CFR 78.65-1 | Revised section to provide the option to post either license or merchant mariner credentials on a vessel | In response to comment and to provide for the phase-in period when both documents will be in use.
46 CFR 97.53-1 | Revised section to provide the option to post either license or merchant mariner credentials on a vessel | In response to comment and to provide for the phase-in period when both documents will be in use.
46 CFR 401.210 | Revised references to licensed service and added language to include the MMC requirement | In response to comments and to correct oversights not addressed in the SNPRM.
46 CFR 402.220 | Revised section to provide for mariners holding either a license or MMC | In response to comments and to provide for the phase-in period when both documents will be in use.

V. Discussion of Comments and Changes

The following comments were submitted to the docket for the MMC SNPRM. All written comments received are available for inspection in the public docket for this rulemaking, where indicated under ADDRESSES.

A. Comments Regarding the TWIC Rulemaking

We continued to receive comments to the docket regarding the TWIC. This rulemaking is limited to the consolidation of merchant mariner credentials, including the requirement for a TWIC as required by 46 U.S.C. 70105; however, comments regarding the TWIC rulemaking are inappropriate for discussion in this rulemaking. They are not addressed in this FR; they were forwarded to the appropriate office either at the Coast Guard or at TSA for consideration, and included in the discussion of comments in the TWIC final rule, published on January 25, 2007 (72 FR 3492).

B. General

The Coast Guard received a number of positive comments on the SNPRM. We received one comment commending the Coast Guard on recognizing the need to move forward on concurrent processing of a TWIC and MMC. We received one comment supporting the removal of language in § 12.01-1 that stated that the MMD was owned by the Coast Guard. We received one comment expressing support for the revised requirements in § 15.815(d) and (e) requiring mariners to either carry their radar certificate with them or have a copy on file with their company. We received one comment that specifically stated that all the credentials should be combined as proposed in the SNPRM. We received four comments supporting the issuance of MMCs through the mail. We received one comment applauding the removal of withholding the reason for the denial of a credential. We received numerous comments agreeing with the need for proper identification and credentialing of mariners, in order to ensure safe vessel operation and national security. We received one comment commending the Coast Guard for allowing the mariner to take his/her oath before any person. We received one comment noting that the MMC represents an opportunity to make the mariner credentialing system more transparent, predictable and fair. We received one comment expressing appreciation of the Coast Guard's efforts to protect a mariner's privacy by removing the Social Security number on the form of payment.

We received one comment expressing concern that focusing the emphasis of the MMC on competency of the mariner would undermine the principle that the Coast Guard must be vigilant in its issuance of its credentials.

We disagree. While TSA is responsible for verifying identity and conducting security vetting for mariners, the Coast Guard will only issue credentials to those individuals who pass the security vetting and the safety and suitability check conducted by the Coast Guard. We will not ignore whether the individual is a security threat, though our focus will be qualifying the mariner to be employed on vessels and ensuring the individual is not a threat to maritime safety.

We received one comment noting that the mariner would still be required to carry multiple credentials and documents and thus the synergetic effect of the Coast Guard's proposed consolidation of the mariner's credentials is somewhat diluted.

We agree. The Coast Guard recognizes that mariners will still be required to carry more than one credential; however, those issued by the Coast Guard will be reduced from as many as four to one.

We received one comment suggesting that this rulemaking should be used to remedy existing deficiencies in the licensing system.

We disagree. The purpose of this rulemaking is to streamline the existing merchant mariner credentialing process, to minimize redundant requirements, and simplify the credentialing program. While it is expected that this will remedy some of the existing deficiencies in the merchant mariner credentialing program, it is not the intent of this rulemaking. The Coast Guard has a number of initiatives in progress which are intended to improve the merchant mariner credentialing system, which include reorganization of the NMC and fully developing a quality standard system.

We received one comment asking the Coast Guard to address the deletions and additions of definitions, subsections, figures, and tables within the rulemaking.

In the NPRM, we provided a table showing where various subsections were moved between the various parts of Title 46 of the CFR (71 FR 29464-81). Additionally, when the definitions were consolidated we had no intention of removing definitions and have reviewed the list to ensure that all of the definitions within the subchapter have been retained, unless otherwise noted in this or previous regulatory documents. Within this preamble, we will discuss any changes from the SNPRM, which would not have been discussed in either the NPRM or the SNPRM.

We received one comment requesting that we readdress the comments they made to the NPRM.

The Coast Guard has determined that readdressing even some of the comments we received on the NPRM would be redundant, as those comments were already fully addressed in the “Discussion of Comments and Changes” section of the SNPRM (72 FR 3608). As such, we have not readdressed comments received on the NPRM; this discussion will only address those comments received on the SNPRM.

We received one comment stating that the creation of an entirely new form of a credential to replace the traditional license would create more problems than it might solve.

We disagree. While we recognize that the transition to this new credential will not be without challenges, we believe it will result in a better credential accepted by more mariners than the credentials currently in place.

One commenter recommended that the MMC proposal be withdrawn.

We do not agree with this comment and are proceeding with this final rule. Without this final rule, mariners would face duplicative appearance requirements when applying for their TWIC and their Coast Guard issued License, MMD, COR, or STCW Endorsement.

We received one comment expressing concern with this rulemaking because it comes at an especially active period in maritime regulation and it was recommended that we proceed with caution.

We recognize that the Coast Guard is involved in multiple regulatory projects at this time, and that several of them touch upon the same regulatory provisions being amended by this final rule. All persons involved in this project are sensitive to this fact, and have been diligent in ensuring that the same approach and language is used in all projects. As a result of this diligence, recent changes, published in an interim rule for vessel security officer training and certification (May 20, 2008; 73 FR 29060) and in final rules on training and service requirements for merchant marine officers (September 11, 2008; 73 FR 52789) and technical amendments for 46 CFR (September 29, 2008; 73 FR 56505), have been incorporated into this final rule.

One commenter expressed concern that the SNPRM implied the MMC is an identity document in addition to being a proficiency document. They felt adding the identity concept to the MMC would introduce confusion and recommended that the TWIC remain the proof of identification.

We disagree. There have been numerous comments recommending the MMC be International Labor Organization (ILO) 185 compliant. In order to meet those requests, the Coast Guard must make this credential, in part, an identification credential. Identification will not be the primary function of the MMC, as the TWIC will be used as the primary identification document aboard U.S. vessels and at U.S. facilities. The MMC may be used as an identity document in other places, as it will hold a digital photo of the mariner, which will be taken from the TWIC enrollment application during which time proof of identity is inspected.

We received one comment requesting the implementation of this rulemaking be delayed until there have been trials of the information sharing between the Coast Guard and TSA.

We agree, in part, with this comment. Before we fully implement this rulemaking we will be testing the transmission of information between the two agencies. If we are able to begin issuance of the MMC before the full implementation of TWIC, we may begin a partial implementation of those portions of the rule that do not require the information sharing.

We received one comment stating that the Coast Guard must educate other state and Federal agencies about the status of a merchant mariner credential, and the requirements to achieve them.

While not the purpose of this rulemaking, we agree we need to educate other agencies about the MMC. We will use all available channels to inform State and Federal agencies about the new credential.

We received one comment stating that the majority of licensed officers favor retaining the license as a separate document and as a certificate of qualifications at the licensed level.

We disagree. This statement is not represented by the comments received during this rulemaking.

We received one comment stating that the present documentation and licensing regulations should remain intact and should not be changed to a system of endorsements on a newly created MMC.

We disagree. Even before the MMC and TWIC rulemakings, the Coast Guard recognized the need to revise the current credentials, to make them less confusing. This need was further reinforced by comments received and responses made to Congress regarding the number of credentials being carried by mariners and the need to reduce that number.

We received one comment seeking clarification on a statement within the SNPRM preamble regarding delaying the final rule until “next year” to allow the Coast Guard to accept and apply additional public comments.

The intent of the statement within the SNPRM was to state that the Coast Guard was going to seek additional comments in conjunction with the rulemaking process. Because at that time mariners would not have been required to hold a TWIC until September 25, 2008 (see TWIC final rule at 72 FR 3587-88), we recognized that there was ample time to allow for additional comment before needing to finalize this MMC rulemaking project. Providing a second round of comments has helped ensure that in consolidating the existing mariner credentialing regulations, we were not unintentionally changing any qualifications requirements.

We received one comment stating that not allowing mariners to serve prior to issuance of their MMC conflicted with the TWIC policy which allowed service for up to 30 days before they actually received their TWIC and that this Coast Guard policy would negate that advantage. We received two comments encouraging the Coast Guard to seek issuance of interim MMCs for mariners serving on passenger vessels that have been issued a TWIC, but are waiting on the processing of the MMC. We received one comment recommending issuance of interim credentials to persons who have had recent prior experience crewing on U.S.-flag vessels, or on other vessels that have evidence, issued by the Federal Maritime Commission, of compliance with sections 44102 and 44103 of Title 46 of the United States Code. In contrast, we received one comment stating that the issuance of interim credentials would be confusing and unnecessary, especially considering that we do not currently have interim credentials and everyone has managed to deal with it by planning ahead.

The Coast Guard has decided not to allow merchant mariners to serve prior to the issuance of their MMC. The U.S. Code provides that the Coast Guard may issue credentials to those applicants found qualified as to age, character, habits of life, experience, professional qualifications and physical fitness (46 U.S.C. 7101(c), 7306, and 7313). The law provides that the Coast Guard must ensure a mariner meets the aforementioned criteria before issuing a credential and the possession of such a credential is required to serve in a position on any vessel that requires a credential.

We received one comment that suggested the replacement of the phrase “* * * a properly endorsed license * * *” with “* * * an appropriately endorsed license * * *” in 33 CFR 164.13(b) and (c).

We concur with the suggestion and have made this change.

We received one comment seeking clarification regarding the listing of the Young Men's Christian Association (YMCA) but not the Young Women's Christian Association (YWCA) in 46 CFR 10.219(h)(2)(ii) and whether the failure to include that organization was intentional, and if so for further rationale for not including the organization.

The YWCA was intentionally excluded from the current published list in the regulations. The list has been in place and unchanged since the establishment of fee regulations in 1993, and it is not our intention with this rulemaking to add or remove organizations from the existing list. An organization seeking to be added to the list may follow the procedure, unchanged by this rulemaking, laid out in paragraph (h)(2)(i).

We received one comment recommending that 46 CFR 11.502(b) be revised to reflect three propulsion modes: motor, steam, and gas turbine.

We agree, in part. There are three propulsion modes that should be included in the regulations; however, this change is being considered in a separate, larger Coast Guard rulemaking, titled “Implementation of the 1995 Amendments to the International Convention on Standards of Training, Certification and Watchkeeping for Seafarers, 1978” (RIN: 1625-AA16).

We received one comment that recommended 46 CFR 11.1105 be the same as § 11.1005: “To serve on a non-Ro-Ro passenger ship a person endorsed as master, mate, chief mate, engineer, or chief engineer shall meet the appropriate requirements of the International Convention on the Standards of Training, Certification and Watchkeeping for Seafarers, 1978, as amended (STCW) Regulation V/3 and of section A-V/E of the STCW Code.”

We disagree. It is not the purpose of this rule to revise the substantive qualifications requirements or even just the text of the requirements; this rule serves to reorganize the various parts, consolidate the various mariner credentials, and eliminate redundant appearance requirements in light of the new TWIC requirement. As noted in an earlier response, the Coast Guard has a number of ongoing regulatory projects that, if completed, would change portions of 46 CFR chapter I, subchapter B. Once these projects are completed, we will examine whether a complete revision of the regulations in subchapter B is warranted. The change suggested by the commenter could be incorporated into such a revision.

We received one comment recommending a revision to § 12.15-7(c) changing the phrase “engineer department” to “engine department”.

We agree with this suggestion and have made this change.

We received one comment noting that we did not correct the heading for § 15.915. That omission was an oversight on the part of the Coast Guard; we have corrected that heading in this final rule to “Engineer Officer Endorsements”.

One comment recommended §§ 78.65-1, 97.53-1, and 131.955 state that the page of the credential should show the information for officer credentials and include the license for the 5 year implementation period.

We agree, and have amended the sections to read “All officers on a vessel must have their license or officer endorsements conspicuously displayed”.

We received one comment recommending that § 401.210(a)(1) be revised to allow for the transition period when mariners will still hold licenses.

We agree; this entire paragraph has been revised in this final rule, in order to allow the Coast Guard to start issuing MMCs even before mariners are required to obtain TWICs. These changes mean that, until April 15, 2009, mariners applying for their MMC will need to appear at an REC in person to provide proof of identity, citizenship, and their fingerprints. After April 15, 2009, the Coast Guard will be able to obtain that information from the record TSA created when the mariner enrolled for his/her TWIC and will not have to appear at an REC.

We received one comment recommending that § 402.220(a)(1), (a)(2), & (a)(3) should state license and MMC endorsement.

We agree that these terms would provide clarity, and have made the suggested changes.

We received one comment recommending that we model the mariner licensing system after the Federal Aviation Administration (FAA) processes, based upon the Airline Transport Pilot (ATP) license for the FAA coupled with type-rating for a specific aircraft.

We disagree. While this would ensure that each mariner is qualified for each specific vessel upon which he or she serves, it would make the regulations much more difficult and confusing. Additionally, vessels are not as uniform as aircraft in their design and operation, thus using the FAA model would not be appropriate.

One commenter suggested that STCW endorsements should be issued when a person meets STCW requirements for their position instead of in response to a request to go on an international voyage.

We concur; however, we do not issue STCW endorsements unless requested by mariner. Thus, when the STCW endorsement is issued relies upon when the mariner makes his/her request.

We received one recommendation that the CFRs should be drafted to provide a list of requirements as has been done in some of the license checklists.

We disagree. While this idea appears on the surface to be a good solution, it would actually result in more difficulties over time. Checklists exist as aids that provide guidance on these regulations and are available for review at: http://www.uscg.mil/stcw/index.htm. Including such checklists in the regulations would mean they could only be revised through a regulatory change, requiring notice and comment under the Administrative Procedure Act. By providing the checklists as aids to understanding the regulations, we are able to quickly update and clarify them as requirements are revised or confusion is discovered.

We received one comment noting that the safekeeping of the MMC would be easier if it were a passport-sized document.

We agree and have started the process of transitioning to this style of document.

C. Appeals

We received one comment seeking clarification to the revised language in § 12.03-1(c)(2).

We have removed specific references to the Commanding Officer of the National Maritime Center throughout this rulemaking. In our view, this will have no effect on the processes currently in place. Coast Guard policy requires that Commanding Officers sign official correspondence or delegate it, as appropriate, within their command. We do not envision course application appeals being delegated below the Commanding Officer, except in his or her absence to an Acting Commanding Officer.

D. Application Process

We received one comment recommending the Coast Guard implement a Web-based application system and two comments recommending the Coast Guard allow electronic submission of applications.

We agree. As resources are available, the Coast Guard intends to develop systems through which a mariner may apply for an MMC using various Web-based applications.

We received one comment recommending that §§ 10.223(c)(2) and 10.227(d)(2) read “* * * have a valid TWIC or show proof of applying for a TWIC * * *”.

We disagree. Mariners will not meet the TWIC requirement unless they actually hold the TWIC; completing the application process is not enough. Mariners need to plan to enroll with enough time to ensure their TWIC is available and able to be picked up prior to April 15, 2009 (the compliance date for the TWIC requirement for mariners). Therefore, this section only applies to those individuals who would already hold a valid TWIC and MMC.

We received one comment recommending the removal of the requirement of proof that a TWIC be obtained or applied for (within the past 30 days) in order to receive an original MMC from § 10.225(b)(2).

We agree that it would not be necessary to provide the 30-day limitation on the TWIC application for an original merchant mariner credential, and have made the suggested change.

One commenter expressed concern that the coordination of regulatory roles and administrative functions between two agencies within the same Department did not lead to development of one application and enrollment process, vetting of criminal or other records for safety, suitability, and terrorist security risks, determination of qualifications and issuance of a single combined Merchant Mariner Document (MMD)/TWIC.

We disagree. When the Coast Guard and TSA first began collaborating to issue regulations on TWIC, the issue of whether all credentials could be combined into a single MMC/TWIC was thoroughly explored. Unfortunately, this is not an option at this time. As the use of biometric and smart card technology becomes more wide-spread, this decision may be able to be revisited. However, at this time, it is simply not possible to combine the two credentials onto one card. We have, through this final rule, streamlined the application process for the MMC, to avoid duplicative appearance requirements and security vetting.

We received one comment recommending § 10.225(b)(5) be removed, since an applicant for an original MMC would not hold any of these credentials—cancelled or uncancelled.

We agree, and have made the suggested change.

We received one comment requesting that all mariners seeking renewals of towing vessel credentials be required to complete practical towing demonstrations, as well as for those mariners whose most recent credential has been suspended or revoked as stated in § 10.235(f).

We disagree. The towing vessel credential requirements were developed through a separate rulemaking, during which this requirement was presented to the public and they were provided an opportunity to comment on the requirement. To add this requirement to all other mariners would require notice and comment that is currently outside the scope of this rulemaking.

We received one comment recommending that § 10.237(a) clearly state that the written statement detailing the reason(s) for denial be provided to the applicant.

We agree. It is the intention of this rulemaking to clarify the MMC process and we will make the suggested change to provide additional clarity.

We received one comment questioning why we retained the Officer in Charge of Marine Inspection (OCMI) authority to make decisions about service and exam requirements in § 11.201.

This provision was retained because it provides the local Coast Guard official most familiar with the local area the ability to revise the requirements based upon that local knowledge.

We received one comment requesting that we reconsider allowing an expired passport as evidence of citizenship verification.

After reconsideration, we have decided to accept an expired passport, especially considering that the individual will undergo a thorough vetting for immigration status by the TSA during the security threat assessment, and a second vetting by the Coast Guard for suitability and safety qualifications.

We received one comment recommending the establishment of a process to identify delayed applications and require supervisory review, as well as a process to recoup lost salary.

We agree, in part. We have established a process within the quality standard system that will identify delayed applications and bring them to the attention of the leadership of the NMC. At present, there is no intention to develop a process to provide lost salary to applicants of a MMC.

E. Background Checks

We received one comment recommending the Coast Guard discontinue its duplicative background checks or the requirement to hold the TWIC, because it is unreasonable for both agencies to simultaneously examine a mariner's criminal background. We received three comments recommending that the TWIC and MMC data be incorporated into a single card. We received one comment recommending that the MMD be retained in its present role and format, but with additional functionality that would allow it to serve, at the unlicensed level, as both a transportation security card and a certificate of qualifications.

We disagree. It is necessary for both the Coast Guard and TSA to review the criminal background, since both agencies are examining different issues to determine whether an individual should hold the credential issued by that agency. Also, it is not within the purview of the Coast Guard to change the requirement to hold the TWIC because that requirement is found in 46 U.S.C. 70105. The information in the applications for the MMD and TWIC are different with respect to the different focus of the two credentials. Additionally, to only make the MMD consistent for unlicensed personnel would create disconnect between the ratings and officers as well as those mariners serving on inland routes not required to have an MMD. This proposed scheme would create as many credentials as the current system, and frustrate the project's original purpose to consolidate credentials. However, this final rule does eliminate duplicative processes and requirements, such as the personal appearance and security background examinations requirements.

We received four comments recommending the Coast Guard limit criminal conviction disclosure to those not previously disclosed on an application for a Coast Guard credential. Similarly, we received one comment recommending that § 10.211 be revised to request full disclosure of criminal history only on the applicant's original application.

We agree and have made the suggested changes in this final rule.

We received one comment recommending that the self-disclosure of criminal history be eliminated from the application entirely.

We disagree. There should be some requirement for self-disclosure; however, we have agreed that the disclosure should only cover the period since the last application or any item not previously disclosed to the Coast Guard. This is a benefit for the mariner and provides the opportunity for supplemental information not otherwise available in the public record to be submitted to the Coast Guard for consideration during the evaluation period.

We received two comments stating that an unlimited review is counter to the Congressional intent regarding the National Driver Register (NDR).

We agree, and the statutory three year limit (found in 49 U.S.C. 30305) on such a review has been incorporated into this final rule (see § 10.213). This does not, however, limit the Coast Guard's ability to continue an unlimited review if the information obtained from the NDR is about a revocation or suspension still in effect on the date of the request.

F. Coast Guard Authority

We received two comments questioning whether the MMC with an officer endorsement will have the same significance as a license and whether the Coast Guard has authority to change the format of the license.

As noted in the SNPRM, the authority to revise the license is well within the broad authority provided to the Coast Guard under 46 U.S.C. Part E. Thus, the MMC with an officer endorsement will carry the same weight as a license.

G. Citizenship

We received one comment requesting clarification on § 10.231(d)(2) regarding the specific mention of naturalized citizens. This language was brought from the existing language in 46 CFR 10.207; it has not changed and carries the same meaning as it did prior to being moved by this final rule.

H. Consistency

We received one comment strongly recommending that the wording referencing mariner credential authority in parts covered by this regulation be changed by replacing the words “not more than” with the words “less than”. This change was being sought to make the revisions more consistent with the provisions within STCW, as well as U.S. inspections language.

While we do not necessarily agree or disagree with the suggestion, this final rule is not the appropriate place to contemplate this change. The primary focus of this rulemaking is the development of a consolidated credential and a reorganization of subchapter B. This recommendation, however, is being contemplated for incorporation in a separate rulemaking, titled “Implementation of the 1995 Amendments to the International Convention on Standards of Training, Certification and Watchkeeping for Seafarers, 1978.”

We received one comment recommending the rules be consistent in the use of the term QMED for “Qualified Member of the Engine Department.”

We agree. It is appropriate to establish an abbreviation in the text that can then be used in subsequent sections of the rules. We have revised § 11.518 to provide the abbreviation, and then used the term “QMED” for the remainder of that subpart.

We received one comment questioning the retention of the term Commanding Officer, National Maritime Center in §§ 12.05-7(b) and 12.10-3(a).

We have removed the term commanding officer from those sections.

We received two comments asking why the language referring to the United States collector or deputy collector of customs was left in the regulations in §§ 12.10-1 and 15.701(c), even though we removed the language referring to the shipping commissioner.

We removed the reference to the shipping commissioner because it was a function the Coast Guard previously performed, but no longer performs. The term United States Collector of Customs now falls under the responsibility of the Customs and Border Patrol (CBP) Port Director, and this change has been incorporated in this final rule.

We received one comment noting that we left out the shipping commissioner language in § 12.15-1. We have made this correction in this final rule.

We received one comment questioning why there was a difference in language between §§ 13.407 and 13.507, when it did not appear that there should be a difference in the language.

We agree with this comment, and have revised § 13.507 accordingly in this final rule.

We received one comment seeking clarification on § 401.210(a)(6), which allows a Great Lakes Pilot to have either an MMD or a TWIC.

This option was left in place because this final rule will go into effect before all mariners are required to hold a TWIC, therefore there will be a period where individuals might hold an MMD without a TWIC. We have revised the language to ensure that, on April 15, 2009, (the date when all mariners must hold a TWIC) only a TWIC will be acceptable.

I. Continuity Documents

We received one comment asking us to leave the decision whether to retain a continuity license and TWIC, or document of continuity without TWIC, to the license holder.

As an agency, we have decided not to continue to issue continuity licenses, but rather only documents of continuity. Should a mariner choose to obtain a TWIC, but seek to obtain an MMC for continuity purposes only, they will still receive a document of continuity. This decision is based on a desire to consolidate as many of our pre-existing credentials into the fewest number of mariner credentials as possible.

J. Definitions

We received two comments stating that the definition for “day” should not have been revised regarding 100-ton vessels and the service for Mobile Offshore Drilling Units (MODU) needed to be removed from the definition.

We disagree. The definition of “day” for vessels of 100 Gross Register Tons (GRT) or less was not significantly revised—we opted to use the more generic reference of Coast Guard rather than Officer in Charge, Marine Inspection. The definition of “day” for MODUs was already included in that definition in the pre-existing 46 CFR 10.103 under “service as.” We are including it in this definition in order to consolidate all definitions for “day” in one location.

We received two comments recommending that the definition for “safe and suitable person” should refer to 46 CFR 10.211.

While we do not believe it is necessary to make the connection between the definition and 46 CFR 10.211, we made the change to assist the mariner.

We received one comment stating the definition for “senior company official” needs clarification. This definition is consistent with the existing definition currently found in 46 CFR 10.103, therefore no change has been made.

We received one comment stating the Coast Guard should fully analyze the change of the application of the definition of “operate, operating or operation” to the entire Subchapter B.

We disagree. The definition is restricted to the manning requirements, and therefore analyzing its application throughout the entire subchapter would not be appropriate.

We received one comment recommending that a section be inserted at 46 CFR 12.01-6 to direct the reader to the definitions found in 46 CFR 10.107.

We disagree. This final rule is a consolidation of the pre-existing regulations, and as part of that consolidation, all definitions are found in the beginning of the subchapter. We believe that mariners and others who use these regulations will quickly adjust to looking in one spot (46 CFR 10.107) for definitions that apply throughout the subchapter.

We received one comment that stated that the definition for “credential” was out of order. We agree and have renumbered it at 46 CFR 42.05-27.

We received a comment stating that the definition for “merchant mariner credential” needs to be added to 46 CFR Parts 70, 91, 114, 125, 160, 169, 175, 188, and 199.

We disagree. The minimal addition of the phrase “merchant mariner credential” to those parts does not necessitate the addition of that definition. We note that those parts previously referenced either an MMD or a license (or both), with neither of those terms defined in those parts, without confusion.

We received one comment recommending the definition for “conviction” not refer to decisions made by a foreign country's court of record.

We disagree. This definition is consistent with the existing definition for “conviction.” This rulemaking is about the MMC, not changing the qualifications for licensing, and it is therefore beyond the scope of this rulemaking to address the meaning of the term “conviction.

We received one recommendation that the definition for “regional examination center” should be revised to incorporate upcoming changes to the National Maritime Center and Regional Examination Center system.

While we agree that the change is necessary, it is beyond the scope of this rulemaking as the change needs to be made in more places in the CFR than just those being amended by this final rule. Some of these changes were recently made as part of a series of technical amendments to Title 46 of the CFR. 73 FR 56505.

K. Fees

We received one comment stating that while the MMC rule might reduce cost to the mariners, the entire TWIC/MMC rulemaking increases costs to the mariners.

While we recognize that the new TWIC requirement carries a new fee, the regulatory analysis for that project considered that new fee as a part of its cost and benefit analysis, thus it is inappropriate for that cost to be counted again in this final rule. The regulatory analysis for this rulemaking only considers the costs and benefits associated with the changes made by this final rule.

L. Format

We received one comment asking that the Coast Guard make a certificate suitable-for-framing with the officer information printed upon it, in addition to the final MMC.

We disagree. While this was also the recommendation from Merchant Marine Personnel Advisory Committee (MERPAC), the Coast Guard has decided not to produce such a document at this time since this rulemaking's purpose is to consolidate credentials.

We received one comment stating that MERPAC has gone on record opposing the MMC.

We disagree. We have reviewed the recommendations from MERPAC, and have found no facts which would support this statement.

We received one comment recommending the use of the term “license endorsement” rather than “officer endorsement”.

We disagree. “License” merely signifies permission granted from a government. In our view, “officer” is more the appropriate term as it signifies an individual who is in a position of authority.

We received one comment recommending a new certificate of qualification be developed for ratings, and that the Coast Guard continue to issue two separate credentials.

We disagree. We are seeking to develop a consolidated credential where an individual could have all of their qualifications in a single location.

We received four comments recommending the MMC be designed to meet the requirements of ILO 185.

We agree. This was one of the items taken into account during the style selection process, as well as one of the reasons we could not combine the MMC with the TWIC. While the initial MMCs may not be ILO 185 compliant, as it will take some time to ensure the new credential meets all of the requirements, the Coast Guard is working diligently to bring the MMC into full ILO 185 compliance.

We received one comment recommending the expiration dates of the MMC and TWIC be aligned.

We disagree. This is not necessary and in some cases may not be in the best interests of those impacted by the regulations. We considered the costs associated with both documents, and believe that it may be economically advantageous to some mariners if the MMC and TWIC expiration dates do not align. However, those mariners wishing to bring these expiration dates into alignment may do so under this final rule.

M. Large Passenger Vessels

We received one comment stating that the Coast Guard needed to incorporate the Large Passenger Vessel Crew Requirements (RIN: 1625-AB16) that were published in the Interim Rule on April 24, 2007 (72 FR 20278). We received one comment recommending that 46 CFR 10.211(a)(2) be amended to include new subsection (d) for aliens in the steward's department on large passenger vessels. We received one comment recommending that we incorporate the MMC language in 46 CFR Parts 12 and 15 relating to large passenger vessel crew requirements.

We agree with these suggestions and have incorporated the changes made by the interim rule into this final rule.

N. License Creep

We received four comments requesting the effective date of a mariner's renewed credential be the same as the expiration date (i.e. delayed issue of the credential).

We agree, in part. While the Coast Guard agrees with this comment, we are awaiting authority from Congress to make such a change. Currently, Congress requires that the Coast Guard issue credentials for five years. In order to take action on this comment, the Coast Guard requires statutory authority to issue a credential that is valid for a period beyond 5 years.

We received one comment stating that this rule does nothing to reduce license creep.

It is our hope that the streamlining features established by this rule will reduce license creep; additionally, the Coast Guard is moving forward with the reorganizations of the National Maritime Center and the Regional Examination Centers, both of which are more focused on improvement of processes.

O. Medical

We received one comment recommending that we require general medical exams for all mariners, including entry-level mariners.

We disagree. We do not have authority to require such exams.

We received two comments recommending Column 5 of table 46 CFR 10.215 be revised to read, “may be required to demonstrate physical ability”.

We agree with the intent of this suggestion. However, we have opted to remove the “x” from the box and add, in its place, the appropriate paragraph which provides the specific requirement and applicability of the demonstration of physical ability. This should eliminate some confusion over who must “demonstrate physical ability”.

We received one comment recommending revision to 46 CFR 10.215(c) to allow medical examiners to perform the audiometer/speech discrimination tests.

We agree and have made the suggested change. Medical examiners who are qualified to conduct the necessary hearing tests will be authorized to perform them.

We received one comment requesting an evaluation of 46 CFR 10.215(e) with regard to the Americans with Disabilities Act (ADA), and to either revise the paragraph or state that the ADA does not apply. The commenter seems to be concerned that medical examiners will require the demonstration of physical ability in more places than necessary to avoid potential lawsuits.

While we agree that this requirement is only mandatory for those mariners who are not undergoing a medical examination or those whom the medical examiner believes are physically unable to perform the duties of a merchant mariner, we do not believe it is appropriate to add the suggested language into the regulations.

We received one comment stating that the demonstration of physical ability: (1) Fails to provide sufficient information to ensure consistent test results, (2) will result in increased cost per examination, and (3) will increase the time needed to obtain medical results.

We disagree. The regulations provide general statements of what is required of the mariner, and additional information is available in Navigation and Inspection Circular (NVIC) 04-08, which was issued by the Coast Guard on September 18, 2008. (NVIC 04-08 replaced NVIC 02-98, incorporating developments and advancements in modern medical practices as well as improvements in the medical evaluation process.) We encourage the public to review the discussions of physical ability, examiner alternatives and current industry practice in the September 29, 2008 notice of availability for the NVIC. 73 FR 56600.

Additionally, this requirement is not going to apply to all mariners. It will only apply to those mariners whose physical ability might negatively impact maritime safety, as determined by their medical examiner during the course of normal physical examination. This demonstration will save the applicant an investment of time and money when an unknown medical or physical condition may prevent the issuance of the credential sought based on ability. It will also assist the Coast Guard in issuing a credential with certain limitations instead of denying the credential altogether or requiring additional tests. Both medical exams and demonstrations of physical ability are currently practiced and required under STCW Code. This rule clarifies the STCW requirement for physical ability; it does not alter it in any way. Based on consultation with medical practitioners, the National Maritime Center, and the Merchant Marine Personnel Advisory Committee (MERPAC), the determination of need for and demonstration of physical ability is part of common medical practice and will not result in a net change in baseline examination time and costs to industry.

We received one comment stating that the medical examiner is not the appropriate person to attest the mariner's ability to meet the demonstration of physical ability, since it is not a medical exam but a physical agility test.

We disagree. However, we note that it is not necessary for the actual medical examiner to conduct the demonstration of physical ability, only that he or she signs for (“attest to”) evaluations conducted by those within their medical practice.

We received one comment stating that the medical examiner should not be required to attest in writing to the applicant's ability to perform non-medical tasks, rather it should be provided by the actual person performing the evaluation.

We disagree. Medical examiners routinely sign-off for the tests/exams performed by persons within their practice. This evaluation should not be different.

We received one comment requesting that language be added requiring mariners to report changes in their medical condition.

The Coast Guard does not believe it is appropriate to add that requirement in this rule, as it was not contemplated or proposed in the SNPRM. In the future, the Coast Guard intends to develop regulations specifically on the medical requirements for merchant mariners. This ensures that an adequate review of the requirements can be made by those impacted by the regulations.

We received two comments recommending 46 CFR 10.215 (b) be revised to require the color vision test for original issue only.

The Coast Guard does not believe it is appropriate to make this revision in this final rule. We are limiting the changes made by this final rule to those medical issues that were proposed in the SNPRM, to consolidate the various credentials issued by the Coast Guard to mariners, and to reorganize the regulations governing the applications for, issuance of, and qualifications for those credentials. As previously mentioned, the Coast Guard intends to develop regulations specifically addressing medical requirements for mariners. We will keep this comment in mind for future reference, as we develop regulations specifically on the medical requirements for merchant mariners.

We received two comments recommending table 10.215(a) be clarified so that hearing, vision, and physical demonstration only be required if the medical practitioner has concerns.

We agree, in part. The requirements regarding vision will be checked at each examination, which is a requirement consistent with the other modes of transportation. The hearing and demonstration of physical ability will only be required if the medical examiner has concerns regarding the applicant's medical condition as it relates to a possible negative impact on maritime safety.

We received two comments recommending that 46 CFR 10.227 be revised to allow proof of physical proficiency to be submitted on an alternative to the 719K.

We disagree. At this time, we do not have an alternative form approved for such use. Those revisions will have to be completed in a rulemaking process which provides the public with adequate opportunity to comment.

We received one comment recommending 46 CFR 10.215 be revised to ensure that the vision and hearing requirements match those on any proposed medical NVIC.

We agree. Any NVIC must be based upon the regulations which they clarify, and therefore cannot include reference to requirements outside of those found in the regulations.

We received one comment recommending 46 CFR 12.05-5 provide a reference to 46 CFR 10.215.

We agree that such a reference would be appropriate and have made the suggested change.

P. National Maritime Center

We received one comment recommending 46 CFR 10.217 be revised to provide the address to the new medical branch of the NMC.

We disagree. Merchant mariner applications will continue to be submitted to the servicing Regional Examination Centers listed in the regulations until such time as those requirements are revised through appropriate notice and comment.

We received one comment stating that 46 CFR 10.217 seems to contradict the new reorganization of the Mariner Licensing and Documentation (MLD) Program.

We recognize the inconsistency. The Coast Guard is still in the process of reorganizing the MLD program. Some of these changes were recently made in a series of technical amendments to Title 46 of the CFR. 73 FR 56505.

We received one comment stating that 46 CFR 10.02-17(f) and (g) appear to give the Officer in Charge of Marine Inspection (OCMI) the authority to refuse an examination.

This is true. Until the reorganization of the MLD program is complete, the OCMI will still retain that authority. However, in an effort to reduce confusion, and in preparation of the reorganization, we have revised “OCMI” to “Coast Guard”.

Q. Oaths

We received one comment requesting that the oath not be required. At this time, the Coast Guard is not able to remove the oath requirement from the regulations, as it is also a statutory requirement (46 U.S.C. 7105).

R. Pilots

We received one comment stating that the MMC would result in lowering the standards for pilots.

We disagree. This final rule does not substantially change the requirements for pilots. The only changes made were based upon changes in terminology.

We received one comment stating that first class pilot endorsements were absent from the list of endorsements in 46 CFR 10.109.

We agree and have made the suggested change.

We received three comments stating that 46 CFR 15.812 is confusing, and possibly implies any officer can fulfill the requirements of a first class pilot.

We agree that portions of this section are confusing, and have revised it to ensure the language is consistent with the existing requirements and comprehensible.

S. Posting of Credential

We received one comment stating that 46 CFR 10.203(c) and (d) confuses the issue regarding the posting of the document.

We disagree. The posting of the credential is not inconsistent with this requirement, since the mariner is normally on the vessel with his or her credential. However, in order to clarify this, we have added a reference to the posting requirement in 10.203(c).

T. Social Security Numbers

We received one comment requesting that the Social Security Number (SSN) not be used for recordkeeping purposes as proposed in 46 CFR 10.207.

While we recognize the need to protect the SSN, it still remains the best method of correlating records on an individual. We will retain the SSN for internal recordkeeping purposes only.

U. International Convention on the Standards on Training, Certification, and Watchkeeping for Seafarers, 1978, as Amended (STCW)

We received one comment recommending 46 CFR 10.205(f) be deleted because it is unnecessarily confusing.

We disagree. This language is consistent with our existing requirements; changing it is outside the scope of this project. This change will be considered, in a separate rulemaking titled “Implementation of the 1995 Amendments to the International Convention on Standards of Training, Certification and Watchkeeping for Seafarers, 1978.”

We received one comment recommending that the date, January 31, 1997, referenced in 46 CFR 11.1005 be removed. We agree with this comment and have made the suggested change.

We received one comment expressing concern that 46 CFR 12.02-7 may be in error and that there may be additional vessels greater than 200 GRT/1000 Hp to which STCW applies.

We disagree. This language was carried over exactly from the existing requirements located at 46 CFR 12.02-7.

We received two comments seeking clarification for why the dates were left in 12.05-3(b) and 12.15-3, and not in 12.05-3(c) and 12.15-3(e).

These dates were retained because removing them would have amounted to a substantive change to the regulations, which is outside the scope of this rulemaking. This revision will be considered, in a separate rulemaking titled “Implementation of the 1995 Amendments to the International Convention on Standards of Training, Certification and Watchkeeping for Seafarers, 1978.”

V. Training

We received one comment stating there is an inconsistency in 46 CFR 11.304 between the requirements for Officer in Charge of Navigational Watch (OICNW) and Officer in Charge of Engineering Watch (OICEW) regarding onboard training.

While we agree there is an inconsistency, it is not accidental. These requirements are inconsistent because the requirements for OICNW and OICEW within the STCW are different.

W. Integration With TWIC

We received one comment asking why a TWIC was required in both 11.304(g) and (h).

While drafting the SNPRM, the TWIC requirement was added because it was thought that an identity document would be necessary to determine the identity of each individual involved in the training process. However, upon reflection, there is no need to require the number of the TWIC be included for the identity of the individual, especially since not everyone involved in the training will hold a TWIC. We have, therefore, removed it from this final rule.

We received four comments expressing concern that the delay in the issuance of the TWIC could and should delay the issuance of the MMC.

We disagree. While there may be a delay in fully implementing all of the provisions within the MMC rule, such as the sharing of information between TSA and Coast Guard, once the credential is ready to be issued by the Coast Guard, it would be appropriate to move forward with the rule. As such, we have included language in this final rule that was not included in the SNPRM, that will allow the Coast Guard to issue MMCs, continue performing full background checks (for both safety and security), and require the appearance of the mariner in person for application of new and renewal MMCs, even before the regulatory requirement for mariners to obtain a TWIC is passed.

We received one comment stating that an automatic revocation of the MMC is inappropriate when the TWIC is invalidated and proposed a temporary suspension.

We agree. There will not be an automatic revocation of an MMC when the TWIC is denied or has been revoked. Any action against the MMC will be taken through the existing Suspensions and Revocations (S&R) procedure. However, because a mariner who lacks a valid TWIC will not be permitted unescorted access to secure areas, this will likely preclude performance of normal job functions on a vessel regulated by 33 CFR part 104.

We received one comment stating that the TWIC should not be a requirement for the issue or reissue of an MMC.

We disagree. Statute requires all mariners who are credentialed by the Coast Guard to hold a transportation security card (46 U.S.C. 70105). Further, the statute specifically includes all mariners engaged on towing vessels, which would include the unlicensed deckhands on inland towing vessels.

We received one comment requesting that we wait a full 5 years before suspending or revoking a mariner's credential for failing to hold a TWIC.

We disagree. The TWIC final rule requires a mariner holding a credential issued by the Coast Guard to apply for and activate a TWIC prior to April 15, 2009. After this date, a mariner failing to hold a TWIC would be in violation of this requirement, and the Coast Guard may begin suspension and revocation (S&R) proceedings.

We received one comment asking us to ensure that S&R proceedings against an MMC would not begin until the appeals regarding the TWIC have been exhausted.

We disagree. Under normal circumstances, S&R proceedings will not begin until all appeals regarding the TWIC have been completed. However, if the Coast Guard is provided with information considered sufficient to justify a temporary suspension of the MMC, then that action will be started immediately.

We received one comment asking if mariners will be able to serve during times of national need without a TWIC. At this time, 46 U.S.C. 70105 does not provide flexibility to allow a mariner to serve without a TWIC.

We received one comment stating that 10.235(h) contradicted the preamble language for appeals.

While we note that the language in the rule is not the same as the language in the preamble, the preamble also states that, if the situation warrants, we would pursue temporary suspension under 46 U.S.C. 7702, which also is not specifically detailed in the regulations. See discussion under “4. Appeals” at 72 FR 3609.

We received one comment recommending that § 15.401 be amended to include the abbreviation for TWIC following the phrase. We have made the suggested edit.

We received one comment recommending that language be added to § 15.720(a) clearly stating that foreign persons would be subject to the escorting requirements in the TWIC regulations.

While we agree that these foreign individuals are only allowed to be used in foreign waters when U.S. citizens are unavailable to fill those positions, we have not made the suggested change. The appropriate revision would be to add a requirement that the crew be replaced with U.S. citizens with the appropriate credentials before returning to a United States port. Such a change, however, would go beyond what was included in either the NPRM or the SNPRM. We will keep this suggestion in mind for future rulemaking projects in this area.

We received one comment stating opposition to TSA being involved in the credentialing of mariners; this opposition included their involvement in the background checks.

This comment is beyond the scope of this rulemaking, as the function to administer 46 U.S.C. 70105 (the TWIC requirement) was delegated to TSA, not the Coast Guard.

We received one comment expressing opposition to the Coast Guard in not reviewing TSA's decisions regarding the TWIC.

We disagree. It is not appropriate for the Coast Guard to review or duplicate TSA's performance in conducting the security vetting, as well as the possible appeals associated with any TWIC denial. TSA has provided opportunity in its regulations for independent review, by an Administrative Law Judge, of any adverse decisions in regard to the TWIC.

X. Questions Outside the Scope of This Rulemaking

We received a number of comments that the Coast Guard determined to be outside the scope of this rulemaking. These comments were forwarded to the appropriate organizations for consideration in future regulatory actions.

VI. Regulatory Evaluation

We developed this rule after considering numerous statutes and executive orders related to rulemaking. Below we summarize our analysis based on 13 of these statutes or executive orders.

A. Executive Order 12866

This rule is not a “significant regulatory action” under section 3(f) of Executive Order 12866, Regulatory Planning and Review, and does not require an assessment of potential costs and benefits under section 6(a)(3) of that Order. The Office of Management and Budget has not reviewed it under that Order. A final Regulatory Evaluation follows:

This rule makes substantive changes to the requirements in 46 CFR parts 10, 12, 13, 14, and 15 for the form on which the mariner's qualifications appear and the credential that will serve as the mariner's primary identification credential, and makes many non-substantive nomenclature changes throughout Titles 33 and 46 of the Code of Federal Regulations. Title 46 lays out the standards for merchant mariners, including eligibility and training requirements to obtain credentials needed to serve in one of the many roles in the merchant marine; wherever possible, this rulemaking will not change these qualification requirements. This rulemaking will combine the elements of the Merchant Mariner's License, Merchant Mariner's Document (MMD), Standards of Training, Certification and Watchkeeping (STCW) Endorsement, and Certificate of Registry (COR) into one document, called the Merchant Mariner Credential (MMC). Although it technically serves as a certificate of identification, practically, the MMC would serve as the mariner's qualification document.

This rulemaking project was developed in conjunction with a joint rulemaking project, published by the Coast Guard and the Transportation Security Administration, titled “Transportation Worker Identification Credential (TWIC) Implementation in the Maritime Sector; Hazardous Materials Endorsement for a Commercial Driver's License” (the “TWIC rule”; RIN: 1652-AA41). The final rule for that joint project was published on January 25, 2007, in the same issue of the Federal Register as the SNPRM for this project.

The TWIC rule implemented the requirements of 46 U.S.C. 70105 and requires all merchant mariners holding an active License, MMD, COR, or STCW Endorsement to hold a TWIC. The TWIC is a biometric identification card, and will serve as the mariner's primary identity document while in U.S. waters. With this final rule, the MMD, License, COR, and STCW Endorsement will be consolidated into the MMC, which will serve as the mariner's qualification document, as well as an identity document (though the latter primarily when the mariner is serving outside of U.S. waters). All current qualification and suitability requirements associated with Licenses, MMDs, STCW Endorsements, and CORs remain the same, with only minor exceptions.

Prior to the effective date of this final rule, all four credentials (MMD, License, COR, and STCW Endorsement) were issued at one of 17 Coast Guard Regional Examination Centers (RECs). For first time applicants, the process of obtaining an MMD, License, COR, or STCW Endorsement required at least two visits to an REC. During the first visit, an applicant had to be fingerprinted by, and establish his or her identity and legal presence in the U.S. to, an REC employee.

After the successful completion of a safety and security review, verification of an applicant's identity, and verification that the applicant had satisfied all other requirements for the particular credential sought, an REC issued the credential to the applicant. For first time applicants, this required a return trip to the REC to retrieve their credential and take an oath to faithfully perform all duties required of them by law. Individuals renewing credentials did not need to restate the oath and could receive their renewed credentials by mail. However, all applicants, those seeking new credentials as well as those seeking to renew their credentials, had to travel to an REC once in the application process to be fingerprinted by, and show proof of identification to, an REC employee.

The requirements to receive a TWIC are similar to the requirements to receive an MMD, License, COR, or STCW Endorsement. In order for an applicant to receive a TWIC, the applicant is required to travel to a designated TWIC enrollment center to submit fingerprints, proof of identity, and legal presence in the U.S. A background check is conducted to determine that the applicant is not a security risk. Once an applicant has been approved, the applicant must return to the TWIC enrollment center to pick up the TWIC and prove their identity by a one-to-one match of the applicant's fingerprint against the electronic fingerprint template stored on the card.

Soon, TSA will submit to the Coast Guard the applicant's fingerprints, photograph, proof of citizenship, proof of legal presence in the U.S., and FBI number and any criminal record (if applicable) provided with the individual's TWIC application.

Since the applicant's fingerprints, photograph and proof of citizenship, and identity will have been verified by TSA and submitted to the Coast Guard, this final rule removes the requirement for a merchant mariner to travel to an REC to submit this information to an REC employee. In addition to allowing the merchant mariner to mail in their application, this rule will also allow new applicants to mail in their notarized oath, which would be a nominal cost to the applicant. This will remove the requirement for a second trip to the REC to pick up their card and take the oath. This rulemaking creates the possibility for a mariner to receive his or her MMC entirely through the mail.

Written examinations will still occur at RECs, and the RECs will remain accessible to mariners should they choose to seek their services in person.

This rulemaking will also remove the $45 issuance fee for continuity licenses and MMDs. These documents are issued to applicants for renewal of licenses and MMDs that are endorsed with qualified ratings who are unwilling or otherwise unable to meet all the requirements to serve and allows the mariner to renew the license or MMD with the following restrictive endorsement placed on the license: “License renewed for continuity purposes only; service under the authority of this license is prohibited.” Merchant mariner's documents are issued with the following restrictive endorsement: “Continuity only; service under document prohibited.”

The following sections discuss the baseline population of applicants that will be affected by this rulemaking and provides an assessment of the impacts to merchant mariners by this rulemaking.

Baseline Population

The Coast Guard data for the number of affected merchant mariners came from the NMC, which provides credentialing, training, and certification services to all merchant mariners. There are approximately 205,000 credentialed merchant mariners. The NMC also estimates that the current population of mariners with a continuity document is approximately 4,500. In addition to the current population of merchant mariners, there are a number of new applicants every year.

Assessment

Under the current rule, applicants pay a $45 issuance fee for each credential that they apply for. Under this rulemaking the applicants will only apply for a single credential (the MMC) and as a result will only be required to pay one $45 issuance fee regardless of the number of endorsements that they carry. This change is not a reduction in any fee that a mariner must pay, but a reduction in the number of fees that the mariner must pay. Any mariner that would, under the current rules, solicit multiple mariner qualifying documents (such as both an MMD and a License), will benefit from this change in the fee structure.

If the merchant mariner has not synchronized the expiration dates of his or her current credentials, then they may currently be traveling to an REC multiple times within a five-year span. The issuance of the MMC will require mariners to track and update only one document and will potentially eliminate the need to travel to an REC entirely. This will provide greater flexibility to the mariner. Currently, approximately 13,843 mariners have more than one credential and have not aligned their expiration dates. These mariners will not only receive a benefit from reduced application fees, but also from fewer, if any, trips to a REC.

In order to reduce the burden of traveling and having to apply for a new MMC before the mariner's current MMD, License, COR, or STCW Endorsement expires, this rulemaking will allow mariners to apply for an MMC at the time that their current credentials expire, which will essentially phase in the MMC over a five-year period. Since all currently issued credentials are valid for five-year periods, all mariners will have to renew their credentials by the close of the five-year grace period. When a mariner applies to renew his or her MMD, License, COR, or STCW Endorsement, they will instead be issued an MMC, which will reflect all of their qualifications in the form of endorsements on the MMC. This will allow mariners to apply over a longer period of time and will not create an additional burden by requiring mariners to make an extra trip to the RECs. Mariners whose credentials do not expire simultaneously may choose to wait to renew the credentials that have yet to expire, but if the applicant later chooses to renew that credential, the expiration date of the MMC on which the endorsement would be added will not change unless the mariner also renews all other endorsements on the MMC.

Currently, mariners may only renew their credentials within 12 months of their expiration date. This rulemaking will allow mariners to apply for renewal anytime before their current credentials expire and up to one year after the expiration date. As a result, this rulemaking will provide greater flexibility to mariners by allowing them to apply for an MMC at the time they choose.

In a separate Coast Guard rulemaking document, published on January 13, 2006 (71 FR 2154), it was estimated that approximately 60 percent of current mariners live within one-day roundtrip travel to an REC, 30 percent live within overnight roundtrip travel (one night and two days) to an REC, and 10 percent live at a distance greater than overnight roundtrip travel (greater than one night and two days) to an REC. This was derived from national percentages for all mariners who have addresses on file with the NMC. In the TWIC rule, TSA and the Coast Guard estimated that there would be many more TWIC enrollment centers than Coast Guard RECs (we now know that number will be 149 vice 17 RECs). By allowing mariners to visit TWIC enrollment centers instead of RECs, this rule will provide a potential benefit for many mariners by reducing the travel costs and time currently required to receive a credential.

In the separate rulemaking document (referenced above), the cost for mariners to travel to and from one of 17 RECs was estimated. The travel cost to mariners for a one-day roundtrip travel to and from an REC was given as $387. The estimated cost to mariners for overnight roundtrip travel was $911. Applicants who live distances greater than 200 miles and must travel for more than one night were determined to incur the maximum estimated cost of $1,185.

The TWIC has the effect of transferring the cost of travel from an REC to the cost of travel to a TWIC enrollment center, but that cost is associated with the TWIC rule, not with this rule. The overall cost for mariners associated with this rulemaking will decrease or remain the same and will serve to provide more flexibility to mariners. As there will be more TWIC enrollment centers than RECs, the distance required and the amount of time spent traveling will be reduced for most mariners. Based on the percentages above, 60 percent of the mariners that live within one-day roundtrip travel will potentially receive the economic benefits of having a TWIC enrollment center located closer to them than one of the current RECs. The remaining 30 percent of mariners that live within an overnight round-trip travel and the 10 percent of mariners that live a distance greater than an overnight roundtrip travel have an increased likelihood of having a TWIC enrollment center located closer to them than one of the current RECs and will potentially receive an even greater benefit in travel cost savings from this rule.

In addition to these benefits, the removal of the issuance fee for continuity documents will provide mariners who choose to apply for a continuity document a savings of $45.

B. Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

We do not expect this rule to have a significant impact on a large number of small entities. This rulemaking consolidates the number of credentials merchant mariners must carry and streamlines the application process in a way that would help prevent abuse, reduce cost, and assist the Coast Guard in its effort to help secure U.S. marine infrastructure, commercial activities, and the free flow of trade.

The Coast Guard certifies under 5 U.S.C. 605(b) that this rule will not have a significant economic impact on a substantial number of U.S. small entities.

C. Assistance for Small Entities

Under section 213(a) of the Small Business Regulatory Enforcement Fairness Act of 1996 (Pub. L. 104-121), we offered to assist small entities in understanding the rule so that they could better evaluate its effects on them and participate in the rulemaking. If this rule will affect your small business, organization, or governmental jurisdiction and you have questions concerning its provisions or options for compliance, please contact the individuals listed above in the section titled FOR FURTHER INFORMATION CONTACT.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

D. Collection of Information

This rule calls for a collection of information under the Paperwork Reduction Act of 1995 (44 U.S.C. 3501-3520). This rulemaking will require the modification of one or more credentialing program collections of information currently approved by the Office of Management and Budget (OMB) under OMB Control Numbers 1625-0040, 1625-0012, 1625-0078, and 1625-0079. However, the changes from this rule which require modification of these collections of information will not go into effect until after April 15, 2009, when TSA begins sharing TWIC enrollment information with the Coast Guard. A number of policy decisions must be made before the changes to those collections can be finalized, such as how the information will be transferred from TSA to the Coast Guard, methods of submission for mariners, and the format of a new application form once Coast Guard is receiving information from TSA. Because these regulatory changes will not go into effect immediately, approval for revisions to these OMB Control Numbers will not be submitted to OMB until these policy decisions have been made.

The changes made by this rule that go into effect in 30 days are burden neutral, and as such do not require immediate revision to the collections of information listed above.

You are not required to respond to a collection of information unless it displays a currently valid OMB control number.

E. Federalism

A rule has implications for federalism under Executive Order 13132, Federalism, if it has a substantial direct effect on state or local governments and would either preempt State law or impose a substantial direct cost of compliance on them.

We have analyzed this rule under that Order and have determined that it does not have implications for federalism.

F. Unfunded Mandates Reform Act

The Unfunded Mandates Reform Act of 1995 (2 U.S.C. 1531-1538) requires Federal agencies to assess the effects of their discretionary regulatory actions. In particular, the Act addresses actions that may result in the expenditure by a state, local, or tribal government, in the aggregate, or by the private sector of $100,000,000 or more in any one year. Though this rule will not result in such an expenditure, we do discuss the effects of this rule elsewhere in this preamble.

G. Taking of Private Property

This rule will not effect a taking of private property or otherwise have taking implications under Executive Order 12630, Governmental Actions and Interference with Constitutionally Protected Property Rights.

H. Civil Justice Reform

This rule meets applicable standards in sections 3(a) and 3(b)(2) of Executive Order 12988, Civil Justice Reform, to minimize litigation, eliminate ambiguity, and reduce burden.

I. Protection of Children

We have analyzed this rule under Executive Order 13045, Protection of Children from Environmental Health Risks and Safety Risks. This rule is not an economically significant rule and does not create an environmental risk to health or safety that may disproportionately affect children.

J. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

K. Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, the Coast Guard did not consider the use of voluntary consensus standards.

M. Environment

We have analyzed this rule under Department of Homeland Security Management Directive 0023.1 and Commandant Instruction M16475.1D, which guide the Coast Guard in complying with the National Environmental Policy Act of 1969 (NEPA) (42 U.S.C. 4321-4370f), and have concluded that this action is one of a category of actions which do not individually or cumulatively have a significant effect on the human environment. This rule is categorically excluded under section 2.B.2 Figure 2-1, paragraph (34)(c) of the Instruction. This rule involves the training, qualifying, licensing, and disciplining of maritime personnel and involves matters of procedure only; it consolidates the credentials issued to merchant mariners and revises the application process for issuing those credentials. An environmental analysis checklist and a categorical exclusion determination are available in the docket where indicated under ADDRESSES.

List of Subjects

33 CFR Part 1

Administrative practice and procedure, Authority delegations (Government agencies), Freedom of information, Penalties.

33 CFR Part 20

Administrative practice and procedure, Hazardous substances, Oil pollution, Penalties, Water pollution control.

33 CFR Part 70

Navigation (water) and Penalties.

33 CFR Part 95

Alcohol abuse, Drug abuse, Marine safety, and Penalties.

33 CFR Part 101

Harbors, Maritime security, Reporting and recordkeeping requirements, Security measures, Vessels, Waterways.

33 CFR Part 110

Anchorage grounds.

33 CFR Part 141

Citizenship and naturalization, Continental shelf, Employment, Reporting and recordkeeping requirements.

33 CFR Part 155

Alaska, Hazardous substances, Oil pollution, Reporting and recordkeeping requirements.

33 CFR Part 156

Hazardous substances, Oil pollution, Reporting and recordkeeping requirements, Water pollution control.

33 CFR Part 160

Administrative practice and procedure, Harbors, Hazardous materials transportation, Marine safety, Navigation (water), Reporting and recordkeeping requirements, Vessels, Waterways.

33 CFR Part 162

Navigation (water) and Waterways.

33 CFR Part 163

Cargo vessels, Harbors, Navigation (water), Waterways.

33 CFR Part 164

Marine safety, Navigation (water), Reporting and recordkeeping requirements, Waterways.

33 CFR Part 165

Harbors, Marine safety, Navigation (water), Reporting and recordkeeping requirements, Security measures, Waterways.

46 CFR Part 1

Administrative practice and procedure, Organization and functions (Government agencies), Reporting and recordkeeping requirements.

46 CFR Part 4

Administrative practice and procedure, Drug testing, Investigations, Marine safety, Nuclear vessels, Radiation protection, Reporting and recordkeeping requirements, Safety, Transportation.

46 CFR Part 5

Administrative practice and procedure, Alcohol abuse, Drug abuse, Investigations, Seamen.

46 CFR Part 10

Incorporation by reference, Penalties, Reporting and recordkeeping requirements, Seamen, Transportation Worker Identification Card.

46 CFR Part 11

Incorporation by reference, Penalties, Reporting and recordkeeping requirements, Schools, Seamen.

46 CFR Part 12

Incorporation by reference, Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 16

Drug testing, Marine safety, Reporting and recordkeeping requirements, Safety, Transportation.

46 CFR Part 26

Marine safety, Penalties, Reporting and recordkeeping requirements.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 35

Cargo vessels, Marine safety, Navigation (water), Occupational safety and health, Reporting and recordkeeping requirements, Seamen.

46 CFR Part 42

Penalties, Reporting and recordkeeping requirements, Vessels.

46 CFR Part 58

Reporting and recordkeeping requirements, Vessels.

46 CFR Part 61

Reporting and recordkeeping requirements, Vessels.

46 CFR Part 78

Marine safety, Navigation (water), Passenger vessels, Penalties, Reporting and recordkeeping requirements.

46 CFR Part 97

Cargo vessels, Marine safety, Navigation (water), Reporting and recordkeeping requirements.

46 CFR Part 98

Cargo vessels, Hazardous materials transportation, Marine safety, Reporting and recordkeeping requirements, Water pollution control.

46 CFR Part 105

Cargo vessels, Fishing vessels, Hazardous materials transportation, Marine safety, Petroleum, Seamen.

46 CFR Part 114

Marine safety, Passenger vessels, Reporting and recordkeeping requirements.

46 CFR Part 115

Fire prevention, Marine safety, Passenger vessels, Reporting and recordkeeping requirements.

46 CFR Part 122

Marine safety, Passenger vessels, Penalties, Reporting and recordkeeping requirements.

46 CFR Part 125

Administrative practice and procedure, Cargo vessels, Hazardous materials transportation, Marine safety, Seamen.

46 CFR Part 131

Cargo vessels, Fire prevention, Marine safety, Navigation (water), Occupational safety and health, Reporting and recordkeeping requirements.

46 CFR Part 151

Cargo vessels, Hazardous materials transportation, Marine safety, Reporting and recordkeeping requirements, Water pollution control.

46 CFR Part 166

Schools, Seamen, Vessels.

46 CFR Part 169

Fire prevention, Marine safety, Reporting and recordkeeping requirements, Schools, Vessels.

46 CFR Part 175

Marine safety, Passenger vessels, Reporting and recordkeeping requirements.

46 CFR Part 176

Fire prevention, Marine safety, Passenger vessels, Reporting and recordkeeping requirements.

46 CFR Part 185

Marine safety, Passenger vessels, Reporting and recordkeeping requirements.

46 CFR Part 196

Marine safety, Oceanographic research vessels, Reporting and recordkeeping requirements.

46 CFR Part 199

Cargo vessels, Marine safety, Oil and gas exploration, Passenger vessels, Reporting and recordkeeping requirements.

46 CFR Part 401

Administrative practice and procedure, Great Lakes, Navigation (water), Penalties, Reporting and recordkeeping requirements, Seamen.

46 CFR Part 402

Great Lakes, Navigation (water), Seamen.

For the reasons listed in the preamble, the Coast Guard amends 33 CFR parts 1, 20, 70, 95, 101, 110, 141, 155, 156, 160, 162, 163, 164, and 165; 46 CFR parts 1, 4, 5, 10, 12, 13, 14, 15, 16, 26, 28, 30, 31, 35, 42, 58, 61, 78, 97, 98, 105, 114, 115, 122, 125, 131, 151, 166, 169, 175, 176, 185, 196, 199, 401 and 402; and in 46 CFR, add a new part 11 as follows:

33 CFR CHAPTER I

PART 1—GENERAL PROVISIONS

1. The authority citation for part 1 continues to read as follows:

Authority: 14 U.S.C. 633; 33 U.S.C. 401, 491, 525, 1321, 2716, and 2716a; 42 U.S.C. 9615; 49 U.S.C. 322; 49 CFR 1.45(b), 1.46; section 1.01-70 also issued under the authority of E.O. 12580, 3 CFR, 1987 Comp., p. 193; and sections 1.01-80 and 1.01-85 also issued under the authority of E.O. 12777, 3 CFR, 1991 Comp., p. 351.

§ 1.08-5 [Amended]

2. In § 1.08-5(b)(1), after the word “licensed”, add the words “or credentialed”.

§ 1.25-1 [Amended]

3. In § 1.25-1(a), remove the words “documents, certificates, or licenses” and add, in their place, the words “merchant mariner credentials, merchant mariner documents, licenses or certificates”.

PART 20—RULES OF PRACTICE, PROCEDURE, AND EVIDENCE FOR FORMAL ADMINISTRATIVE PROCEEDINGS OF THE COAST GUARD

4. The authority citation for part 20 continues to read as follows:

Authority: 33 U.S.C. 1321; 42 U.S.C. 9609; 46 U.S.C. 7701, 7702; 49 CFR 1.46.

5. In § 20.102—

a. In the definition for “Complaint”, after the word “merchant”, add the words “mariner credential,”;

b. In the definition for “Suspension and revocation proceeding or S&R proceeding”, after the words “merchant mariner's”, add the word “credential,”; and

c. Add definitions for the terms “credential” and “Merchant mariner credential or MMC”, in alphabetical order, to read as follows:

§ 20.102 Definitions.

* * * * *

Credential means any or all of the following:

(1) Merchant mariner's document.

(2) Merchant mariner's license.

(3) STCW endorsement.

(4) Certificate of registry.

(5) Merchant mariner credential.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

§ 20.904 [Amended]

6. In § 20.904—

a. In paragraph (e)(1) introductory text, after the words “certificate of registry” remove the word “or”; and, after the word “document”, add the words “, credential, or endorsement”;

b. In paragraph (e)(1)(i)(B), after the word “certificate” remove the word “or”; and, after the word “document”, add the words “, credential, or endorsement”;

c. In paragraph (f) introductory text, after the words “revocation of a”, add the words “credential, endorsement,”; and

d. In paragraph (f)(1), after the words “issuance of a new” remove the words “license, certificate, or document” and add, in their place, the words “merchant mariner credential with appropriate endorsement”.

§ 20.1201 [Amended]

7. In § 20.1201—

a. In paragraph (a), remove the words “merchant mariner's license, certificate of registry, or document” and add, in their place, the words “mariner's credential”;

b. In paragraph (b) introductory text, before the words “license, certificate, or document”, add the words “merchant mariner credential,”; and

c. In paragraph (b)(2)(ii), after the words “renewal of the”, add the words “merchant mariner credential,”.

§ 20.1202 [Amended]

8. In § 20.1202(a), before the words “license, certificate of registry, or document”, add the word “credential,”.

§ 20.1205 [Amended]

9. In § 20.1205—

a. In the section heading, before the words “license, certificate of registry, or document”, add the words “merchant mariner credential,”;

b. In paragraph (a), after the words “move that his or her”, add the words “merchant mariner credential,”; and

c. In paragraph (b), after the words “return of the suspended”, add the word “credential,”.

§ 20.1307 [Amended]

10. In § 20.1307 paragraph (c)(2), after words “merchant mariner's license”, add the words “, merchant mariner credential,”.

PART 70—INTERFERENCE WITH OR DAMAGE TO AIDS TO NAVIGATION

11. The authority citation for part 70 continues to read as follows:

Authority: Secs. 14, 16, 30 Stat. 1152, 1153; secs. 84, 86, 92, 633, 642, 63 Stat. 500, 501, 503, 545, 547 (33 U.S.C. 408, 411, 412; 14 U.S.C. 84, 86, 92, 633, 642).

§ 70.05-10 Revocation of merchant mariner credential officer endorsement or license.

12. In § 70.05-10—

a. Revise the section heading as set forth above; and

b. In the text, after the words “shall also have his”, add the words “merchant mariner credential officer endorsement or”.

PART 95—OPERATING A VESSEL WHILE UNDER THE INFLUENCE OF ALCOHOL OR A DANGEROUS DRUG

13. Revise the authority citation for part 95 to read as follows:

Authority: 33 U.S.C. 2071; 46 U.S.C. 2302; Department of Homeland Security Delegation No. 0170.1.

§ 95.015 [Amended]

14. In § 95.015(b), remove the words “a licensed individual” and add, in their place, the words “an officer”.

§ 95.045 [Amended]

15. In § 95.045 introductory text, remove the words “a licensed individual” and add, in their place, the words “an officer”.

PART 101—MARITIME SECURITY: GENERAL

16. The authority citation for part 101 continues to read as follows:

Authority: 33 U.S.C. 1226, 1231; 46 U.S.C. Chapter 701; 50 U.S.C. 191, 192; Executive Order 12656, 3 CFR 1988 Comp., p. 585; 33 CFR 1.05-1, 6.04-11, 6.14, 6.16, and 6.19; Department of Homeland Security Delegation No. 0170.1.

17. In § 101.105—

a. In the definitions for “Master” and “Operator, Uninspected Towing Vessel”, before the word “license”, wherever it appears, add the words “merchant mariner credential or”; and

b. Add a definition for the term “Merchant mariner credential or MMC” to read as follows:

§ 101.105 Definitions.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

PART 110—ANCHORAGE REGULATIONS

18. Revise the authority citation for part 110 to read as follows:

Authority: 33 U.S.C. 471, 1221 through 1236, 2030, 2035, 2071; 33 CFR 1.05-1(g); Department of Homeland Security Delegation No. 0170.1.

§ 110.186 [Amended]

19. In § 110.186(b)(3), after the word “licensed”, add the words “or credentialed”.

§ 110.188 [Amended]

20. In § 110.188(b)(10), after the word “licensed”, add the words “or credentialed”.

§ 110.214 [Amended]

21. In § 110.214(a)(3)(i), after the word “licensed” add the words “or credentialed”.

PART 141—PERSONNEL

22. Revise the authority citation for part 141 to read as follows:

Authority: 43 U.S.C. 1356; 46 U.S.C. 70105; 49 CFR 1.46(z).

§ 141.5 [Amended]

23. In § 141.5(b)(1) remove the words “licensed officers, and unlicensed crew” and add, in their place, the words “crew, and officers holding a valid license or MMC with officer endorsement”.

24. In § 141.10, add a definition for the term “Transportation Worker Identification Credential or TWIC”, in alphabetical order, to read as follows:

§ 141.10 Definitions.

* * * * *

Transportation Worker Identification Credential or TWIC means an identification credential issued by the Transportation Security Administration according to 49 CFR part 1572.

§ 141.25 [Amended]

25. In § 141.25—

a. In paragraph (a) introductory text, remove the word “The” and add, in its place, the words “For the purposes of this part, the”; and

b. In paragraph (a)(1), before the words “merchant mariner's document”, add the word “valid”, and remove the words “under 46 CFR Part 12”.

26. In § 141.30—

a. In the introductory text, remove the first appearance of the word “The” and add, in its place, the words “For the purposes of this part, the”;

b. In paragraph (a), before the words “merchant mariner's document”, add the word “valid”, and remove the words “under 46 CFR Part 12”; and

c. In paragraph (b), remove the words “Immigration and Naturalization Service” and add, in their place, the words “Immigration and Customs Enforcement Agency”; and

d. Add a new paragraph (d) to read as follows:

§ 141.30 Evidence of status as a resident alien.

* * * * *

(d) A valid Transportation Worker Identification Credential.

§ 141.35 [Amended]

27. In § 141.35(a)(1), after the words “merchant mariner's document”, add the words “, Transportation Worker Identification Credential,”.

PART 155—OIL OR HAZARDOUS MATERIAL POLLUTION PREVENTION REGULATIONS FOR VESSELS

28. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Public Law 101-380.

29. Revise § 155.110 to read as follows:

§ 155.110 Definitions.

Except as specifically stated in a section, the definitions in part 151 of this chapter, except for the word “oil”, and in part 154 of this chapter, apply to this part. The following definition also applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

30. In § 155.710—

a. In paragraph (a)(2), after the word “license”, add the words “or officer endorsement”;

b. Revise paragraph (e)(1) to read as set out below;

c. In paragraph (f), after the word “MMD”, add the words “ or merchant mariner credential”; and after the words “either a license”, add the words “, officer endorsement,”; and

d. In paragraph (g), after the words “need not hold any of the”, add the words “merchant mariner credentials,”.

§ 155.710 Qualifications of person in charge.

* * * * *

(e) * * *

(1) On each inspected vessel required by 46 CFR chapter I to have an officer aboard, holds a valid license or merchant mariner credential issued under 46 CFR chapter I, subchapter B, authorizing service as a master, mate, pilot, engineer, or operator aboard that vessel, or holds a valid merchant mariner's document or merchant Mariner credential endorsed as Tankerman-PIC;

* * * * *

§ 155.815 [Amended]

31. In § 155.815(b), after the word “licensed” add the words “or credentialed”.

PART 156—OIL AND HAZARDOUS MATERIAL TRANSFER OPERATIONS

32. The authority citation for part 156 continues to read as follows:

Authority: 33 U.S.C. 1231, 1321(j); 46 U.S.C. 3703a, 3715; E.O. 11735, 3 CFR 1971-1975 Comp., p. 793. Section 156.120(bb) and (ee) are also issued under 46 U.S.C. 3703.

§ 156.210 [Amended]

33. In § 156.210(d), remove the words “a licensed individual” and add, in their place, the words “an officer”.

PART 160—PORTS AND WATERWAYS SAFETY—GENERAL

34. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.113 [Amended]

35. In § 160.113(b)(4), remove the word “licensed”.

PART 162—INLAND WATERWAYS NAVIGATION REGULATIONS

36. Revise the authority citation for part 162 to read as follows:

Authority: 33 U.S.C. 1231; Department of Homeland Security Delegation No. 0170.1.

37. Add a new § 162.5 to read as follows:

§ 162.5 Definitions.

The following definition applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

38. In § 162.130(c), revise the definition for “Master” to read as follows;

§ 162.130 Connecting waters from Lake Huron to Lake Erie; general rules.

* * * * *

(c) * * *

Master means the master or operator, the person designated by the master or operator to navigate the vessel, or, on a vessel not requiring persons holding licenses or merchant mariner credential officer endorsements, the person in command of the vessel.

* * * * *

PART 163—TOWING OF BARGES

39. The authority citation for part 163 continues to read as follows:

Authority: 33 U.S.C. 152, 2071; 49 CFR l.46(n).

§ 163.01 [Amended]

40. In § 163.01(b), after the word “license”, add the words “or merchant mariner credential”.

41. Add a new § 163.03 to read as follows:

§ 163.03 Definitions.

The following definition applies to this part:

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

PART 164—NAVIGATION SAFETY REGULATIONS

42. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

43. In § 164.13—

a. In paragraph (b), remove the words “a licensed engineer” and add, in their place, the words “an engineer with an appropriately endorsed license or merchant mariner credential”; and

b. Revise paragraph (c) to read as follows:

§ 164.13 Navigation underway: tankers.

* * * * *

(c) Each tanker must navigate with at least two deck officers with an appropriately endorsed license or merchant mariner credential on watch on the bridge, one of whom may be a pilot. In waters where a pilot is required, the second officer, must be an individual holding an appropriately endorsed license or merchant mariner credential and assigned to the vessel as master, mate, or officer in charge of a navigational watch, who is separate and distinct from the pilot.

* * * * *

44. In § 164.70, add a new definition for the term “Merchant mariner credential or MMC”, in alphabetical order, to read as follows:

§ 164.70 Definitions.

* * * * *

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

* * * * *

PART 165—REGULATED NAVIGATION AREAS AND LIMITED ACCESS AREAS

45. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

46. Add a new § 165.3 to read as follows:

§ 165.3 Definitions.

The following definitions apply to this part:

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 165.120 [Amended]

47. In § 165.120(b)(1), remove the words “ the Licensed Federal Pilot” and add, in their place, the words “an individual holding a valid merchant mariner's license or merchant mariner credential endorsed as pilot”.

§ 165.153 [Amended]

48. In § 165.153(d)(6) and (d)(7), remove the word “licensed” wherever it appears.

§ 165.810 [Amended]

49. In § 165.810(f)(1), remove the words “licensed engineer” and add, in their place, the words “appropriately licensed or credentialed engineer officer”.

§ 165.1310 [Amended]

50. In § 165.1310(f)(2), remove the word “licensed” and add, in its place, the words “holding a license or merchant mariner credential issued”.

46 CFR CHAPTER I

PART 1—ORGANIZATION, GENERAL COURSE AND METHODS GOVERNING MARINE SAFETY FUNCTIONS

51. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

52. In § 1.01-05, add new paragraphs (d) and (e) to read as follows:

§ 1.01-05 Definitions.

* * * * *

(d) The term Credential means any or all of the following:

(1) Merchant mariner's document.

(2) Merchant mariner's license.

(3) STCW endorsement.

(4) Certificate of registry.

(5) Merchant mariner credential.

(e) The term Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 1.01-10 [Amended]

53. In § 1.01-10, in paragraph (b)(1)(ii)(C), remove the words “licenses, documents or certificates” and add, in their place, the word “credentials.''

54. In § 1.01-15—

a. In paragraph (a)(1), remove the words “licenses, certificates, and documents” and add, in their place, the word “credentials”, and remove the words “licensing, certificating” and add, in their place, the word “credentialing”; and

b. Revise paragraph (b) to read as follows:

§ 1.01-15 Organization; Districts; National Maritime Center.

* * * * *

(b) The Officers in Charge, Marine Inspection, in the Coast Guard districts, under the supervision of the District Commanders, and the Officer in Charge, Activities Europe, under the supervision of the Atlantic Area Commander are in charge of the marine inspection offices in the various ports and have command responsibilities with assigned marine safety zones for the performance of duties with respect to the inspection, enforcement and administration of navigation and vessel inspection laws, and rules and regulations governing marine safety. The Officer in Charge, Marine Inspection, has been designated and delegated to give immediate direction to Coast Guard activities relating to marine safety functions consisting of inspection of vessels in order to determine that they comply with the applicable laws, rules, and regulations relating to construction, equipment, manning and operation, and to be satisfied that such vessels are in seaworthy condition for the services in which such vessels are to be operated; shipyard inspections; factory inspections of materials and equipment for vessels; credentialing shipment and discharge of seaman; investigations of marine casualties and accidents; investigations of violations of law; negligence, misconduct, unskillfullness, incompetence or misbehavior of persons holding credentials issued by the Coast Guard; initiations of actions seeking suspension or revocation under 46 U.S.C. chapter 77 of credentials held by persons, and presentation of cases at hearings before Administrative Law Judges; and the enforcement of navigation, vessel inspection and seaman laws in general.

* * * * *

§ 1.01-25 [Amended]

55. In § 1.01-25—

a. In paragraph (b)(1), remove the words “licenses, certificates, or documents” and add, in their place, the word “credentials”; and

b. In paragraphs (c) introductory text and (c)(1) introductory text, remove the words “license, certificate or document” wherever they appear and add, in their place, the word “credential”.

PART 4—MARINE CASUALTIES AND INVESTIGATIONS

56. The authority citation for part 4 continues to read as follows:

Authority: 33 U.S.C. 1231, 1321; 43 U.S.C. 1333; 46 U.S.C. 2103, 2306, 6101, 6301, 6305; 50 U.S.C. 198; Department of Homeland Security Delegation No. 170.1. Authority for subpart 4.40: 49 U.S.C. 1903(a)(1)(E); Department of Homeland Security Delegation No. 0170.1.

57. Add § 4.03-75 to read as follows:

§ 4.03-75 Merchant mariner credential and credential.

The following definitions apply to this part:

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 4.07-1 [Amended]

58. In § 4.07-1(c)(3), remove the words “any licensed or certificated person” and add, in their place, the words “any person holding a Coast Guard credential”; and remove the words “license or certificate” and add, in their place, the word “credential”.

§ 4.07-10 [Amended]

59. In § 4.07-10(a)(3), remove the words “licenses or certificates” and add, in their place, the word “credentials”.

PART 5—MARINE INVESTIGATION REGULATIONS—PERSONNEL ACTION

60. The authority citation for part 5 continues to read as follows:

Authority: 46 U.S.C. 2103, 7101, 7301, 7701; Department of Homeland Security Delegation No. 0170.1.

§ 5.3 [Amended]

61. In § 5.3, remove the words “licenses, certificates or documents” and add, in their place, the words “credentials or endorsements”.

§ 5.5 [Amended]

62. In § 5.5, remove the word “certification” and add, in its place, the words “certificate, merchant mariner credential, endorsement,”.

§ 5.19 [Amended]

63. In § 5.19(b), remove the words “license, certificate or document” and add, in their place, the words “credential or endorsement”.

64. Add a new § 5.40 to read as follows:

§ 5.40 Credential and merchant mariner credential.

Credential means any or all of the following:

(1) Merchant mariner's document.

(2) Merchant mariner's license.

(3) STCW endorsement.

(4) Certificate of registry.

(5) Merchant mariner credential.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 5.55 [Amended]

65. In § 5.55(a) introductory text, remove the words “license, certificate or document” and add, in their place, the word “credential”.

66. In § 5.57—

a. Revise the section heading and paragraph (b) to read as set out below;

b. In paragraph (a) introductory text, remove the words “license, certificate or document” wherever they appear and add, in their place, the words “credential or endorsement”; and

c. In paragraph (c), remove the words “license, certificate or document” and add, in their place, the words “credential or endorsement”.

§ 5.57 Acting under authority of Coast Guard credential or endorsement.

* * * * *

(b) A person is considered to be acting under the authority of the credential or endorsement while engaged in official matters regarding the credential or endorsement. This includes, but is not limited to, such acts as applying for renewal, taking examinations for raises of grade, requesting duplicate or replacement credentials, or when appearing at a hearing under this part.

* * * * *

§ 5.59 [Amended]

67. In § 5.59—

a. In the section heading, remove the words “licenses, certificates or documents” and add, in their place, the words “credentials or endorsements”; and

b. In the introductory text, remove the words “license, certificate or document” and add, in their place, the words “credential or endorsement”.

§ 5.61 [Amended]

68. In § 5.61—

a. In the section heading, remove the words “licenses, certificates or documents” and add, in their place, the word “credentials”; and

b. In paragraphs (a) introductory text and (b), remove the words “license, certificate or document” wherever they appear and add, in their place, the words “credential or endorsements”.

§ 5.101 [Amended]

69. In § 5.101(a) introductory text, (a)(1), and (a)(2), remove the words “license, certificate or document” wherever they appear and add, in their place, the words “credential or endorsement”.

§ 5.105 [Amended]

70. In § 5.105(b), (c), and (e), remove the words “license, certificate or document” and add, in their place, the words “credential or endorsement”.

Subpart E—[Amended]

71. In the heading to subpart E, remove the words “License, Certificate or Document” and add, in their place, the words “Coast Guard Credential or Endorsement”.

§ 5.201 [Amended]

72. In § 5.201(a), (b) introductory text, (b)(4), (c) introductory text, and (d), remove the words “license, certificate, or document” and add, in their place, the words “credential or endorsement”.

§ 5.203 [Amended]

73. In § 5.203(a), (b) introductory text, (b)(2), and (c), remove the words “license, certificate or document” and add, in their place, the words “credential or endorsement”.

§ 5.205 [Amended]

74. In § 5.205—

a. In the section heading, remove the words “license, certificate of registry, or merchant mariners document” and add, in their place, the words “credential or endorsement”; and

b. In paragraphs (a), (b) introductory text, (c) introductory text, and (d), remove the words “license, certificate or document” wherever they appear and add, in their place, the words “credential or endorsement”.

§ 5.501 [Amended]

75. In § 5.501, remove the words “license, certificate of registry, or document” and add, in their place, the words “credential or endorsement”.

§ 5.521 Verification of credential or endorsement.

76. In § 5.521—

a. Revise the section heading as set forth above;

b. In paragraph (a), after the words “all valid”, remove the words “licenses, certificates, and/or documents” and add, in their place, the word “credentials”; and, after the words “alleges that”, remove the words “such license, certificate or document” and add, in their place, the word “credential”; and

c. In paragraph (b), remove the words “license, certificate, or document” and add, in their place, the word “credential”.

§ 5.567 [Amended]

77. In paragraphs (b), (c) introductory text, (d), and (e), remove the words “licenses, certificates or documents” wherever they appear and add, in their place, the word “credentials or endorsements”; and remove the words “license, certificate or document” wherever they appear and add, in their place, the words “credential or endorsement”.

§ 5.707 [Amended]

78. In § 5.707—

a. In the section heading, remove the words “license, certificate, or document” and add, in their place, the words “credential or endorsement”;

b. In paragraph (a), remove the words “license, certificate or document” wherever they appear and add, in their place, the words “credential or endorsement”;

c. In paragraph (c), remove the words “document or license” and add, in their place, the words “credential or endorsement”;

d. In paragraph (d), after the words “All temporary”, remove the word “documents” and add, in its place, the words “credentials or endorsements”; and, after the words “If a temporary”, remove the word “document” and add, in its place, the words “credential or endorsement”;

e. In paragraph (e), remove the word “document” and add, in its place, the words “credential or endorsement”; and

f. In paragraph (f), remove the word “documents” and add, in its place, the word “credential”.

§ 5.713 [Amended]

79. In § 5.713(a), remove the words “licenses, certificates, or documents” and add, in their place, the words “credentials or endorsements”.

§ 5.715 [Amended]

80. In § 5.715—

a. In the section heading, remove the words “document and/or license” and add, in their place, the words “credential and/or endorsement”;

b. In paragraph (a), remove the words “document or license” and add, in their place, the words “credential and/or endorsement”; and

c. In paragraph (c), remove the words “document and/or license” and add, in their place, the words “credential and/or endorsement”, and after the words “order. This”, remove the word “document” and add, in its place, the words “credential and/or endorsement”.

Subpart L—[Amended]

81. In the heading to subpart L, remove the words “Licenses, Certificates or Documents” and add, in their place, the words “Credential or Endorsement”.

§ 5.901 [Amended]

82. In § 5.901(a), (c), and (e), remove the words “license, certificate or document” wherever they appear and add, in their place, the words “credential or endorsement”; and in paragraph (d) introductory text, remove the words “license, certificate, or document” wherever they appear and add, in their place, the words “credential or endorsement”.

§ 5.903 [Amended]

83. In § 5.903(a), (c) introductory text, and (c)(2), remove the words “license, certificate or document” wherever they appear and add, in their place, the words “credential or endorsement”.

§ 5.905 [Amended]

84. In § 5.905(b), remove the words “license, certificate or document” and add, in their place, the words “credential or endorsement”.

PART 10—MERCHANT MARINER OFFICERS AND SEAMEN

85. Revise the authority citation for part 10 to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

PART 10—[REDESIGNATED AS PART 11]

86. Redesignate part 10, consisting of §§ 10.101 through 10.1105, as part 11, §§ 11.101 through 11.1105.

87. Add a new part 10 to subchapter B to read as follows:

PART 10—MERCHANT MARINER CREDENTIAL

Subpart A—General
Sec.
10.101 Purpose of rules in this part.
10.103 Incorporation by reference.
10.105 Paperwork approval. [Reserved]
10.107 Definitions in subchapter B.
10.109 Classification of endorsements.
Subpart B—General Requirements for All Merchant Mariner Credentials
10.201 General characteristics of the merchant mariner credential.
10.203 Requirement to hold a TWIC and a merchant mariner credential.
10.205 Validity of a merchant mariner credential.
10.207 Identification number.
10.209 General application procedures.
10.211 Criminal record review.
10.213 National Driver Register.
10.214 Security Check.
10.215 Medical and physical requirements.
10.217 Merchant mariner credential application and examination locations.
10.219 Fees.
10.221 Citizenship.
10.223 Modification or removal of limitations or scope.
10.225 Requirements for original merchant mariner credentials.
10.227 Requirements for renewal.
10.229 Issuance of duplicate merchant mariner credentials.
10.231 Requirements for raises of grade or new endorsements.
10.233 Obligations of the holder of a merchant mariner credential.
10.235 Suspension or revocation of merchant mariner credentials.
10.237 Right of appeal.
10.239 Quick reference table for MMC requirements.

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

Subpart A—General

§ 10.101 Purpose of rules in this part.

The regulations in this part provide:

(a) A means of determining and verifying the qualifications an applicant must possess to be eligible for certification to serve on merchant vessels;

(b) A means of determining that an applicant is competent to serve under the authority of their merchant mariner credential (MMC);

(c) A means of confirming that an applicant does not pose a threat to national security through the requirement to hold a Transportation Worker Identification Credential (TWIC); and

(d) A means of determining whether the holder of an MMC is a safe and suitable person.

§ 10.103 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 Second Street SW., Washington, DC 20593-0001, 202-372-1405 and is available from the sources indicated in this section.

(b) International Maritime Organization (IMO), 4 Albert Embankment, London SE1 7SR, England, telephone: + 44 (0)20 7735 7611, http://www.imo.org:

(1) The STCW—International Convention on Standards of Training, Certification and Watchkeeping for Seafarers, 1978, as amended 1995 (the STCW Convention or the STCW), incorporation by reference approved for §§ 10.107, 10.109, and 10.231.

(2) The Seafarers' Training, Certification and Watchkeeping Code, as amended 1995 (the STCW Code), incorporation by reference approved for §§ 10.107, 10.109, 10.227, and 10.231.

§ 10.105 Paperwork approval. [Reserved]

§ 10.107 Definitions in subchapter B.

(a) With respect to part 16 and § 15.1101 of this title only, if the definitions in paragraph (b) of this section differ from those set forth in either § 16.105 or § 15.1101, the definition set forth in either § 16.105 or § 15.1101, as appropriate, applies.

(b) As used in this subchapter, the following terms apply only to merchant marine personnel credentialing and the manning of vessels subject to the manning provisions in the navigation and shipping laws of the United States:

Apprentice mate (steersman) of towing vessels means a mariner qualified to perform watchkeeping on the bridge, while in training onboard a towing vessel under the direct supervision and in the presence of a master or mate (pilot) of towing vessels.

Approved means approved by the Coast Guard according to § 11.302 of this chapter.

Approved training means training that is approved by the Coast Guard or meets the requirements of § 11.309 of this chapter.

Assistance towing means towing a disabled vessel for consideration.

Assistant engineer means a qualified officer in the engine department.

Authorized official includes, but is not limited to, a Federal, State or local law enforcement officer.

Ballast control operator or BCO means an officer restricted to service on mobile offshore drilling units (MODUs) whose duties involve the operation of the complex ballast system found on many MODUs. When assigned to a MODU, a ballast control operator is equivalent to a mate on a conventional vessel.

Barge supervisor or BS means an officer restricted to service on MODUs whose duties involve support to the offshore installation manager (OIM) in marine-related matters including, but not limited to, maintaining watertight integrity, inspecting and maintaining mooring and towing components, and maintaining emergency and other marine-related equipment. A barge supervisor, when assigned to a MODU, is equivalent to a mate on a conventional vessel.

Boatswain means the leading seaman and immediate supervisor of deck crew who supervises the maintenance of deck gear.

Cargo engineer means a person holding an officer endorsement on a dangerous-liquid tankship or a liquefied-gas tankship whose primary responsibility is maintaining the cargo system and cargo-handling equipment.

Chief engineer means any person responsible for the mechanical propulsion of a vessel and who is the holder of a valid officer endorsement as chief engineer.

Chief mate means the deck officer next in seniority to the master and upon whom the command of the vessel will fall in the event of incapacity of the master.

Coast Guard-accepted means that the Coast Guard has officially acknowledged in writing that the material or process at issue meets the applicable requirements; that the Coast Guard has issued an official policy statement listing or describing the material or process as meeting the applicable requirements; or that an entity acting on behalf of the Coast Guard under a Memorandum of Agreement has determined that the material or process meets the applicable requirements.

Coastwise seagoing vessel means a vessel that is authorized by its Certificate of Inspection to proceed beyond the Boundary Line established in part 7 of this chapter.

Competent person as used in part 13 only, means a person designated as such under 29 CFR 1915.7.

Conviction means that the applicant for a merchant mariner credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant mariner's document.

(2) Merchant mariner's license.

(3) STCW endorsement.

(4) Certificate of registry.

(5) Merchant mariner credential.

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in 46 CFR part 153, table 2, of this chapter are not dangerous-liquid cargoes when carried by non-oceangoing barges.

Day means, for the purpose of complying with the service requirements of this subchapter, eight hours of watchstanding or day-working not to include overtime. On vessels where a 12-hour working day is authorized and practiced, each work day may be creditable as one and one-half days of service. On vessels of less than 100 gross register tons, a day is considered as eight hours unless the Coast Guard determines that the vessel's operating schedule makes this criteria inappropriate, in no case will this period be less than four hours. When computing service required for MODU endorsements, a day is a minimum of four hours, and no additional credit is received for periods served over eight hours.

Deck crew (excluding individuals serving under their officer endorsement) means, as used in 46 U.S.C. 8702, only the following members of the deck department: able seamen, boatswains, and ordinary seamen.

Designated areas means those areas within pilotage waters for which first class pilot's endorsements are issued under part 11, subpart G, of this chapter, by the Officer in Charge, Marine Inspection (OCMI). The areas for which first class pilot's endorsements are issued within a particular Marine Inspection Zone and the specific requirements to obtain them may be obtained from the OCMI concerned.

Designated duty engineer or DDE means a qualified engineer, who may be the sole engineer on vessels with a periodically unattended engine room.

Designated examiner means a person who has been trained or instructed in techniques of training or assessment and is otherwise qualified to evaluate whether an applicant has achieved the level of competence required to hold a merchant mariner credential (MMC) endorsement. This person may be designated by the Coast Guard or by a Coast Guard-approved or accepted program of training or assessment. A faculty member employed or instructing in a navigation or engineering course at the U.S. Merchant Marine Academy or at a State maritime academy operated under 46 CFR part 310 is qualified to serve as a designated examiner in his or her area(s) of specialization without individual evaluation by the Coast Guard.

Directly supervised, only when referring to issues related to tankermen, means being in the direct line of sight of the person-in-charge or maintaining direct, two-way communications by a convenient, reliable means, such as a predetermined working frequency over a handheld radio.

Disabled vessel means a vessel that needs assistance, whether docked, moored, anchored, aground, adrift, or underway, but does not mean a barge or any other vessel not regularly operated under its own power.

Drug test means a chemical test of an individual's urine for evidence of dangerous drug use.

Employment assigned to is the total period a person is assigned to work on MODUs, including time spent ashore as part of normal crew rotation.

Endorsement is a statement of a mariner's qualifications, which may include the categories of officer, staff officer, ratings, and/or STCW appearing on a merchant mariner credential.

Entry-level mariner means those mariners holding no rating other than ordinary seaman, wiper, or steward's department (F.H.)

Evaluation means processing an application, from the point of receipt to approval or rejection of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First assistant engineer means the engineer officer next in seniority to the chief engineer and upon whom the responsibility for the mechanical propulsion of the vessel will fall in the event of the incapacity of the chief engineer.

Great Lakes for the purpose of calculating service requirements for an officer endorsement, means the Great Lakes and their connecting and tributary waters including the Calumet River as far as the Thomas J. O'Brien Lock and Controlling Works (between mile 326 and 327), the Chicago River as far as the east side of the Ashland Avenue Bridge (between mile 321 and 322), and the Saint Lawrence River as far east as the lower exit of Saint Lambert Lock. For purposes of requiring merchant mariner credentials with rating endorsements, the connecting and tributary waters are not part of the Great Lakes.

Harbor assist means the use of a towing vessel during maneuvers to dock, undock, moor, or unmoor a vessel, or to escort a vessel with limited maneuverability.

Horsepower means, for the purpose of this subchapter, the total maximum continuous shaft horsepower of all the vessel's main propulsion machinery.

IMO means the International Maritime Organization.

Inland waters means the navigable waters of the United States shoreward of the Boundary Lines as described in part 7 of this chapter, excluding the Great Lakes, and, for towing vessels, excluding the Western Rivers. For establishing credit for sea service, the waters of the Inside Passage between Puget Sound and Cape Spencer, Alaska, are inland waters.

Invalid credential means a merchant mariner credential, merchant mariner's document, merchant mariner's license, STCW endorsement, or certificate of registry that has been suspended or revoked, or has expired.

Large passenger vessel means a vessel of more than 70,000 gross tons, as measured under 46 U.S.C. 14302 and documented under the laws of the United States, with capacity for at least 2,000 passengers and a coastwise endorsement under 46 U.S.C. chapter 121.

Liquefied gas or LG means a cargo that has a vapor pressure of 172 kPa (25 psia) or more at 37.8 °C (100 °F).

Liquid cargo in bulk means a liquid or liquefied gas listed in § 153.40 of this chapter and carried as a liquid cargo or liquid-cargo residue in integral, fixed, or portable tanks, except a liquid cargo carried in a portable tank actually loaded and discharged from a vessel with the contents intact.

Lower level is used as a category of deck and engineer officer endorsements established for assessment of fees. Lower-level officer endorsements are other than those defined as upper level, for which the requirements are listed in subparts D, E, and G of part 11.

Marine chemist means a person certificated by the National Fire Protection Association.

Master means the officer having command of a vessel.

Mate means a qualified officer in the deck department other than the master.

Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

MMC application means the application for the MMC, as well as the application for any endorsement on an MMC.

Mobile offshore drilling unit or MODU means a vessel capable of engaging in drilling operations for the exploration for or exploitation of subsea resources. MODU designs include the following:

(1) Bottom bearing units, which include:

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drill ships.

Month means 30 days, for the purpose of complying with the service requirements of this subchapter.

National Driver Register or NDR means the nationwide repository of information on drivers maintained by the National Highway Traffic Safety Administration under 49 U.S.C. chapter 303.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near coastal means ocean waters not more than 200 miles offshore.

Non-resident alien means an alien, as defined under Section 101(a)(3) of the Immigration and Nationality Act (8 U.S.C. 1101 et seq.) (the Act), who is not lawfully admitted for permanent residence, as defined by Section 101(a)(20) of the Act, but who is employable in the United States under the Act and its implementing regulations, including an alien crewman described in section 101(a)(15)(D)(i) of the Act who meets the requirements of 46 U.S.C. 8103(k)(3)(A).

Oceans means the waters seaward of the Boundary Lines as described in 46 CFR part 7. For the purposes of establishing sea service credit, the waters of the Inside Passage between Puget Sound and Cape Spencer, Alaska, are not considered oceans.

Officer endorsement means an annotation on a merchant mariner credential that allows a mariner to serve in the capacities in § 10.109(a). The officer endorsement serves as the license and/or certificate of registry pursuant to 46 U.S.C. subtitle II part E.

Officer in Charge, Marine Inspection or OCMI means, for the purposes of this subchapter, the individual so designated at one of the Regional Examination Centers, or any person designated as such by the Commandant.

Offshore installation manager or OIM means an officer restricted to service on MODUs. An assigned offshore installation manager is equivalent to a master on a conventional vessel and is the person designated by the owner or operator to be in complete and ultimate command of the unit.

On location means that a mobile offshore drilling unit is bottom bearing or moored with anchors placed in the drilling configuration.

Operate, operating, or operation, as applied to the manning requirements of vessels carrying passengers, refers to a vessel any time passengers are embarked whether the vessel is underway, at anchor, made fast to shore, or aground.

Operator means an individual qualified to operate certain uninspected vessels.

Orally assisted examination means an examination as described in part 11, subpart I of this chapter verbally administered and documented by an examiner.

Participation, when used with regard to the service on transfers required for tankerman by §§ 13.120, 13.203, or 13.303 of this chapter, means either actual participation in the transfers or close observation of how the transfers are conducted and supervised.

Passes a chemical test for dangerous drugs means that the result of a chemical test conducted according to 49 CFR part 40 is reported as “negative” by a Medical Review Officer according to that part.

PIC means a person in charge.

Pilot of towing vessels means a qualified officer of a towing vessel operated only on inland routes.

Pilotage waters means the navigable waters of the United States, including all inland waters and offshore waters to a distance of three nautical miles from the baseline from which the Territorial Sea is measured.

Practical demonstration means the performance of an activity under the direct observation of a designated examiner for the purpose of establishing that the performer is sufficiently proficient in a practical skill to meet a specified standard of competence or other objective criterion.

Qualified instructor means a person who has been trained or instructed in instructional techniques and is otherwise qualified to provide required training to candidates for a merchant mariner credential endorsement. A faculty member employed at a State maritime academy or the U.S. Merchant Marine Academy operated under 46 CFR part 310 and instructing in a navigation or engineering course is qualified to serve as a qualified instructor in his or her area of specialization without individual evaluation by the Coast Guard.

Qualified rating means various categories of able seaman, qualified member of the engine department, lifeboatman, or tankerman endorsements formerly issued on merchant mariner's documents.

Raise of grade means an increase in the level of authority and responsibility associated with an officer or rating endorsement.

Rating endorsement is an annotation on a merchant mariner credential that allows a mariner to serve in those capacities set out in § 10.109(b) and (c). The rating endorsement serves as the merchant mariner's document pursuant to 46 U.S.C. subtitle II part E.

Regional examination center or REC means a Coast Guard office that issues merchant mariners' credentials and endorsements.

Restricted tankerman endorsement means a valid tankerman endorsement on a merchant mariner credential restricting its holder as the Coast Guard deems appropriate. For instance, the endorsement may restrict the holder to one or a combination of the following: A specific cargo or cargoes; a specific vessel or vessels; a specific facility or facilities; a specific employer or employers; a specific activity or activities (such as loading or unloading in a cargo transfer); or a particular area of water.

Rivers means a river, canal, or other similar body of water designated as such by the Coast Guard.

Safe and suitable person means a person whose prior record, including but not limited to criminal record and/or NDR record, provides no information indicating that his or her character and habits of life would support the belief that permitting such a person to serve under the MMC and/or endorsement sought would clearly be a threat to the safety of life or property, detrimental to good discipline, or adverse to the interests of the United States. See 46 CFR 10.211 and 10.213 for the regulations associated with this definition.

Self propelled has the same meaning as the terms “propelled by machinery” and “mechanically propelled.” This term includes vessels fitted with both sails and mechanical propulsion.

Self-propelled tank vessel means a self-propelled tank vessel, other than a tankship.

Senior company official means the president, vice president, vice president for personnel, personnel director, or similarly titled or responsible individual, or a lower-level employee designated in writing by one of these individuals for the purpose of certifying employment and whose signature is on file at the REC at which application is made.

Service as, used when computing the required service for MODU endorsements, means the time period, in days, a person is assigned to work on MODUs, excluding time spent ashore as part of crew rotation. A day is a minimum of four hours, and no additional credit is received for periods served over eight hours.

Simulated transfer means a transfer practiced in a course meeting the requirements of § 13.121 of this chapter that uses simulation supplying part of the service on transfers required for tankerman by § 13.203 or 13.303 of this chapter.

Staff officer means a person who holds an MMC with an officer endorsement listed in § 10.109(a)(31).

Standard of competence means the level of proficiency to be achieved for the proper performance of duties onboard vessels according to national and international criteria.

Steward's department means the department that includes entertainment personnel and all service personnel, including wait staff, housekeeping staff, and galley workers, as defined in the vessel security plan approved by the Secretary under 46 U.S.C. 70103(c). These personnel may also be referred to as members of the hotel department on a large passenger vessel.

STCW means the International Convention on Standards of Training, Certification and Watchkeeping for Seafarers, 1978, as amended 1995 (incorporated by reference in § 10.103).

STCW Code means the Seafarer's Training, Certification and Watchkeeping Code, as amended 1995 (incorporated by reference in § 10.103).

STCW endorsement means an annotation on a merchant mariner credential that allows a mariner to serve in those capacities under § 10.109(d). The STCW endorsement serves as evidence that a mariner has met the requirements of STCW.

Tank barge means a non-self-propelled tank vessel.

Tank vessel means a vessel that is constructed or adapted to carry, or that carries, oil or hazardous material in bulk as cargo or cargo residue, and that:

(1) Is a vessel of the United States;

(2) Operates on the navigable waters of the United States; or

(3) Transfers oil or hazardous material in a port or place subject to the jurisdiction of the United States.

Tankerman assistant means a person holding a valid “Tankerman-Assistant” endorsement to his or her merchant mariner credential.

Tankerman engineer means a person holding a valid “Tankerman-Engineer” endorsement to his or her merchant mariner credential.

Tankerman PIC means a person holding a valid “Tankerman-PIC” endorsement on his or her merchant mariner credential.

Tankerman PIC (Barge) means a person holding a valid “Tankerman-PIC (Barge)” endorsement to his or her merchant mariner credential.

Tankship means any tank vessel constructed or adapted primarily to carry oil or hazardous material in bulk as cargo or as cargo residue and propelled by power or sail.

Transfer means any movement of dangerous liquid or liquefied gas as cargo in bulk or as cargo residue to, from, or within a vessel by means of pumping, gravitation, or displacement. Section 13.127 of this chapter describes what qualifies as participation in a creditable transfer.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a certificate of documentation issued under the laws of the United States.

Upper level is used as a category of deck and engineer officer endorsements established for assessment of fees. Upper-level endorsements are those for which the requirements are listed in §§ 11.404 to 11.407 of this subchapter and §§ 11.510, 11.512, 11.514, and 11.516 of this subchapter.

Vessel Security Officer (VSO) means a person onboard the vessel accountable to the Master, designated by the Company as responsible for security of the vessel, including implementation and maintenance of the Vessels Security Plan, and for liaison with the Facility Security Officer and the vessel's Company Security Officer.

Western rivers means the Mississippi River, its tributaries, South Pass, and Southwest Pass, to the navigational demarcation lines dividing the high seas from harbors, rivers, and other inland waters of the United States, and the Port Allen-Morgan City Alternate Route, and that part of the Atchafalaya River above its junction with the Port Allen-Morgan City Alternate Route including the Old River and the Red River, and those waters specified in 33 CFR 89.25.

Year means 360 days for the purpose of complying with the service requirements of this subchapter.

§ 10.109 Classification of endorsements.

(a) The following officer endorsements are established in part 11 of this subchapter. The endorsements indicate that an individual holding a valid MMC with this endorsement is qualified to serve in that capacity and the endorsement has been issued under the requirements contained in part 11 of this subchapter:

(1) Master;

(2) Chief mate;

(3) Second mate;

(4) Third mate;

(5) Mate;

(6) Master of towing vessel;

(7) Mate (pilot) of towing vessel;

(8) Apprentice mate (Steersman);

(9) Offshore installation manager (OIM);

(10) Barge supervisor (BS);

(11) Ballast control operator (BCO);

(12) Operator of uninspected passenger vessels (OUPV);

(13) Master of uninspected fishing industry vessels;

(14) Mate of uninspected fishing industry vessels;

(15) Master of offshore supply vessels;

(16) Chief mate of offshore supply vessels;

(17) Mate of offshore supply vessels;

(18) Chief engineer;

(19) Chief engineer (limited);

(20) Chief engineer (limited-ocean);

(21) Chief engineer (limited-near-coastal);

(22) First assistant engineer;

(23) Second assistant engineer;

(24) Third assistant engineer;

(25) Assistant engineer (limited);

(26) Designated duty engineer (DDE);

(27) Chief engineer offshore supply vessel;

(28) Engineer offshore supply vessel;

(29) Chief engineer MODU;

(30) Assistant engineer MODU;

(31) Chief engineer uninspected fishing industry vessels;

(32) Assistant engineer uninspected fishing industry vessels;

(33) Radio officer;

(34) First class pilot

(35) Chief purser;

(36) Purser;

(37) Senior assistant purser;

(38) Junior assistant purser;

(39) Medical doctor;

(40) Professional nurse;

(41) Marine physician assistant;

(42) Hospital corpsman; and

(43) Radar observer.

(b) The following rating endorsements are established in part 12 of this subchapter. The endorsements indicate that an individual holding a valid MMC with this endorsement is qualified to serve in that capacity and the endorsement has been issued under the requirements contained in part 12 of this subchapter:

(1) Able seaman:

(i) Any waters, unlimited;

(ii) Limited;

(iii) Special; and

(iv) Special (OSV).

(2) Ordinary seaman.

(3) Qualified member of the engine department (QMED):

(i) Refrigerating engineer;

(ii) Oiler;

(iii) Deck engineer;

(iv) Fireman/Watertender;

(v) Junior engineer;

(vi) Electrician;

(vii) Machinist;

(viii) Pumpman;

(ix) Deck engine mechanic; and

(x) Engineman.

(4) Lifeboatman.

(5) Wiper.

(6) Steward's department

(7) Steward's department (F.H.).

(8) Cadet.

(9) Student observer.

(10) Apprentice engineer.

(11) Apprentice mate.

(c) The following ratings are established in part 13 of this subchapter. The endorsements indicate that an individual holding a valid MMC with this endorsement is qualified to serve in that capacity and the endorsement has been issued under the requirements contained in part 13 of this subchapter:

(1) Tankerman PIC.

(2) Tankerman PIC (Barge).

(3) Restricted tankerman PIC.

(4) Restricted tankerman PIC (Barge).

(5) Tankerman assistant.

(6) Tankerman engineer.

(d) The following STCW endorsements are established by STCW and issued according to the STCW Code, STCW Convention and parts 11 and 12 of this subchapter. The endorsements indicate that an individual holding a valid MMC with this endorsement is qualified to serve in that capacity and the endorsement has been issued under the requirements contained in parts 11 or 12 of this subchapter as well as the STCW Code and STCW Convention (incorporated by reference see § 10.103):

(1) Master.

(2) Chief mate.

(3) Officer in charge of a navigational watch (OICNW).

(4) Chief engineer.

(5) Second engineer officer.

(6) Officer in charge of an engineering watch in a manned engineroom or designated duty engineer in a periodically unmanned engineroom (OICEW).

(7) Rating forming part of a navigational watch (RFPNW).

(8) Rating forming part of a watch in a manned engineroom or designated to perform duties in a periodically unmanned engineroom (RFPEW).

(9) Proficiency in survival craft and rescue boats other than fast rescue boats (PSC).

(10) Proficiency in fast rescue boats.

(11) Person in charge of medical care.

(12) Medical first aid provider.

(13) GMDSS at-sea maintainer.

(14) GMDSS operator.

Subpart B—General Requirements for All Merchant Mariner Credentials

§ 10.201 General characteristics of the merchant mariner credential.

(a) A merchant mariner credential (MMC) (Coast Guard Form CG-4610), is a credential combining the elements of the merchant mariner's document (MMD), merchant mariner's license (license), and certificate of registry (COR) enumerated in 46 U.S.C. subtitle II part E as well as the STCW endorsement issued pursuant to the STCW Convention and STCW Code incorporated by reference in § 10.103. MMDs, licenses, STCW endorsements and CORs are no longer issued as separate documents and all qualifications formerly entered on those separate documents appear in the form of an endorsement(s) on an MMC.

(b) An MMC authorizes the holder to serve in any capacity endorsed thereon, or in any lower capacity in the same department, or in any capacity covered by a general endorsement.

(c) An MMC may be issued to qualified applicants by the National Maritime Center or at any Regional Examination Center during usual business hours, or through the mail.

§ 10.203 Requirement to hold a TWIC and a merchant mariner credential.

(a) Any mariner required to hold a license, MMD, COR, and/or an STCW endorsement by a regulation in 33 CFR chapter I or 46 CFR chapter I must hold an MMC. A mariner may continue to serve under the authority of and within any restriction on their license, MMD, COR, and/or STCW endorsement until the first renewal or upgrade of that credential, but not later than April 15, 2014.

(b) Failure to obtain or hold a valid TWIC serves as a basis for the denial of an application for an original, renewal, new endorsement, duplicate, or raise of grade of a mariner's credential and may serve as a basis for suspension and revocation under 46 U.S.C. 7702 and 7703.

(c) An MMC, license, MMD, COR, or STCW endorsement must be retained by the mariner to whom it was issued and, while valid, must be produced to verify qualifications when requested by an authorized official as identified in 33 CFR 101.515(d). Posting of the officer endorsement may be necessary as required in 46 U.S.C. 7110.

(d) Although an MMD and an MMC serve as certificates of identification, a TWIC must be retained by the mariner to whom it was issued and, while valid, serves as the mariner's primary identification document. The TWIC must be produced to verify identity when required by an authorized official as identified in 33 CFR 101.515(d).

§ 10.205 Validity of a merchant mariner credential.

(a) An MMC is valid for a term of five years from the date of issuance.

(b) All endorsements are valid until the expiration date of the MMC on which they appear.

(c) A mariner may not serve under the authority of an MMC past its expiration date. An expired MMC may be renewed during an administrative grace period of up to one year beyond its expiration date as per § 10.227(f) of this part.

(d) When an MMC is renewed or re-issued before its expiration date in accordance with § 10.227, the MMC that has been replaced becomes invalid.

(e) An MMC is not valid until signed by the applicant and a duly authorized Coast Guard official.

(f) A mariner's STCW endorsement is valid only when the related officer or rating endorsement is valid.

(g) A mariner's endorsements authorize the holder to serve in any capacity endorsed on the MMC, or in any lower capacity in the same department, or in any capacity covered by a general endorsement thereon.

(h) If a mariner chooses to renew his or her license, MMD, COR, or STCW endorsement and receive their first MMC, the Coast Guard may also renew all other credentials for which the mariner is qualified.

§ 10.207 Identification number.

For recordkeeping purposes only, a mariner's official MMC identification number is the individual's social security number. However, a unique serial number, and not the social security number, will appear on the credential.

§ 10.209 General application procedures.

(a) The applicant for an MMC, whether original, renewal, duplicate, raise of grade, or a new endorsement on a previously issued MMC, must establish to the Coast Guard that he or she satisfies all the requirements for the MMC and endorsement(s) sought before the Coast Guard will issue the MMC. This section contains the general requirements for all applicants. Additional requirements for duplicates, renewals, new endorsements, and raises of grade appear later in this part.

(b) The Coast Guard may refuse to process an incomplete MMC application. The requirements for a complete application for an original MMC are contained in § 10.225, the requirements for a renewal MMC application are in § 10.227, the requirements for a duplicate MMC application are contained in § 10.229, and the requirements for an application for a new endorsement or raise of grade are contained in § 10.231.

(c) Applications are valid for 12 months from the date that the Coast Guard approves the application.

(d) The portions of the application that may be submitted by mail, fax, or other electronic means may include:

(1) The application, consent for NDR check, and notarized oath on Coast Guard-furnished forms, and the evaluation fee required by § 10.219 of this part;

(2) The applicant's continuous discharge book, certificate of identification, MMD, MMC, license, STCW endorsement, COR, or, if it has not expired, a photocopy of the credential, including the back and all attachments;

(3) Proof, documented on a form provided by the Coast Guard, that the applicant passed the applicable vision, hearing, medical or physical exam as required by § 10.215 of this part;

(4) If the applicant desires a credential with a radar-observer endorsement in accordance with § 11.480 of this chapter, either the radar-observer certificate or a certified copy;

(5) Evidence of, or acceptable substitute for, sea service, if required;

(6) For an endorsement as a medical doctor or professional nurse as required in § 11.807, evidence that the applicant holds a currently valid, appropriate license as physician, surgeon, or registered nurse, issued under the authority of a state or territory of the United States, the Commonwealth of Puerto Rico, or the District of Columbia. Any MMC issued will retain any limitation associated with the medical license;

(7) Any certificates or other supplementary materials required to show that the mariner meets the mandatory requirements for the specific endorsement sought, as established in parts 11, 12 or 13 of this chapter; and

(8) An open-book exercise, in accordance with § 10.227(d)(8)(i) of this part.

(e) The following requirements must be satisfied before an original or renewal MMC, or new endorsement or a raise of grade added to a previously issued MMC, will be issued. These materials will be added to the individual's record by the Coast Guard:

(1) Determination of safety and suitability. No MMC will be issued as an original or reissued with a new expiration date, and no new officer endorsement will be issued if the applicant fails the criminal record review as set forth in § 10.211 of this part;

(2) NDR review. No MMC will be issued as an original or reissued with a new expiration date, and no new officer endorsement will be issued until the applicant has passed an NDR review as set forth in § 10.213 of this part; and

(3) Information supplied by the Transportation Security Administration (TSA). (i) Beginning on April 15, 2009, no MMC or endorsement will be issued until the Coast Guard receives the following information from the applicant's TWIC application: the applicant's fingerprints, FBI number and criminal record (if applicable), photograph, proof of United States citizenship, or Nationality with proof of legal resident status (if applicable). If the information is not available from TSA, the mariner may be required to visit a Regional Exam Center to provide this information.

(ii) Until April 15, 2009, no application for an MMC or endorsement will be considered complete until the applicant appears at a Regional Exam Center to provide the following information: the applicant's fingerprints, photograph, proof of United States citizenship, or Nationality with proof of legal resident status (if applicable).

(f) Upon determining that the applicant satisfactorily meets all requirements for an MMC or an endorsement thereon, the Coast Guard will issue the properly endorsed MMC to the applicant. Beginning April 15, 2009, the Coast Guard will not issue an MMC until it has received proof that the mariner holds a valid TWIC.

(g) When a new MMC is issued, the mariner must return the previously issued MMC, license, MMD, COR, or STCW endorsement to the Coast Guard, unless the new MMC is being issued to replace a lost or stolen credential. Upon written request at the time of application, the cancelled, previously issued credential(s) will be returned to the applicant.

(h) Unless otherwise stated in this Part, an applicant who fails a chemical test for dangerous drugs will not be issued an MMC.

§ 10.211 Criminal record review.

(a) The Coast Guard may conduct a criminal record review to determine the safety and suitability of an applicant for an MMC and any endorsements. An applicant conducting simultaneous MMC transactions will undergo a single criminal record review. At the time of application, each applicant must provide written disclosure of all convictions not previously disclosed to the Coast Guard on an application.

(b) A criminal record review is not required for applicants seeking a duplicate MMC under § 10.229.

(c) Fingerprints. Beginning September 25, 208, the Transportation Security Administration (TSA) will provide to the Coast Guard the applicant's fingerprints submitted by the applicant with his or her TWIC application and, if applicable, the applicant's FBI number and criminal record generated in the TWIC review process. This information, or the fingerprints taken by the Coast Guard at an REC, will be used by the Coast Guard to determine whether the applicant has a record of any criminal convictions.

(d) When a criminal record review leads the Coast Guard to determine that an applicant is not a safe and suitable person or cannot be entrusted with the duties and responsibilities of the MMC or endorsement applied for, the application may be disapproved.

(e) If an application is disapproved, the applicant will be notified in writing of that fact, the reason or reasons for disapproval, and advised that the appeal procedures in subpart 1.03 of part 1 of this chapter apply. No examination will be given pending decision on appeal.

(f) No person who has been convicted of a violation of the dangerous drug laws of the United States, the District of Columbia, any State, territory, or possession of the United States, or a foreign country, by any military or civilian court, is eligible for an MMC, except as provided elsewhere in this section. No person who has ever been the user of, or addicted to the use of a dangerous drug, or has ever been convicted of an offense described in section 205 of the National Driver Register Act of 1982, as amended (49 U.S.C. 30304) because of addiction to or abuse of alcohol is eligible for an MMC, unless he or she furnishes satisfactory evidence of suitability for service in the merchant marine as provided in paragraph (l) of this section. A conviction for a drug offense more than 10 years before the date of application will not alone be grounds for denial.

(g) The Coast Guard will use table 10.211(g) to evaluate applicants who have criminal convictions. The table lists major categories of criminal activity and is not to be construed as an all-inclusive list. If an applicant is convicted of an offense that does not appear on the list, the Coast Guard will establish an appropriate assessment period using the list as a guide. The assessment period commences when an applicant is no longer incarcerated. The applicant must establish proof of the time incarcerated and periods of probation and parole to the satisfaction of the Coast Guard. The assessment period may include supervised or unsupervised probation or parole.

Table 10.211(g)—Guidelines for Evaluating Applicants for MMCs Who Have Criminal Convictions
Crime ¹ | Assessment periods: Minimum | Assessment periods: Maximum
Assessment Periods for Officer and Rating Endorsements
Crimes Against Persons:
Homicide (intentional) | 7 years | 20 years.
Homicide (unintentional) | 5 years | 10 years.
Assault (aggravated) | 5 years | 10 years.
Assault (simple) | 1 year | 5 years.
Sexual Assault (rape, child molestation) | 5 years | 10 years.
Robbery | 5 years | 10 years.
Other crimes against persons ²
Vehicular Crimes
Conviction involving fatality | 1 year | 5 years.
Reckless Driving | 1 year | 2 years.
Racing on the Highways | 1 year | 2 years.
Other vehicular crimes ²
Crimes Against Public Safety
Destruction of Property | 5 years | 10 years.
Other crimes against public safety ²
Dangerous Drug Offenses ³ ⁴ ⁵
Trafficking (sale, distribution, transfer) | 5 years | 10 years.
Dangerous drugs (Use or possession) | 1 year | 10 years.
Other dangerous drug convictions ⁶
Assessment Periods for Officer Endorsements Only
Criminal Violations of Environmental Laws
Criminal violations of environmental laws involving improper handling of pollutants or hazardous materials | 1 year | 10 years.
Crimes Against Property
Burglary | 3 years | 10 years.
Larceny (embezzlement) | 3 years | 5 years.
Other crimes against property ²
¹ Conviction of attempts, solicitations, aiding and abetting, accessory after the fact, and conspiracies to commit the criminal conduct listed in this table carry the same minimum and maximum assessment periods provided in the table.
² Other crimes will be reviewed by the Coast Guard to determine the minimum and maximum assessment periods depending on the nature of the crime.
³ Applicable to original applications only. Any applicant who has ever been the user of, or addicted to the use of, a dangerous drug shall meet the requirements of paragraph (f) of this section. Note: Applicants for reissue of an MMC with a new expiration date including a renewal or additional endorsement(s), who have been convicted of a dangerous drug offense while holding a license, MMC, MMD, STCW endorsement or COR, may have their application withheld until appropriate action has been completed by the Coast Guard under the regulations which appear in 46 CFR part 5 governing the administrative actions against merchant mariner credentials.
⁴ The Coast Guard may consider dangerous drug convictions more than 10 years old only if there has been another dangerous drug conviction within the past 10 years.
⁵ Applicants must demonstrate rehabilitation under paragraph (l) of this section, including applicants with dangerous drug use convictions more than 10 years old.
⁶ Other dangerous drug convictions will be reviewed by the Coast Guard on a case by case basis to determine the appropriate assessment period depending on the nature of the offense.

(h) When an applicant has convictions for more than one offense, the minimum assessment period will be the longest minimum in table 10.211(g) and table 10.213(c) in § 10.213 based upon the applicant's convictions; the maximum assessment period will be the longest shown in table 10.211(g) and table 10.213(c) of § 10.213 based upon the applicant's convictions.

(i) If a person with a criminal conviction applies before the minimum assessment period shown in table 10.211(g) or established by the Coast Guard under paragraph (g) of this section has elapsed, then the applicant must provide, as part of the application package, evidence of suitability for service in the merchant marine. Factors that are evidence of suitability for service in the merchant marine are listed in paragraph (l) of this section. The Coast Guard will consider the applicant's evidence submitted with the application and may issue the MMC and/or endorsement in less than the listed minimum assessment period if the Coast Guard is satisfied that the applicant is suitable to hold the MMC and/or endorsement for which he or she has applied. If an application filed before the minimum assessment period has elapsed does not include evidence of suitability for service in the merchant marine, then the application will be considered incomplete and will not be processed by the Coast Guard.

(j) If a person with a criminal conviction submits their MMC application during the time between the minimum and maximum assessment periods shown in table 10.211(g) or established by the Coast Guard under paragraph (g) of this section, then the Coast Guard will consider the conviction and, unless there are offsetting factors, will grant the applicant the MMC and/or endorsement for which he or she has applied. Offsetting factors include such factors as multiple convictions, failure to comply with court orders (e.g., child support orders), previous failures at rehabilitation or reform, inability to maintain steady employment, or any connection between the crime and the safe operation of a vessel. If the Coast Guard considers the applicant unsuitable for service in the merchant marine at the time of application, the Coast Guard may disapprove the application.

(k) If a person with a criminal conviction submits their MMC application after the maximum assessment period shown in table 10.211(g) or established by the Coast Guard under paragraph (g) of this section has elapsed, then the Coast Guard will grant the applicant the MMC or endorsement for which he or she has applied unless the Coast Guard considers the applicant still unsuitable for service in the merchant marine. If the Coast Guard disapproves an applicant with a conviction older than the maximum assessment period listed in table 10.211(g), the Coast Guard will notify the applicant in writing of the reason(s) for the disapproval. The Coast Guard will also inform the applicant, in writing, that the reconsideration and appeal procedures contained in subpart 1.03 of this chapter apply.

(l) If an applicant has one or more alcohol or dangerous drug related criminal or NDR-listed convictions, if the applicant has ever been the user of, or addicted to the use of, a dangerous drug, or if the applicant applies before the minimum assessment period has elapsed for his or her conviction, the Coast Guard may consider the following factors, as applicable, in assessing the applicant's suitability to hold an MMC. This list is intended as a guide for the Coast Guard. The Coast Guard may consider other factors appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

§ 10.213 National Driver Register.

(a) No MMC will be issued as an original or reissued with a new expiration date, and no new officer endorsement will be issued, unless the applicant consents to a check of the NDR for offenses described in section 205(a)(3)(A) or (B) of the NDR Act (i.e., operation of a motor vehicle while under the influence of, or impaired by, alcohol or a controlled substance; and any traffic violations arising in connection with a fatal traffic accident, reckless driving, or racing on the highways).

(b) The Coast Guard will not consider NDR-listed civil convictions that are more than three years old from the date of request unless that information relates to a current suspension or revocation of the applicant's license to operate a motor vehicle. The Coast Guard may determine minimum and maximum assessment periods for NDR-listed criminal convictions using table 10.213(c). An applicant conducting simultaneous MMC transactions is subject to only one NDR check.

(c) The guidelines in table 10.213(c) will be used by the Coast Guard in evaluating applicants who have drug or alcohol related NDR-listed convictions. Non-drug or alcohol related NDR-listed convictions will be evaluated by the Coast Guard under table 10.211(g) of § 10.211 as applicable. The Coast Guard will consider non-drug or alcohol related NDR-listed convictions that are more than three years old from the date of the request when the information relates to a current suspension or revocation of the applicant's license to operate a motor vehicle.

Table 10.213(c)—Guidelines for Evaluating Applicants for MMCs Who Have NDR Motor Vehicle Convictions Involving Dangerous Drugs or Alcohol ¹
Number of convictions | Date of conviction | Assessment period
1 | Less than 1 year | 1 year from date of conviction.
1 | More than 1, less than 3 years | Application will be processed, unless suspension, or revocation ² is still in effect. Applicant will be advised that additional conviction(s) may jeopardize merchant mariner credentials.
1 | More than 3 years old | Not necessary unless suspension or revocation is still in effect.
2 or more | Any less than 3 years old | 1 year since last conviction and at least 3 years from 2nd most recent conviction, unless suspension or revocation is still in effect.
2 or more | All more than 3 years old | Application will be processed unless suspension or revocation is still in effect.
¹ Any applicant who has ever been the user of, or addicted to the use of, a dangerous drug shall meet the requirements of paragraph (a) of this section.
² Suspension or revocation, when referred to in table 10.213, means a State suspension or revocation of a motor vehicle operator's license.

(d) Any application may be disapproved if information from the NDR check leads the Coast Guard to determine that the applicant cannot be entrusted with the duties and responsibilities of the MMC or endorsement for which the application is made. If an application is disapproved, the Coast Guard will notify the applicant in writing of the reason(s) for disapproval and advise the applicant that the appeal procedures in subpart 1.03 of part 1 of this chapter apply. No examination will be given pending decision on appeal.

(e) Before disapproving an application because of information received from the NDR, the Coast Guard will make the information available to the applicant for review and written comment. The applicant may submit records from the applicable State concerning driving record and convictions to the Coast Guard REC processing the application. The REC will hold an application with NDR-listed convictions pending the completion of the evaluation and delivery by the individual of the underlying State records.

(f) If an applicant has one or more alcohol or dangerous drug related criminal or NDR-listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors, which it judges appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

§ 10.214 Security Check.

Until April 15, 2009, the Coast Guard may conduct a security check on an applicant for an MMC, utilizing the criminal record review discussed in § 10.211 of this part.

§ 10.215 Medical and physical requirements.

(a) Medical and Physical Exams. To qualify for an MMC an applicant must meet the medical and physical standards in this section. Columns 2 through 5 of table 10.215(a) provide the specific exam, test, or demonstrations required to obtain the corresponding credential listed in column 1. Further clarifications of the requirements contained in the table are found throughout this section. Any required test, exam, or demonstration must have been performed, witnessed, or reviewed by a licensed medical doctor, licensed physician assistant, or licensed nurse practitioner.

(1) First-class pilots, and those serving as pilots under § 15.812 of this part, on vessels and tank barges of 1,600 GRT or more must satisfactorily complete annual medical exams and, unless exempt per 46 CFR 16.220, pass annual chemical tests for dangerous drugs and submit the results to the Coast Guard.

(2) Medical exams for Great Lakes Pilots must be conducted by a licensed medical doctor in accordance with the physical exam requirements in 46 CFR 402.210.

Table 10.215(a)—Medical and Physical Requirements for Mariner Endorsements ¹
Credential | Vision test | Hearing test | General medical exam | Demonstration of physical ability
(i) Deck officer, including pilot | § 10.215(b)(1) | § 10.215(c) | § 10.215(d)(1) | § 10.215(e)(1)
(ii) Engineering officer | § 10.215(b)(2) | § 10.215(c) | § 10.215(d)(1) | § 10.215(e)(1)
(iv) Radio officer | § 10.215(b)(2) | § 10.215(c) | § 10.215(d)(1) | § 10.215(e)(1)
(v) Offshore installation manager, barge supervisor, or ballast control operator | § 10.215(b)(2) | § 10.215(c) | § 10.215(d)(1) | § 10.215(e)(1)
(vi) Able seaman | § 10.215(b)(1) | § 10.215(c) | § 10.215(d)(1) | § 10.215(e)(1)
(vii) QMED | § 10.215(b)(2) | § 10.215(c) | § 10.215(d)(1) | § 10.215(e)(1)
(viii) RFPNW | § 10.215(b)(1) | § 10.215(c) | § 10.215(d)(1) | § 10.215(e)(1)
(ix) RFPEW | § 10.215(b)(2) | § 10.215(c) | § 10.215(d)(1) | § 10.215(e)(1)
(x) Tankerman | § 10.215(b)(2) | § 10.215(c) | § 10.215(d)(1) | § 10.215(e)(1)
(xi) Food handler serving on vessels to which STCW does not apply |  |  | § 10.215(d)(2) |
(xii) Food handler serving on vessels to which STCW applies |  |  | § 10.215(d)(2) | § 10.215(e)(1)
(xiii) Ratings, including entry level, serving on vessels to which STCW applies, other than those listed above |  |  |  | § 10.215(e)(2)

(b) Vision Test—(1) Deck Standard. An applicant must have correctable vision to at least 20/40 in one eye and uncorrected vision of at least 20/200 in the same eye. An applicant having lost vision in one eye must wait six months before application and provide a statement of demonstrated ability on his or her medical examination. The color sense must be determined to be satisfactory when tested by any of the following methods or an alternative test approved by the Coast Guard, without the use of color-sensing lenses:

(i) Pseudoisochromatic Plates (Dvorine, 2nd Edition; AOC; revised edition or AOC-HRR; Ishihara 14-, 24-, or 38-plate editions).

(ii) Eldridge-Green Color Perception Lantern.

(iii) Farnsworth Lantern.

(iv) Keystone Orthoscope.

(v) Keystone Telebinocular.

(vi) SAMCTT (School of Aviation Medicine Color Threshold Tester).

(vii) Titmus Optical Vision Tester.

(viii) Williams Lantern.

(2) Engineering, radio operator, tankerman, and MODU standard. An applicant must have correctable vision of at least 20/50 in one eye and uncorrected vision of at least 20/200 in the same eye and need only have the ability to distinguish the colors red, green, blue and yellow.

(3) Any applicant whose uncorrected vision does not meet the standards listed above, and is granted a waiver in accordance with paragraph (g) of this section, may not serve under the authority of the endorsement unless corrective lenses are worn and spare lenses are carried onboard a vessel.

(c) Hearing test. If the medical practitioner conducting the general medical exam has concerns that an applicant's ability to hear may impact maritime safety, the examining medical practitioner, if not qualified to conduct the appropriate examinations, must refer the applicant to an audiologist or other hearing specialist to conduct an audiometer test and/or a speech discrimination test, as appropriate.

(1) The audiometer test should include testing at the following thresholds: 500 Hz; 1,000 Hz; 2,000 Hz; and 3,000 Hz. The frequency responses for each ear should be averaged to determine the measure of an applicant's hearing ability. Applicants must demonstrate an unaided threshold of 20 decibels or less in each ear.

(2) The functional speech discrimination test should be carried out at a level of 55 decibels. For issuance of an original MMC or endorsement the applicant must demonstrate functional speech discrimination of at least 90%. For renewal or raise of grade, the applicant must demonstrate functional speech discrimination of at least 80%. An applicant who is unable to meet the standards of the audiometer test, but who can pass the functional speech discrimination test, may be eligible for a medical waiver in accordance with paragraph (g) of this section.

(d) General medical exam. (1) This exam must be documented and of such scope to ensure that there are no conditions that pose an inordinate risk of sudden incapacitation or debilitating complication. This exam must also document any condition requiring medication that impairs judgment or reaction time. Examples of physical impairment or medical conditions that could lead to disqualification include, but are not limited to, poorly controlled diabetes, myocardial infarctions, psychiatric disorders, and convulsive disorders.

(2) Food handlers are not required to submit to a general medical exam, but must obtain a statement from a licensed physician, physician assistant, or nurse practitioner attesting that they are free of communicable diseases.

(e) Demonstration of physical ability. (1) A demonstration of physical ability is required only if the medical practitioner conducting the general medical exam is concerned that an applicant's physical ability may impact maritime safety or if table 10.215(a) shows that the mariner must pass a demonstration of physical ability, but he or she is not required to pass a general medical exam.

(2) For an applicant to satisfactorily pass a demonstration of physical ability, the examiner must be satisfied that the applicant:

(i) Has no disturbance in the sense of balance;

(ii) Is able, without assistance, to climb up and down vertical ladders and inclined stairs;

(iii) Would be able, without assistance, to step over a door sill or coaming;

(iv) Would be able to grasp, lift, and manipulate various common shipboard tools; move hands and arms to open and close valve wheels in vertical and horizontal directions, and rotate wrists to turn handles;

(v) Does not have any impairment or disease that could prevent normal movement and physical activities;

(vi) Is able to stand and walk for extended periods;

(vii) Does not have any impairment or disease that could prevent response to a visual or audible alarm; and

(viii) Is capable of normal conversation.

(f) Reports of medical and physical exams, demonstrations, and tests. These reports must be submitted within 12 months from the date signed by the licensed medical professional. When submitted with a complete application package these reports remain valid for 12 months from the date of the application approval.

(g) Medical waivers. Where an applicant does not possess the vision, hearing, or general physical condition necessary, the Coast Guard, after consultation with the examining licensed physician, licensed physician assistant, or licensed nurse practitioner may grant a waiver if extenuating circumstances warrant special consideration. An applicant may submit to the Coast Guard additional correspondence, records, and reports in support of a waiver. In this regard, recommendations from agencies of the Federal Government operating government vessels, as well as owners and operators of private vessels, made on behalf of their employees, will be given full consideration. Waivers are not normally granted to an applicant whose corrected vision in the better eye is not at least 20/40 for deck officers or 20/50 for engineer officers.

(h) Individuals holding only a staff officer endorsement need not meet the medical and physical requirements of this section.

§ 10.217 Merchant mariner credential application and examination locations.

(a) Applicants may apply to any of the Regional Examination Centers. Applicants may contact the National Maritime Center at 100 Forbes Drive, Martinsburg, WV 25404, or by telephone 1-888-427-5662 or 304-433-3400. A list of Regional Examination Center locations is available through the Coast Guard Web site at http://www.uscg.mil/stcw.

(b) Coast Guard-designated facilities. The Coast Guard may designate additional locations to provide services to applicants for MMCs.

(c) Exam Locations Abroad. (1) Coast Guard Merchant Marine Details abroad may conduct exams for ratings at locations other than the RECs, but are not prepared to conduct the physical examination where required. Merchant Marine Details may not issue regular rating endorsements, but temporary permits in lieu thereof. Merchant Marine Details will instruct the recipient of each temporary permit to present it to the OCMI, upon arrival in the first port in the United States in order to exchange it for a permanent credential.

(2) The temporary permit must be accepted by the OCMI as proof that the bearer has complied with the rules and regulations governing the issuance of credentials, except as noted in the body of the temporary permit. The requirements noted in the exceptions will be complied with as in the case of other applicants.

(3) The written examinations are forwarded to the National Maritime Center by Merchant Marine Details. When an applicant with a temporary permit appears before an OCMI, that OCMI may request and obtain the examination from the National Maritime Center. Any OCMI who doubts the propriety of issuing a permanent credential instead of a temporary permit which has been issued by an overseas Merchant Marine Detail must inform the National Maritime Center fully as to the circumstances.

§ 10.219 Fees.

(a) Use table 10.219(a) of this section to calculate the mandatory fees for MMCs and associated endorsements.

Table 10.219(a) Fees
If you apply for | And you need . . .: Evaluation then the fee is . . . | And you need . . .: Examination then the fee is . . . | And you need . . .: Issuance then the fee is . . .
MMC with officer endorsement:
Original:
Upper level | $100 | $110 | $45
Lower level | 100 | 95 | 45
Renewal | 50 | 45 | 45
Raise of grade | 100 | 45 | 45
Modification or removal of limitation or scope | 50 | 45 | 45
Radio officer endorsement:
Original | 50 | 45 | 45
Renewal | 50 | n/a | 45
Staff officer endorsements:
Original | 90 | n/a | 45
Renewal | 50 | n/a | 45
MMC with rating endorsement:
Original endorsement for ratings other than qualified ratings | 95 | n/a | 45
Original endorsement for qualified rating | 95 | 140 | 45
Upgrade or Raise of Grade | 95 | 140 | 45
Renewal endorsement for ratings other than qualified ratings | 50 | n/a | 45
Renewal endorsement for qualified rating | 50 | 45 | 45
STCW certification:
Original | No fee | No fee | No fee
Renewal | No fee | No fee | No fee
Reissue, replacement, and duplicate | n/a | n/a | ¹ $45
¹ Duplicate for MMC lost as result of marine casualty—No Fee.

(b) Fee payment procedures. Applicants may pay:

(1) All fees required by this section at the time the application is submitted; or

(2) A fee for each phase at the following times:

(i) An evaluation fee when the application is submitted.

(ii) An examination fee before the first examination section is taken.

(iii) An issuance fee before receipt of the MMC.

(c) If the examination is administered at a place other than an REC, the examination fee must be paid to the REC at least one week before the scheduled examination date.

(d) Unless the REC provides additional payment options, fees must be paid as follows:

(1) Fee payment(s) must be for the exact amount.

(2) Payments may be made by cash, check, money order, or credit card.

(3) Payments submitted by mail may not be made in cash. Mailed payments should specify the type of credential sought and the type of fee (e.g., evaluation, examination, issuance) being paid. The address for sending payment by mail can be found at http://www.uscg.mil/stcw/ldcr-userfees.htm.

(4) Checks or money orders are to be made payable to the U.S. Coast Guard, and the full legal name and last four digits of applicant's security number must appear on the front of each check or money order.

(5) Fee payment may be made by electronic payment in a manner specified by the Coast Guard. For information regarding current forms of electronic payment, go to http://www.uscg.mil/stcw/ldcr-userfees.htm.

(e) Unless otherwise specified in this part, when two or more endorsements are processed on the same application:

(1) Evaluation fees. If an applicant simultaneously applies for a rating endorsement and a deck or engineer officer's endorsement, only the evaluation fee for the officer's endorsement will be charged. If an applicant simultaneously applies for a staff officer or radio officer endorsement along with the deck or engineer officer's endorsement, only the evaluation fee for the deck or engineer officer's endorsement will be charged. No evaluation fee is charged for an STCW endorsement.

(2) Examination fees. One examination fee will be charged for each exam or series of exams for an original, raise of grade, or renewal of an endorsement on an MMC taken within one year from the date of the application approval. An examination fee will also be charged to process an open-book exercise used to renew an MMC. If an officer endorsement examination under part 11 of this chapter also fulfills the examination requirements in part 12 of this chapter for rating endorsements, only the fee for the officer endorsement examination is charged.

(3) Issuance fees. Only one issuance fee will be charged for each MMC issued, regardless of the number of endorsements placed on the credential. There is no fee for a Document of Continuity.

(f) The Coast Guard may assess additional charges to anyone to recover collection and enforcement costs associated with delinquent payments, failure to pay a fee, or returned checks. The Coast Guard will not provide credentialing services to a mariner who owes money for credentialing services previously provided.

(g) Anyone who fails to pay a fee or charge established under this subpart is liable to the United States Government for a civil penalty of not more than $6,500 for each violation.

(h) No-fee MMC for certain applicants. (1) For the purpose of this section, a no-fee MMC applicant is a person who is a volunteer, or a part-time or full-time employee of an organization that is:

(i) Charitable in nature;

(ii) Not for profit; and

(iii) Youth oriented.

(2) Determination of eligibility. (i) An organization may submit a written request to U.S. Coast Guard National Maritime Center, 100 Forbes Drive, Martinsburg, WV 25404, in order to be considered an eligible organization under the criteria set forth in paragraph (h)(1) of this section. With the written request, the organization must provide evidence of its status as a youth-oriented, not-for-profit, charitable organization.

(ii) The following organizations are accepted by the Coast Guard as meeting the requirements of paragraph (h)(1) of this section and need not submit evidence of their status: Boy Scouts of America, Sea Explorer Association, Girl Scouts of the United States of America, and Young Men's Christian Association of the United States of America.

(3) A letter from an organization determined eligible under paragraph (h)(2) of this section must also accompany the person's MMC application to the Coast Guard. The letter must state that the purpose of the person's application is solely to further the conduct of the organization's maritime activities. The applicant then is eligible under this section to obtain a no-fee MMC if other requirements for the MMC are met.

(4) An MMC issued to a person under this section is endorsed restricting its use to vessels owned or operated by the sponsoring organization.

(5) The holder of a no-fee MMC issued under this section may have the restriction removed by paying the appropriate evaluation, examination, and issuance fees that would have otherwise applied.

§ 10.221 Citizenship.

(a)(1) MMCs with officer Endorsements. Only individuals with valid U.S. citizenship may apply for officer endorsements, except individuals applying for endorsements as operators of uninspected passenger vessels authorizing service on undocumented vessels in accordance with § 11.201(d) of this part.

(2) All other MMCs. All other applicants, except as noted in § 12.40-11 of this subchapter, must be either:

(i) A citizen of the United States;

(ii) An alien, as defined under Section 101(a)(3) of the Immigration and Nationality Act (8 U.S.C. 1101 et seq.) (the Act), who is lawfully admitted to the United States for permanent residence, as defined by Section 101(a)(20) of the Act.; or

(iii) A foreign national who is enrolled in the United States Merchant Marine Academy (USMMA).

(b) Beginning April 15, 2009, proof of citizenship or alien status must be submitted to the Transportation Security Administration (TSA) with the applicant's TWIC application in accordance with 49 CFR 1572.17(a)(11). Until April 15, 2009, proof of citizenship or alien status must be submitted by appearing at a Regional Exam Center.

(c) TSA and the Coast Guard may reject any evidence of citizenship that is not believed to be authentic. Acceptable evidence of citizenship may be an original or a copy certified as true by the agency responsible for issuing the document of the following:

(1) If the individual is applying for an officer endorsement (with the exception of those applying for an MMC endorsed only as Operator of an Uninspected Passenger Vehicle (OUPV) of an undocumented vessel), the individual must provide an original of any one of the following documents:

(i) Certified copy of a birth certificate, issued by a State, county, municipality or outlying possession of the U.S. bearing an official seal;

(ii) U.S. passport (expired or unexpired);

(iii) Certificate of Citizenship issued by U.S. Citizenship and Immigration Services or the Immigration and Naturalization Service;

(iv) Certificate of Naturalization issued by U.S. Citizenship and Immigration Services or the Immigration and Naturalization Service; or

(v) Merchant mariner's document issued by the Coast Guard after February 3, 2003, that shows that the holder is a citizen of the United States.

(2) If the individual is applying for a rating endorsement and they hold one of the documents listed in paragraph (c)(1)(i) through (v) of this section, these documents are also acceptable as evidence of citizenship. If the individual does not hold any one of those documents listed in paragraph (c)(1)(i) through (v), the individual must provide an original unexpired foreign passport and an original of any one of the following documents:

(i) Permanent resident card (form I-551) issued by U.S. Citizenship and Immigration Services bearing the certification that the alien was admitted to the United States as an immigrant,

(ii) A declaration of intention to become a citizen of the United States issued by a naturalization court; or

(iii) A certificate issued by the consular representative of the country of which the alien is a citizen or subject.

(3) If the individual is the holder of or applying for a rating endorsement and the individual does not hold any of the documents listed in paragraphs (c)(1) or (2) of this section, proof of enrollment in the United States Merchant Marine Academy (USMMA) in the form of an original letter from the USMMA, signed by the Superintendent attesting to the individual's enrollment along with an unexpired foreign passport issued by the government of the country in which the alien is a citizen or subject, with a valid U.S. visa affixed to the passport, will be acceptable evidence of lawful status in the United States.

(4) If the individual is applying for an MMC endorsed only as OUPV of an undocumented vessel, the individual must provide an original of any one of the documents enumerated in paragraphs (c)(1)(i) through (v) or (c)(2)(i) or (ii) of this section, or proof of acceptable alien status as provided in 49 CFR 1572.105.

§ 10.223 Modification or removal of limitations or scope.

(a) If the Coast Guard is satisfied by the documentary evidence submitted that an applicant is entitled by experience, training, and knowledge to an endorsement or increase in the scope of any MMC held, any limitations that were previously placed upon the MMC by the Coast Guard may be changed or removed. Such an increase in scope may include a change in horsepower or tonnage limitations, or geographic route restrictions.

(b) Modifications or removal of limitations or scope to MMC endorsement(s) under this section will not change the expiration date of the mariner's MMC unless the applicant renews all endorsements that would appear on the MMC under § 10.227 of this part.

(c) A complete application for modification or removal of limitation of scope must contain the following:

(1) A completed signed application;

(2) Beginning April 15, 2009, proof that the mariner holds a valid TWIC;

(3) All supplementary materials required to show that the mariner meets the mandatory requirements for the transaction sought:

(i) The mandatory requirements for officer endorsements are contained in part 11 of this chapter.

(ii) The mandatory requirements for rating endorsements are contained in part 12 of this chapter.

(iii) The mandatory requirements for tankerman rating endorsements are contained in part 13 of this chapter.

(iv) The mandatory requirements for STCW endorsements are contained in parts 11 and 12 of this chapter and in the STCW Convention and Code (incorporated by reference, see § 10.103).

(4) The appropriate fee as set forth in § 10.219 of this part; and

(5) Any uncanceled MMD, MMC, license, STCW endorsement, or COR held by the applicant. If one or more of these credentials are still valid at the time of application, a photocopy, front and back of all pages, and all attachments, will satisfy this requirement. If the applicant submits a photocopy, upon the issuance of the new MMC, the applicant must surrender the old, original credential to the Coast Guard. If requested in writing at the time of submission, the old MMD, MMC, license, COR, or STCW endorsement may be returned to the applicant after cancellation.

(d) No limitation on any endorsement may be changed before the applicant has made up any deficiency in the experience prescribed for the endorsement or endorsement desired and passed any necessary examination.

§ 10.225 Requirements for original merchant mariner credentials.

(a) An applicant must apply as an original if the MMC sought is:

(1) The first credential issued to the applicant;

(2) The first credential issued to an applicant after their previous credential has expired and they do not hold a document of continuity under § 10.227(e) of this part or an equivalent unexpired continuity endorsement on their license or MMD; or

(3) The first credential issued to an applicant after their previous credential was revoked pursuant to § 10.235 of this part.

(b) A complete application for an original MMC must contain the following:

(1) A completed, signed application;

(2) Beginning April 15, 2009, proof that the mariner either holds a valid TWIC or has applied for a TWIC;

(3) All supplementary materials required to show that the mariner meets the mandatory requirements for all endorsements sought;

(i) The mandatory requirements for officer endorsements are contained in part 11 of this chapter.

(ii) The mandatory requirements for rating endorsements are contained in part 12 of this chapter.

(iii) For a tankerman rating endorsement, the applicant must also provide those documents or proofs required in part 13 of this chapter.

(iv) The mandatory requirements for STCW Endorsements are contained in parts 11 and 12 of this chapter and in the STCW Convention and Code (incorporated by reference, see § 10.103).

(4) The appropriate fee as set forth in § 10.219 of this part;

(5) Evidence of having passed a chemical test for dangerous drugs or of qualifying for an exemption from testing in § 16.220 of this subchapter;

(6) Discharges or other documentary evidence of service indicating the name, tonnage, and propulsion power of the vessels, dates of service, capacity in which the applicant served, and on what waters, where sea service is required;

(7) Proof, documented on a form provided by the Coast Guard, that the applicant passed all applicable vision, hearing, medical, and/or physical exams as required by § 10.215 of this part.

(8) Consent to a Coast Guard check of the NDR for offenses described in section 205(a)(3)(A) or (B) of the National Driver Register Act of 1982, as amended; and

(9) The oath as required in paragraph (c) of this section.

(c) Oath. Every person who receives an original MMC must first take an oath, before an official authorized to give such an oath, that he or she will faithfully and honestly, according to his or her best skill and judgment, without concealment or reservation, perform all the duties required by law and obey all lawful orders of superior officers. An oath may be administered by any Coast Guard-designated individual or any person legally permitted to administer oaths in the jurisdiction where the person taking the oath resides. An oath administered at a location other than those listed in § 10.217 must be verified in writing by the administering official and submitted to the same REC where the applicant applied for his or her MMC. This oath remains binding for any subsequently issued MMC and endorsements added to the MMC, unless specifically renounced in writing.

§ 10.227 Requirements for renewal.

(a) Except as provided in paragraph (e) of this section, an applicant for renewal of a credential must establish possession of all of the necessary qualifications before the renewal MMC will be issued.

(b) A credential may be renewed at any time during its validity and for one year after expiration.

(c) No credential will be renewed if it has been suspended without probation or revoked as a result of action under part 5 of this chapter or if facts that would render a renewal improper have come to the attention of the Coast Guard.

(d) Except as provided in paragraph (e) of this section, a complete application for renewal must contain the following:

(1) A completed, signed application;

(2) Beginning April 15, 2009, proof that the mariner holds a valid TWIC;

(3) The appropriate fee as set forth in § 10.219 of this part;

(4) Any uncanceled MMD, MMC, license, STCW endorsement, or COR held by the applicant. If one or more of these credentials are still valid at the time of application, a photocopy—front, back, and all attachments—will satisfy this requirement. If the applicant submits a photocopy, upon the issuance of the new MMC, the applicant must surrender the old original credential to the Coast Guard. If requested in writing at the time of submission, the old MMD, MMC, license, COR, or STCW endorsement may be returned to the applicant after cancellation;

(5) Evidence of having passed a chemical test for dangerous drugs or of qualifying for an exemption from testing in § 16.220 of this subchapter;

(6) Proof, documented on a form provided by the Coast Guard, that the applicant passed all applicable vision, hearing, medical, and/or physical exams as required by § 10.215 of this part;

(7) Consent to a Coast Guard check of the NDR for offenses described in section 205(a)(3)(A) or (B) of the National Driver Register Act of 1982, as amended;

(8) Except as provided in paragraph (d)(8)(viii) of this section, the applicant must meet the following professional requirements for renewal:

(i) The applicant must either—

(A) Present evidence of at least one year of sea service during the past five years;

(B) Pass a comprehensive, open-book exercise covering the general subject matter contained in appropriate sections of subpart (I) of this part;

(C) Complete an approved refresher training course; or

(D) Present evidence of employment in a position closely related to the operation, construction, or repair of vessels (either deck or engineer as appropriate) for at least three years during the past five years. An applicant for a deck license or officer endorsement with this type of employment must also demonstrate knowledge on an applicable Rules of the Road open-book exercise.

(ii) The qualification requirements for renewal of radar observer endorsement are in § 11.480 of this chapter.

(iii) Additional qualification requirements for renewal of an officer endorsement as first-class pilot are contained in § 11.713 of this chapter.

(iv) An applicant for renewal of a radio officer's endorsement must, in addition to meeting the requirements of this section, present evidence of a currently valid license as first or second-class radiotelegraph operator issued by the Federal Communications Commission. If submitted, the original license will be returned to the applicant.

(v) An applicant for renewal of an endorsement as medical doctor or professional nurse must, in addition to meeting the requirements of this section, present evidence that he or she holds a currently valid, appropriate license as physician, surgeon, or registered nurse issued under the authority of a state or territory of the United States, the Commonwealth of Puerto Rico, or the District of Columbia. Any such renewal will retain the limitations placed upon the medical license by the issuing body. There are no professional requirements for renewal of an endorsement as marine physician assistant or hospital corpsman.

(vi) An applicant for renewal of an endorsement as master or mate (pilot) of towing vessels must submit satisfactory evidence of:

(A) Having completed a practical demonstration of maneuvering and handling a towing vessel to the satisfaction of a designated examiner; or

(B) Ongoing participation in training and drills during the validity of the license or MMC being renewed.

(vii) An applicant seeking to renew a tankerman endorsement must meet the additional requirements listed in § 13.120 of this chapter.

(viii) There are no professional requirements for renewal for the following endorsements:

(A) Radio officer;

(B) Staff officers (all types);

(C) Ordinary seaman;

(D) Wiper;

(E) Steward's department (F.H.);

(F) Cadet;

(G) Student observer;

(H) Apprentice engineer;

(I) Apprentice mate (issued under part 12 of this subchapter);

(J) Person in charge of medical care;

(K) Medical first-aid provider;

(L) GMDSS at-sea maintainer; and

(M) GMDSS operator.

(9) Except as otherwise provided, each candidate for a renewal of an STCW endorsement must meet the applicable requirements of § 11.202 of this chapter and must meet the requirements of section A-VI/2, paragraphs 1 to 4 of the STCW Code (incorporated by reference in § 10.103).

(e) Document of continuity. (1) Applicants for renewal who are unwilling or otherwise unable to meet the requirements of paragraph (d) of this section, including but not limited to the medical and physical standards of § 10.215, drug tests, and TWIC, may apply for a document of continuity issued by the Coast Guard. Documents of continuity do not expire and are issued solely to maintain an individual's eligibility for renewal. A document of continuity does not entitle an individual to serve as a merchant mariner. A holder of a document of continuity may obtain a properly endorsed, valid MMC at any time by satisfying the requirements for renewal as provided in paragraph (d).

(2) Applications for a document of continuity must include:

(i) The credential to be renewed. Upon written request, the Coast Guard will return the credential to the applicant after it has been cancelled; and

(ii) An application including a signed statement from the applicant attesting to an awareness of the limited purpose of the Document of Continuity, their inability to serve, and the requirements to obtain an MMC.

(f) Administrative grace period. Except as provided herein, a credential may not be renewed more than 12 months after it has expired. To obtain a re-issuance of the credential, an applicant must comply with the requirements of paragraph (g) of this section. When an applicant's credential expires during a time of service with the Armed Forces and there is no reasonable opportunity for renewal, including by mail, this period may be extended. The period of military service following the date of expiration which precluded renewal may be added to the 12-month grace period. The 12-month grace period and any extensions do not affect the expiration date of the credential. A license, MMD, COR, STCW endorsement, MMC, and any endorsements thereon, are not valid for use after the expiration date.

(g) Re-issuance of expired credentials. (1) Whenever an applicant applies for re-issuance of an endorsement as deck officer, engineer officer, or qualified rating more than 12 months after expiration, instead of the requirements of paragraph (g) of this section, the applicant must demonstrate continued professional knowledge by completing a course approved for this purpose, or by passing the complete examination. The examination may be oral-assisted if the expired credential was awarded on an oral exam. The fees set forth in § 10.219 apply to these examinations. In the case of an expired radio officer's endorsement, the endorsement may be issued upon presentation of a valid first or second-class radiotelegraph operator license issued by the Federal Communications Commission.

(2) An endorsement for chief purser, purser, senior assistant purser, junior assistant purser, hospital corpsman, marine physician assistant, medical doctor, or professional nurse that has been expired for more than 12 months shall be renewed in the same way as a current endorsement of that type. There are no additional requirements for re-issuing endorsements for chief purser, purser, senior assistant purser, junior assistant purser, hospital corpsman, marine physician assistant, medical doctor, or professional nurse that have been expired for more than 12 months.

§ 10.229 Issuance of duplicate merchant mariner credentials.

(a) Upon request and without examination, a mariner may be issued a duplicate credential after submitting an application with an affidavit describing the circumstances of the loss. The Coast Guard will only issue the duplicate credential after confirming the validity of the mariner's credential and, beginning April 15, 2009, the validity of the mariner's TWIC.

(b) The duplicate will have the same authority, wording, and expiration date as the lost credential. A duplicate credential will reference the serial number, type, place of issue, and date of issue of the replaced credential(s). The duplicate issued will be in the form of an MMC. Until April 15, 2014, if a mariner seeks a duplicate of more than one credential, the MMC issued will reflect endorsements for all credentials lost, and the expiration date will match the earliest expiration date of the credentials lost.

(c) If a person loses a credential by shipwreck or other casualty, a duplicate will be issued free of charge. The term “other casualty” includes any damage to a ship caused by collision, explosion, tornado, wreck, flooding, beaching, grounding, or fire; or personal loss associated with a federally declared natural disaster.

(d) If a person loses a credential by means other than those noted in paragraph (c) of this section and applies for a duplicate, the appropriate fee set out in § 10.219 must be paid.

(e) No application from an alien for a duplicate credential will be accepted unless the alien complies with the requirements of § 10.221 of this part.

(f) Applications for duplicate credentials will not be subject to a criminal record review.

§ 10.231 Requirements for raises of grade or new endorsements.

(a) This section applies to applicants who already hold a valid credential and want to make the following transaction(s):

(1) Add a new endorsement; or

(2) Raise of grade of an existing endorsement.

(b) New endorsements or raises of grade of existing endorsements on an MMC under this section will not change the expiration date of the MMC unless the applicant renews all endorsements that appear on the MMC under § 10.227 of this part.

(c) A complete application for a new endorsement or raise of grade must contain the following:

(1) A completed, signed application;

(2) Beginning April 15, 2009, proof that the mariner holds a valid TWIC;

(3) All supplementary materials required to show that the mariner meets the mandatory requirements for the new endorsement(s) sought;

(i) The mandatory requirements for officer endorsements are contained in part 11 of this chapter and paragraph (d) of this section.

(ii) The mandatory requirements for rating endorsements are contained in part 12 of this chapter.

(iii) The mandatory requirements for tankerman rating endorsements are contained in part 13 of this chapter.

(iv) The mandatory requirements for STCW endorsements are contained in parts 11 and 12 of this chapter and in the STCW Convention and Code (incorporated by reference, see § 10.103).

(4) The appropriate fee as set forth in § 10.219 of this part;

(5) Any uncanceled MMD, MMC, license, STCW endorsement, or COR held by the applicant. If one or more of these credentials are still valid at the time of application, a photocopy—front, back, and all attachments—will satisfy this requirement. If the applicant submits a photocopy, upon the issuance of the new MMC, the applicant must surrender the old original credential to the Coast Guard. If requested in writing at the time of submission, the old MMD, MMC, license, COR, or STCW endorsement may be returned to the applicant after cancellation;

(6) Applicants for the following endorsements must produce evidence of having passed a chemical test for dangerous drugs or of qualifying for an exemption from testing in § 16.220 of this subchapter:

(i) Any officer endorsement; and

(ii) The first endorsement as able seaman, lifeboatman, qualified member of the engine department, or tankerman.

(7) An applicant for an endorsement where sea service is required must produce discharges or other documentary evidence of service, indicating the name, tonnage, and horsepower of the vessels, dates of service, capacity in which the applicant served, and on what waters;

(8) Applicants who have not submitted evidence within the past three years that they have passed all applicable vision, hearing, medical, and/or physical exams required in § 10.215 for the particular endorsement sought must submit proof, on a Coast Guard-approved form, that the applicant has passed those medical/physical tests and exams; and

(9) Consent to a Coast Guard check of the NDR for offenses described in section 205(a)(3)(A) or (B) of the National Driver Register Act of 1982, as amended.

(d) Additional requirements for an applicant seeking a raise of grade of an officer endorsement:

(1) Sea service acquired before the issuance of an officer endorsement is generally not accepted as any part of the service required for a raise of grade of that endorsement. However, service acquired before issuance of an officer endorsement will be accepted for certain crossovers, endorsements, or increases in scope of an MMC, as appropriate. In the limited tonnage categories for deck officers, total accumulated service is a necessary criterion for most raises of grade; service acquired before the issuance of such officer endorsements will, therefore, be accepted.

(2) No raise of grade may be issued to any naturalized citizen on less experience in any grade than would have been required of a citizen of the United States by birth.

(3) Experience and service acquired on foreign vessels while holding a valid U.S. officer endorsement is creditable for establishing eligibility for a raise of grade, subject to evaluation by the Coast Guard to determine that it is a fair and reasonable equivalent to service acquired on merchant vessels of the United States, with respect to grade, tonnage, horsepower, waters, and operating conditions. An applicant who has obtained the qualifying experience on foreign vessels shall submit satisfactory documentary evidence of such service (including any necessary translations into English) in the forms prescribed by paragraph (c)(7) of this section.

(4) An applicant remains eligible for a raise of grade while on probation as a result of action under part 5 of this chapter. A raise of grade issued to a person on probation will be subject to the same probationary conditions imposed against the applicant's other credentials. The offense for which he or she was placed on probation will be considered on the merits of the case in determining fitness to hold the endorsement applied for. No applicant will be examined for a raise of grade during any period when a suspension without probation or a revocation imposed under part 5 of this chapter is effective against the applicant's credential or while an appeal from these actions is pending.

(5) Professional examination. (i) When the Coast Guard finds an applicant's experience and training for raise of grade to be satisfactory, and the applicant is eligible in all other respects, the Coast Guard will authorize a professional examination.

(ii) Oral-assisted examinations may be administered in accordance with § 11.205(f) of this chapter. The Coast Guard will place in the applicant's file a record indicating the subjects covered.

(iii) The general instructions for administration of examinations and the lists of subjects for all officer endorsements appear in part 11, subpart I of this chapter.

§ 10.233 Obligations of the holder of a merchant mariner credential.

(a) The holder of a credential may not voluntarily part with it or place it beyond his or her personal control by pledging or depositing it with any other person, except as required by regulation or as necessary to safeguard the credential. If the holder violates this section, the Coast Guard may pursue suspension or revocation of the license, MMD, COR, or MMC under the provisions of part 5 of this chapter.

(b) Whenever a mariner loses a credential, he or she must immediately report the loss to the Coast Guard. The report must be made in writing, giving the facts incident to its loss.

(c) Invalid credentials must be returned to the Coast Guard. Upon written request, the Coast Guard will return the cancelled credential to the mariner.

§ 10.235 Suspension or revocation of merchant mariner credentials.

(a) Any MMC or endorsement is subject to suspension or revocation on the same grounds, in the same manner, and with like procedure as provided in 46 U.S.C. chapter 77.

(b) When any individual's credential is revoked, it is no longer valid for any purpose, and any MMC subsequently requested must be applied for as an original. When an endorsement on an individual's MMC is revoked, it is no longer valid, and any endorsement of the same type subsequently requested must be applied for as an original. When an officer's endorsement is revoked, the Coast Guard will issue an MMC containing any rating endorsement for which the holder is qualified.

(c) An applicant who has had a TWIC, credential, or endorsement revoked, and who is applying for a subsequent MMC or endorsement, must state in his or her application the date of revocation, the serial number of the document revoked, and the type of document or endorsement revoked.

(d) A person whose credential or endorsement has been revoked or suspended without probation may not be issued a replacement credential or endorsement without approval of the Commandant. If a mariner has multiple endorsements and one or more, but not all, of those endorsements are suspended or revoked, the mariner may apply for a replacement MMC reflecting those endorsements for which the mariner remains qualified.

(e) When a credential or endorsement that is about to expire has been suspended, the renewal of the credential or endorsement will be withheld until expiration of the suspension period.

(f) An applicant for renewal or return of a credential with endorsement as master or mate (pilot) of towing vessels whose most recent credential has been suspended or revoked by an administrative law judge for incompetence must complete the practical demonstration required under § 10.227(d)(8)(vi)(A).

(g) Beginning April 15, 2009, if the Coast Guard is advised by the Transportation Security Administration (TSA) that a mariner has either been denied a TWIC or their TWIC has been revoked, the Coast Guard may initiate suspension and revocation action against the mariner's MMC, license, MMD, and COR under 46 U.S.C. 7702 and 7703. During the subsequent suspension and revocation proceeding, the TSA decision to deny issuance of, or to revoke, a mariner's TWIC will not be subject to review, and the mariner's failure to hold a TWIC will be treated by the Coast Guard as proof that the mariner is not eligible for an MMC, license, MMD or COR.

(h) Beginning April 15, 2009, a mariner that has either been denied issuance of a TWIC or whose TWIC has been revoked for non-administrative reasons (e.g., being lost or stolen, not functioning, or having a misspelling) will be deemed ineligible for an MMC, license, MMD or COR.

§ 10.237 Right of appeal.

(a) If the Coast Guard refuses to grant an applicant an MMC or endorsement, a written statement listing the reason(s) for denial will be provided to the applicant.

(b) Any person directly affected by a decision or action taken under this subchapter, by or on behalf of the Coast Guard, may appeal under the provisions of subpart 1.03 of part 1 of this chapter.

(c) The Coast Guard will not review decisions made by the Transportation Security Administration to suspend, revoke, or deny a mariner's TWIC.

§ 10.239 Quick reference table for MMC requirements.

Table 10.239 provides a guide to the requirements for officer endorsements. Provisions in the reference section are controlling.

BILLING CODE 4910-15-P

BILLING CODE 4910-15-C

88. Revise the heading to newly redesignated part 11 to read as follows:

PART 11—REQUIREMENTS FOR OFFICER ENDORSEMENTS

89. The authority citation for part 11 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 11.107 is also issued under the authority of 44 U.S.C. 3507.

90. In newly redesignated § 11.101—

a. Revise paragraphs (a) and (a)(1) to read as set out below;

b. In paragraph (a)(2), in the last sentence, remove the words “in 1995” and “certificate or”;

c. In paragraph (b), remove the word “licenses” and add, in its place, the words “officer endorsements”; remove the words “all licensed personnel shall” and add, in their place, the words “each officer credentialed under this part must”; and, after the words “characteristics of”, remove the word “each” and add, in its place, the word “a”; and

d. In paragraph (c)(1), remove the words “license or license endorsement” and add, in their place, the words “officer endorsement”:

§ 11.101 Purpose of regulations.

(a) These regulations provide—

(1) A means of determining the qualifications an applicant must possess to be eligible for an officer endorsement as a staff officer, deck officer, engineer, pilot, or radio officer on merchant vessels, or for an endorsement to operate uninspected passenger vessels; and

* * * * *

91. Revise newly redesignated § 11.102 to read as follows:

§ 11.102 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 Second Street, SW., Washington, DC 20593-0001, 202-372-1405 and is available from the sources indicated in this section.

(b) International Maritime Organization (IMO), 4 Albert Embankment, London SE1 7SR, England, telephone: + 44 (0)20 7735 7611, http://www.imo.org:

(1) The International Convention on Standards of Training, Certification and Watchkeeping for Seafarers, 1978, as amended 1995 (the STCW Convention or the STCW), approved for incorporation by reference in §§ 11.202, 11.304, 11.603; 11.901, 11.903, 11.1005, and 11.1105.

(2) The Seafarers' Training, Certification and Watchkeeping Code, as amended 1995 (the STCW Code), approved for incorporation by reference in §§ 11.202, 11.304, 11.901, 11.903, 11.1005, and 11.1105.

§ 11.103 [Removed and Reserved]

92. Remove and reserve newly redesignated § 11.103.

§ 11.105 [Removed and Reserved]

93. Remove and reserve newly redesignated § 11.105.

94. In newly redesignated § 11.107, revise paragraphs (b)(1), (b)(2), and (b)(3) to read as follows:

§ 11.107 Paperwork approval.

* * * * *

(b) * * *

(1) OMB 1625-0040-46 CFR 11.201, 11.202, 11.205, 11.470, 11.472, 11.474, 11.542, and 11.544.

(2) OMB 1625-028-46 CFR 11.302, 11.303, 11.304, 11.480.

(3) OMB 1625-0079-46 CFR 11.304 and 11.309.

§ 11.109 [Removed and Reserved]

95. Remove and reserve newly redesignated § 11.109.

§ 11.110 [Removed and Reserved]

96. Remove and reserve newly redesignated § 11.110.

§ 11.111 [Removed and Reserved]

97. Remove and reserve newly redesignated § 11.111.

§ 11.112 [Removed and Reserved]

98. Remove and reserve newly redesignated § 11.112.

§ 11.113 [Removed and Reserved]

99. Remove and reserve newly redesignated § 11.113.

Subpart B—General Requirements for Officer Endorsements

100. Revise the heading to subpart B as set forth above.

101. Revise newly redesignated § 11.201 to read as follows:

§ 11.201 Eligibility for officer endorsements and STCW endorsements, general.

(a) In addition to the requirements of part 10 of this chapter, the applicant for an officer endorsement, whether original, renewal, duplicate, or raise of grade, must establish to the satisfaction of the Coast Guard that he or she possesses all the qualifications necessary (including but not limited to age, experience, character references and recommendations, physical health, citizenship, approved training, passage of a professional examination, a test for dangerous drugs, and when required by this part, a practical demonstration of skills) before the Coast Guard will issue a merchant mariner credential (MMC).

(b) Except as provided in § 11.467(h) of this part, an applicant for an officer endorsement must demonstrate an ability to speak and understand English as found in the navigation rules, aids to navigation publications, emergency equipment instructions, machinery instructions, and radiotelephone communications instructions.

(c) An applicant for an officer endorsement must have at least three months of qualifying service on vessels of appropriate tonnage or horsepower within the three years immediately preceding the date of application.

(d) No officer endorsement may be issued to any person who is not a citizen of the United States with the exception of operators of uninspected passenger vessels that are not documented under the laws of the United States.

(e) Except as specified in this paragraph, no officer endorsement may be issued to a person who has not attained the age of 21 years. The required evidence of age may be established using any of the items submitted to establish citizenship set out in 49 CFR 1572.17 of this chapter:

(1) An endorsement may be granted to an applicant who has reached the age of 19 years as:

(i) Master of near coastal, Great Lakes and inland, inland, or river vessels of 25-200 GRT;

(ii) Third mate;

(iii) Third assistant engineer;

(iv) Mate of vessels of 200-1,600 GRT;

(v) Ballast control operator (BCO);

(vi) Assistant engineer (MODU);

(vii) Assistant engineer of fishing industry vessels;

(viii) Mate (pilot) of towing vessels;

(ix) Radio officer;

(x) Assistant engineer (limited oceans); or

(xi) Designated duty engineer of vessels of not more than 4,000 horsepower.

(2) An endorsement may be granted to an applicant who has reached the age of 18 years as:

(i) Limited master of near-coastal vessels of not more than 100 GRT;

(ii) Limited master of Great Lakes and inland vessels of not more than 100 GRT;

(iii) Mate of Great Lakes and inland vessels of 25-200 GRT;

(iv) Mate of near coastal vessels of 25-200 GRT;

(v) Operator of uninspected passenger vessels (OUPV);

(vi) Designated duty engineer of vessels of not more than 1,000 horsepower; or

(vii) Apprentice mate (steersman) of towing vessels.

(f) Persons serving or intending to serve in the merchant marine service are encouraged to take the earliest opportunity to ascertain, through examination, whether their visual acuity, color vision, hearing, and general physical condition where required, are such as to qualify them for service in that profession. Any physical impairment or medical condition which would render an applicant incompetent to perform the ordinary duties required of an officer at sea is cause for denial of an officer endorsement.

(g) Applications for an original officer's endorsement, raises of grade, extensions of route, or STCW endorsements must be current and up to date with respect to service and the physical examination, as appropriate. Physical examinations and applications are valid for 12 months from the date the application is approved.

(h) Applicants for an endorsement as OUPV must meet the requirements for an officer endorsement.

(i) The Officer in Charge, Marine Inspection (OCMI), may modify the service and examination requirements in this part to satisfy the unique qualification requirements of an applicant. The OCMI may also lower the age requirement for OUPV applicants. The authority granted by an officer endorsement will be restricted to reflect any modifications made under the authority of this paragraph. These restrictions may not be removed without the approval of the OCMI issuing the license or officer endorsement.

102. Revise newly redesignated § 11.202 to read as follows:

§ 11.202 STCW endorsements.

(a) General. When an original MMC is issued, renewed, upgraded, or otherwise modified, the OCMI will determine whether the applicant needs to have an STCW endorsement for service on a seagoing vessel and then, if the applicant is qualified, will issue the appropriate endorsement. The OCMI will also issue an STCW endorsement at other times, if circumstances so require and if the applicant is qualified to hold the endorsement.

(b) Basic safety training or instruction. Except as provided in paragraph (f) of this section, an STCW endorsement will be issued only when the candidate provides evidence of having achieved or, if training has been completed, having maintained the minimum standards of competence for the following four areas of basic safety within the previous five years upon assessment of a practical demonstration of skills and abilities:

(1) Personal survival techniques as set out in table A-VI/1-1 of the STCW Code (incorporated by reference, see § 11.102).

(2) Fire prevention and firefighting as set out in table A-VI/1-2 of the STCW Code (incorporated by reference, see § 11.102).

(3) Elementary first aid as set out in table A-VI/1-3 of the STCW Code (incorporated by reference, see § 11.102).

(4) Personal safety and social responsibilities as set out in table A-VI/1-4 of the STCW Code (incorporated by reference, see § 11.102).

(c) Competence in the use of Automatic Radar-Plotting Aids (ARPA). (1) Subject to paragraphs (c)(2) and (f) of this section, each candidate for an STCW endorsement as master or mate for service on vessels in ocean or near-coastal service must present a certificate of completion from an approved course or from accepted training on an ARPA simulator. The course or training must be sufficient to establish that the applicant is competent to maintain safe navigation through the proper use of ARPA by correctly interpreting and analyzing the information obtained from that device and taking into account both the limitations of the equipment and the prevailing circumstances and conditions. The simulator used in the course or training must meet or exceed the performance standards established under STCW Regulation I/12 (incorporated by reference, see § 11.102).

(2) Training and assessment in the use of ARPA are not required for mariners serving exclusively on vessels not fitted with ARPA. However, when any mariner so serving has not completed it, his or her STCW endorsement will indicate this limitation.

(d) Endorsement for operator of radio in the Global Maritime Distress and Safety System (GMDSS). (1) Subject to paragraphs (d)(2) and (f) of this section, each candidate for an STCW endorsement as master or mate for service on vessels in ocean or near-coastal service shall present:

(i) A certificate for operator of radio in the GMDSS issued by the Federal Communications Commission (FCC); and

(ii) A certificate of completion from a Coast Guard-approved or accepted course for operator of radio in the GMDSS or from another approved or accepted program of training and assessment covering the same areas of competence. The course or program must be sufficient to establish that the applicant is competent to perform radio duties on a vessel participating in the GMDSS and meets the standard of competence under STCW Regulation IV/2 (incorporated by reference, see § 11.102).

(2) Paragraph (d)(1) of this section does not apply to a candidate intending to serve only as a pilot or intending to serve only on vessels not required to comply with the provisions of the GMDSS in Chapter IV of the Convention for the Safety of Life at Sea, 1974, as amended (SOLAS). SOLAS is available from the International Maritime Organization (IMO), 4 Albert Embankment, London SE1 7SR, England, telephone: + 44 (0)20 7735 7611, http://www.imo.org.

(3) Each candidate presenting a certificate described in paragraph (d)(1) of this section may receive a GMDSS endorsement.

(e) Procedures for bridge team work. Except as otherwise provided in paragraph (f) of this section, each candidate for an STCW endorsement as master or mate for service on vessels in ocean or near-coastal service must present sufficient documentary proof that he or she understands, and can effectively apply procedures for, bridge team work as an essential aspect of maintaining a safe navigational watch, taking into account the principles of bridge-resource management enumerated in Section B-VIII/2 of the STCW Code.

(f) Notwithstanding paragraph (b) through (e) of this section, § 11.304, and § 11.901, each mariner found qualified to hold any of the following officer endorsements will also be entitled to hold an STCW endorsement corresponding to the service or other limitations on the MMC, because the vessels concerned are not subject to further obligation under STCW because of their special operating conditions as small vessels engaged in domestic voyages:

(1) Masters, mates, or engineers endorsed for service on small passenger vessels that are subject to subchapter T or K of this chapter and that operate beyond the boundary line.

(2) Masters, mates, or engineers endorsed for service on seagoing vessels of less than 200 gross register tons (GRT), other than passenger vessels subject to subchapter H of this chapter.

(g) No mariner serving on, and no owner or operator of any of the following vessels, need hold an STCW endorsement, because they are exempt from application of STCW:

(1) Uninspected passenger vessels as defined in 46 U.S.C. 2101(42).

(2) Fishing vessels as defined in 46 U.S.C. 2101(11)(a).

(3) Fishing vessels used as fish-tender vessels as defined in 46 U.S.C. 2101(11)(c).

(4) Barges as defined in 46 U.S.C. 2101(2), including non-self-propelled mobile offshore drilling units.

(5) Vessels operating exclusively on the Great Lakes or on the inland waters of the U.S. in the Straits of Juan de Fuca inside passage.

§ 11.203 [Removed and Reserved]

103. Remove and reserve newly redesignated § 11.203.

§ 11.204 [Removed and Reserved]

104. Remove and reserve newly redesignated § 11.204.

105. Revise newly redesignated § 11.205 to read as follows:

§ 11.205 Requirements for original officer endorsements and STCW endorsements.

(a) General. In addition to the requirements in part 10 of this chapter and §§ 11.201 through 11.203 of this part, the applicant for an original officer endorsement must also satisfy the requirements of this section.

(b) Experience or training. (1) All applicants for original officer or STCW endorsements shall present to the OCMI letters, discharges, or other documents certifying the amount and character of their experience and the names, tonnage, and horsepower of the vessels on which acquired. The OCMI must be satisfied as to the authenticity and acceptability of all evidence of experience or training presented. Certificates of discharge are returned to the applicant. The OCMI shall note on the application that service represented by these documents has been verified. All other documentary evidence of service, or authentic copies thereof, is filed with the application. An MMC is not considered as satisfactory evidence of any qualifying experience.

(2) No original officer or STCW endorsement may be issued to any naturalized citizen based on less experience in any grade or capacity than would have been required of a citizen of the United States by birth.

(3) Experience and service acquired on foreign vessels is creditable for establishing eligibility for an original officer or STCW endorsement, subject to evaluation by the OCMI to determine that it is a fair and reasonable equivalent to service acquired on merchant vessels of the United States, with respect to grade, tonnage, horsepower, waters, and operating conditions. An applicant who has obtained qualifying experience on foreign vessels shall submit satisfactory documentary evidence of such service (including any necessary translation into English) in the forms prescribed by paragraph (b)(1) of this section.

(4) No applicant for an original officer or STCW endorsement who is a naturalized citizen, and who has obtained experience on foreign vessels, will be given an original officer endorsement in a grade higher than that upon which he or she has actually served while acting under the authority of a foreign credential.

(c) Character check and references. (1) Each applicant for an original officer or STCW endorsement must submit written recommendations concerning the applicant's suitability for duty from a master and two other individuals holding officer endorsements or licenses on vessels on which the applicant has served.

(i) For an officer endorsement as engineer or as pilot, at least one of the recommendations must be from the chief engineer or pilot, respectively, of a vessel on which the applicant has served.

(ii) For an officer endorsement as engineer where service was obtained on vessels not carrying a credentialed engineer and for an officer endorsement as master or mate (pilot) of towing vessels, the recommendations may be by recent marine employers with at least one recommendation from a master, operator, or person in charge of a vessel upon which the applicant has served.

(iii) For an officer endorsement as offshore installation manager, barge supervisor, or ballast control operator, at least one recommendation must be from an offshore installation manager of a unit on which the applicant has served.

(iv) Where an applicant qualifies for an endorsement through an approved training school or program, one of the character references must be an official of that school or program.

(v) For an endorsement for which no commercial experience may be required, such as master or mate 25-200 gross tons, OUPV, radio officer, or certificate of registry, the applicant may have the written recommendations of three persons who have knowledge of the applicant's suitability for duty.

(vi) A person may apply for an original officer or STCW endorsement, or officer or STCW endorsement of a different type, while on probation as a result of administrative action under part 5 of this chapter. The offense for which the applicant was placed on probation will be considered in determining his or her fitness to hold the endorsement applied for. An officer or STCW endorsement issued to an applicant on probation will be subject to the same probationary conditions as were imposed against the applicant's other credential. An applicant may not take an examination for an officer or STCW endorsement during any period when a suspension without probation or a revocation is effective against the applicant's currently held license, merchant mariner's document, or MMC, or while an appeal from these actions is pending.

(vii) If an original license, certificate of registry, or officer endorsement has been issued when information about the applicant's habits of life and character is brought to the attention of the OCMI, if such information warrants the belief that the applicant cannot be entrusted with the duties and responsibilities of the license, certificate of registry, or endorsement issued, or if such information indicates that the application for the license, certificate of registry, or endorsement was false or incomplete, the OCMI may notify the holder in writing that the license, certificate of registry, or endorsement is considered null and void, direct the holder to return the credential to the OCMI, and advise the holder that, upon return of the credential, the appeal procedures of § 10.237 of this chapter apply.

(d) Firefighting certificate. Applicants for officer endorsements in the following categories must present a certificate of completion from a firefighting course of instruction which has been approved by the Commandant. The course must meet both the basic and advanced sections of the International Maritime Organization's (IMO) Resolution A.437 (XI) Training of Crews in Firefighting. (Available from the International Maritime Organization (IMO), 4 Albert Embankment, London SE1 7SR, England, telephone: + 44 (0)20 7735 7611, http://www.imo.org). The course must have been completed within five years before the date of application for the officer endorsement requested.

(1) Officer endorsement as master on vessels of 200 GRT or less in ocean service.

(2) Officer endorsements as master or mate on vessels of more than 200 GRT.

(3) All officer endorsements for master or mate (pilot) of towing vessels, except apprentice mate (steersman) of the vessels, on oceans.

(4) All officer endorsements for MODUs.

(5) All officer endorsements for engineers.

(e) First aid and cardiopulmonary resuscitation (CPR) course certificates. All applicants for an original officer endorsement, except as provided in §§ 11.429, 11.456, and 11.467 of this part, must present to the OCMI:

(1) A certificate indicating completion of a first aid course not more than one year from the date of application from:

(i) The American National Red Cross Standard First Aid and Emergency Care or Multi-media Standard First Aid course;

(ii) A Coast Guard-approved first aid training course; or

(iii) A course the OCMI determines meets or exceeds the standards of the American Red Cross courses; and

(2) A currently valid certificate of completion of a CPR course from either:

(i) The American National Red Cross;

(ii) The American Heart Association;

(iii) A Coast Guard-approved CPR training course; or

(iv) A course the OCMI determines meets or exceeds the standards of the American Red Cross or American Heart Association courses.

(f) Professional Examination. (1) When the OCMI finds the applicant's experience and training to be satisfactory and the applicant is eligible in all other respects, the OCMI will authorize the examination in accordance with the following requirements:

(i) Any applicant for a deck or engineer officer endorsement limited to vessels not exceeding 500 GRT, or an officer endorsement limited to uninspected fishing-industry vessels, may request an oral-assisted examination in lieu of any written or other textual examination. If there are textual questions that the applicant has difficulty reading and understanding, the OCMI will offer the oral-assisted examination. Each officer endorsement based on an oral-assisted examination is limited to the specific route and type of vessel upon which the applicant obtained the majority of service.

(ii) The general instructions for administration of examinations and the lists of subjects for all officer endorsements appear in subpart I of this part. The OCMI will place in the applicant's file a record indicating the subjects covered.

(2) When the application of any person has been approved, the applicant should take the required examination as soon as practicable. If the applicant cannot be examined without delay at the office where the application is made, the applicant may request that the examination be given at another office.

(3) The qualification requirements for radar observer are contained in § 11.480 of this part.

(4) An examination is not required for a staff officer or radio officer endorsement.

(g) Practical demonstration of skills. Each candidate for an original STCW endorsement must successfully complete any practical demonstrations required under this part and appropriate to the particular endorsement concerned, to prove that he or she is sufficiently proficient in skills required under subpart I of this part. The OCMI must be satisfied with the authenticity and acceptability of all evidence that each candidate has successfully completed the demonstrations required under this part in the presence of a designated examiner. The OCMI will place a written or electronic record of the skills required, the results of the practical demonstrations, and the identification of the designated examiner in whose presence the requirements were fulfilled in the file of each candidate.

§ 11.207 [Removed and Reserved]

106. Remove and reserve newly redesignated § 11.207.

§ 11.209 [Removed and Reserved]

107. Remove and reserve newly redesignated § 11.209.

§ 11.210 [Removed and Reserved]

108. Remove and reserve newly redesignated § 11.210.

109. In newly redesignated § 11.211—

a. Revise the section heading;

b. In paragraph (a), remove the words “licensing purposes” and add, in their place, the words, “the purposes of this part”; and remove the words “officials or licensed masters” and add, in their place, the words “officials, or individuals holding an officer endorsement or license as master”;

c. In paragraph (b) introductory text, remove the word “license” and add, in its place, the words “officer endorsement”;

d. Revise paragraph (c); and

e. In paragraph (d), in the first sentence, remove the word “licenses” and add, in its place, the words “officer endorsement”; and in the second sentence, remove the word “license” and add, in its place, the words “officer endorsement”.

The revisions read as follows:

§ 11.211 Creditable service and equivalents for officer endorsements.

* * * * *

(c) Service on mobile offshore drilling units is creditable for raise of grade of officer endorsement. Evidence of one year's service as mate or equivalent while holding a license as third mate, or as engineering officer of the watch or equivalent while holding an officer endorsement or license as third assistant engineer, is acceptable for a raise of grade to second mate or second assistant engineer, respectively; however, any subsequent raises of grade of unlimited, nonrestricted officer licenses or endorsements must include a minimum of six months of service on conventional vessels.

* * * * *

§ 11.213 [Amended]

110. In newly redesignated § 11.213—

a. In paragraph (a), in the first sentence, remove the word “licenses” and add, in its place, the words “officer endorsements”; and in the fifth sentence, remove the word “license” and add, in its place, the words “officer endorsement”; and in the last sentence, remove the word “license” and add, in its place, the words “officer endorsement”;

b. In paragraph (b), remove the words “licensing purposes” wherever they appear and add, in their place, the words “the purposes of this part”;

c. In paragraph (d), remove the word “licenses” wherever it appears and add, in its place, the words “officer endorsements”; after the words “submitted for the” remove the word “license” and add, in its place, the word “endorsement”; and after the words “submitted for an original”, remove the word “license” and add, in its place, the words “officer endorsement”; and

d. In paragraph (e), after the words “in which a license”, add the words “or officer endorsement”.

§ 11.215 [Removed and Reserved]

111. Remove and reserve § 11.215.

§ 11.217 [Amended]

112. In newly redesignated § 11.217—

a. In the section heading, remove the word “licenses” and add, in its place, the words “officer endorsements”;

b. In paragraph (a)(1), after the words “deck and engineer unlimited”, remove the word “licenses” and add, in its place, the words “officer endorsements”; and remove the words “table 10.109 in § 10.109” and add, in their place, the words “table 10.219(a) in § 10.219 of this chapter”;

c. In paragraph (a)(2), after words “deck and engineer”, remove the words “license” and add, in its place, the words “officer endorsement”; and remove the words “table 10.109 in § 10.109” and add, in their place, the words “table 10.219(a) in § 10.219 of this chapter”; and

d. In paragraph (b), remove the word “license” and add, in its place, the word “endorsement”; and remove the words “the applicant is furnished” and add, in their place, the words “the Coast Guard will provide the applicant”.

§ 11.219 [Removed and Reserved]

113. Remove and reserve newly redesignated § 11.219.

§ 11.221 [Removed and Reserved]

114. Remove and reserve newly redesignated § 11.221.

§ 11.223 [Removed and Reserved]

115. Remove and reserve newly redesignated § 11.223.

§ 11.302 [Amended]

116. In newly redesignated § 11.302(e), remove the words “parts 10, 12, 13 or 15,” and add, in their place, the words “parts 10, 11, 12, 13, or 15”.

117. Revise newly designated § 11.304 paragraphs (a), (c), (d), (e), (f), (g)(2), (g)(3), (g)(6), (g)(7), (h) introductory text, (h)(5), (h)(7), (h)(8), and (j) to read as follows:

§ 11.304 Substitution of training for required service, use of training-record books, and use of towing officer assessment records.

(a) Satisfactory completion of certain training courses approved by the Commandant may be substituted for a portion of the required service for many deck and engineer officer endorsements and for qualified rating endorsements. The list of all currently approved courses of instruction, including the equivalent service and applicable endorsements, is maintained by the National Maritime Center. Satisfactory completion of an approved training course may be substituted for not more than two-thirds of the required service on deck or in the engine department for deck or engineer officer endorsements, respectively, and qualified rating endorsements.

* * * * *

(c) Training obtained before receiving an officer endorsement may not be used for subsequent raises of grade.

(d) Simulator training in combination with a Coast Guard-approved training course may be submitted to the Commanding Officer, National Maritime Center, for evaluation and determination of equivalency to required sea service. Simulator training cannot be substituted for recency requirements, but may substitute for a maximum of 25 percent of the required service for any officer endorsement transaction.

(e) Except as provided in § 11.202 of this part, when a candidate both applies for an STCW endorsement as OICNW, on the basis of training or sea service, and uses completion of approved training to substitute for required service, then not less than one year of the remaining service must be part of approved training that meets the appropriate requirements of Chapter II of STCW (incorporated by reference, see § 11.102) and the requirements of subpart C of this part. The training of a candidate must be documented in a Coast Guard-accepted training-record book.

(f) Except as provided in § 11.202 of this part, each candidate who applies for an STCW endorsement as an OICEW on the basis of training or sea service for service on seagoing vessels, shall complete onboard training as part of approved training that meets the appropriate requirements of Chapter III of STCW (incorporated by reference, see § 11.102) and the requirements of subpart C of this part. The training must be documented in a Coast Guard-accepted training-record book.

(g) * * *

(2) The tasks to be performed or the skills to be demonstrated, with reference to the standards of competence set forth in the tables of the appropriate sections in part A of the STCW Code (incorporated by reference, see § 11.102).

(3) The criteria to be used in determining that the tasks or skills have been performed properly, again with reference to the standards of competence set forth in the tables of the appropriate sections in part A of the STCW Code (incorporated by reference, see § 11.102).

* * * * *

(6) The identity of each qualified instructor, including any MMC endorsements, license, or document held, and the instructor's signature.

(7) The identity of each designated examiner, when any assessment of competence is recorded, including any MMC endorsement, license, or document held, and the examiner's signature confirming that his or her initials certify that he or she has witnessed the practical demonstration of a particular task or skill by the candidate.

(h) Each applicant for an endorsement as master or mate (pilot) of towing vessels, and each master or mate of self-propelled vessels of greater than 200 GRT seeking an endorsement for towing vessels, shall complete a towing officers' assessment record that contains at least the following:

* * * * *

(5) A place for a qualified instructor or credentialed officer (with authority to operate a towing vessel) to indicate by his or her initials that the candidate has received training in the proper performance of the tasks or skills.

* * * * *

(7) Identification of each qualified instructor or credentialed officer (with authority to operate a towing vessel) by full name, home address, employer, job title, ship name or business address, MMC, license, or document held, and personal signature.

(8) Identification of each designated examiner by full name, home address, employer, job title, ship name or business address, serial number of the TWIC, MMC, license, or document held, and personal signature confirming that his or her initials certify that he or she has witnessed the practical demonstration of a particular task or skill by the candidate.

* * * * *

(j) Substitution of a training program in lieu of required service for an endorsement as mate (pilot) of towing vessels is governed by § 11.465(a) and Table 11.465-1 of this part.

§ 11.309 [Amended]

118. In newly redesignated § 11.309—

a. In paragraph (a) introductory text, remove the citation “§ 10.302” and add, in its place, the citation “§ 11.302”; after the words “hold an STCW”, remove the words “certificate or”; and remove the words “for service on or after February 1, 2002”;

b. In paragraph (a)(3)(iii), after the words “level of license,” add the word “officer”;

c. In paragraph (a)(4), after the words “maritime license”, add the words “, MMC,”;

d. In paragraph (b), in the second sentence, remove the word “licenses” and add, in its place, the word “officer”;

e. In paragraph (c)(2), remove the words “(G-MOC)” and add, in their place, the words “(CG-543)”; and

f. In paragraph (c)(3), remove the words “STCW endorsement” and add, in their place, the words “officer or STCW endorsements”.

Subpart D—Professional Requirements for Deck Officers

119. Revise the heading for subpart D to read as set forth above.

120. Revise newly redesignated § 11.401 to read as follows:

§ 11.401 Ocean and near-coastal officer or STCW endorsements.

(a) Any license or MMC endorsement for service as master or mate on ocean waters qualifies the mariner to serve in the same grade on any waters, subject to the limitations of the endorsement.

(b) A license or MMC endorsement issued for service as master or mate on near-coastal waters qualifies the mariner to serve in the same grade on near-coastal, Great Lakes, and inland waters, subject to the limitations of the endorsement.

(c) Near-coastal endorsements for any gross tons require the same number of years of service as the ocean-unlimited endorsements. The primary differences in these endorsements are the nature of the service and the professional examination as explained in subpart I of this part.

(d) A mariner having a master or mate near-coastal license or MMC endorsement obtained with ocean service may have an MMC endorsed for ocean service by completing the appropriate examination deficiencies, provided that the additional service requirements of paragraph (e) of this section do not apply.

(e) Master or third mate near-coastal unlimited endorsements may be obtained by completing the prescribed examination in subpart I of this part and satisfying the requirements of paragraph (g) of this section while holding a license or MMC endorsement as unlimited master or mate, respectively, upon Great Lakes and inland waters. To have a near-coastal-unlimited endorsement obtained in this manner endorsed for ocean service, the mariner must obtain 12 months of service as a deck-watch officer or higher on ocean waters on vessels of 1,600 GRT or over, in addition to completing the examination topics.

(f) Masters and mates endorsements for service on vessels of more than 200 gross tons may be endorsed for sail or auxiliary sail as appropriate. The applicant must present the equivalent total qualifying service required for conventional officer endorsements including at least one year of deck experience on that specific type of vessel. For example, for an officer endorsement as a master of vessels of not more than 1,600 gross tons endorsed for auxiliary sail, the applicant must meet the total experience requirements for the conventional officer endorsement, including time as mate and the proper tonnage experience, including at least one year of deck service on appropriately sized auxiliary-sail vessels. For an endorsement to serve on vessels of 200 gross tons or less, see individual endorsement requirements.

(g) In order to obtain a master or mate endorsement with a tonnage limit above 200 gross tons, or an endorsement for 200 gross tons or less with an ocean route, whether an original, raise in grade, or increase in the scope of the endorsement authority to a higher tonnage category, the applicant must successfully complete the following training and examination requirements:

(1) Approved firefighting course;

(2) Approved radar-observer course; and

(3) Qualification as an able seaman unlimited or able seaman limited (able seaman special or able seaman offshore supply vessels satisfy the able seaman requirement for endorsements permitting service on vessels of 1,600 gross tons or less).

(h) Each applicant for a deck officer endorsement, which authorizes service on vessels above 1,600 gross tons on ocean or near-coastal waters, whether original or raise of grade, must pass a practical-signaling examination (flashing light). An applicant who fails in practical signaling, but passes every other part of the examination, may be issued an endorsement with a 1,600 gross ton limitation. The tonnage limitation can be removed upon successful completion of the signaling examination.

121. In newly redesignated § 11.402—

a. Revise the section heading;

b. In paragraph (a), remove the word “license” and add, in its place, the word “endorsement”;

c. Revise paragraph (b);

d. In paragraph (c)(1), remove the word “licensed” and add in its place, the word “endorsed”;

e. In paragraph (c)(2), remove the words “licensed capacity” and add, in their place, the words “capacity as an officer”; after the words “for which”, remove the word “licensed” and add, in its place, the word “endorsed”; after the words “next higher grade”, remove the word “license” and add, in its place, the word “endorsement”; and after the words “limited license”, add the words “or MMC endorsement”;

f. In paragraph (c)(3), after the words “a license”, add the words “or endorsement”; and after the words “third mate's license”, add the words “or MMC endorsement”; and

g. In paragraph (d), after the word “licenses”, wherever it appears, add the words “or endorsements”.

The revisions read as follows:

§ 11.402 Tonnage requirements for ocean or near coastal endorsements for vessels of over 1600 gross tons.

* * * * *

(b) If the applicant for an endorsement as master or mate does not have the service on vessels over 1600 gross tons required by paragraph (a) of this section, or is qualifying for third mate under the provisions of § 11.407(c) of this subpart, a tonnage limitation is placed on the endorsement based on the applicant's qualifying experience. The endorsement is limited to the maximum tonnage on which at least 25 percent of the required experience was obtained, or 150 percent of the maximum tonnage on which at least 50 percent of the service was obtained, whichever is higher. Limitations are in multiples of 1000 gross tons, using the next higher figure when an intermediate tonnage is calculated. When the calculated limitation equals or exceeds 10,000 gross tons, the applicant is issued an unlimited tonnage endorsement.

* * * * *

122. Revise § 11.403 to read as follows:

§ 11.403 Structure of deck officer endorsements.

The following diagram illustrates the deck officer endorsement structure, including cross over points. The section numbers on the diagram refer to the specific requirements applicable.

§ 11.404 [Amended]

123. In newly redesignated § 11.404—

a. In the introductory text, remove the word “license” and add, in its place, the words “an endorsement”; and

b. In paragraph (b) introductory text, after the words “holding a license”, add the words “or MMC endorsement”.

§ 11.405 [Amended]

124. In newly redesignated § 11.405, after the words “qualify an applicant for” remove the word “license” and add, in its place, the words “an endorsement”; and after the words “holding a license”, add the words “or MMC endorsement”.

§ 11.406 [Amended]

125. In newly redesignated § 11.406—

a. In the introductory text, remove the word “license” and add, in its place, the words “an endorsement”;

b. In paragraph (a), after the words “holding a license”, add the words “or endorsement”;

c. In paragraph (b) introductory text, after the words “holding a license”, add the words “or MMC endorsement”;

d. In paragraph (b)(2), after the words “holding a certificate”, add the words “or MMC endorsement”; and

e. In paragraph (c), remove the words “A licensed” and add, in their place, the words “An individual holding an endorsement or license as”; and after the words “may obtain”, remove the words “a license” and add, in their place, the words “an endorsement”.

§ 11.407 [Amended]

126. In newly redesignated § 11.407—

a. In paragraph (a) introductory text, remove the word “license” and add, in its place, the words “an endorsement”;

b. In paragraph (a)(1), after the words “a certificate”, add the words “or endorsement”; and remove the word “license” and add, in its place, the words “officer endorsement”;

c. In paragraph (b), remove the words “a license” and add, in their place, the words “an endorsement”; and

d. In paragraph (c), after the words “holding a license”, add the words “or MMC endorsement”; and after the words “qualify the applicant for”, remove the words “a license” and add, in their place, the words “an endorsement”.

§ 11.410 [Amended]

127. In newly redesignated § 11.410—

a. In the section heading, remove the word “licenses” and add, in its place, the words “officer endorsements”;

b. In paragraph (a) introductory text, remove the word “Licenses” and add, in its place, the word “Endorsements”;

c. In paragraph (b), remove the word “license” and add, in its place, the word “endorsement”; and

d. In paragraph (c), remove the words “A license” and add, in their place, the words “An officer's endorsement”.

§ 11.412 [Amended]

128. In newly redesignated § 11.412—

a. In the introductory text, remove the words “a license” and add, in their place, the words “an endorsement”;

b. In paragraph (a), after the words “holding a license”, add the words “or MMC endorsement”; and remove the words “master, mate master or mate (pilot)” wherever they appear and add, in their place, the words “master, mate, master or mate (pilot)”; and

c. In paragraph (b), after the words “holding a license”, add the words “or MMC endorsement”; and after the words “eligible for this”, remove the word “license” and add, in its place, the word “endorsement”.

§ 11.414 [Amended]

129. In newly redesignated § 11.414—

a. In the introductory text, remove the words “a license” and add, in their place, the words “an endorsement”; and

b. In paragraph (a), after the words “holding a license” add the words “or MMC endorsement”; and remove the words “master, mate master or mate (pilot)” wherever they appear and add, in their place, the words “master, mate, master or mate (pilot)”.

§ 11.416 [Amended]

130. In newly redesignated § 11.416 text, remove the words “a license” and add, in their place, the words “an endorsement”; and after the words “holding a certificate”, add the words “or endorsement”.

§ 11.418 [Amended]

131. In newly redesignated § 11.418—

a. In the introductory text, remove the words “a license” and add, in their place, the words “an endorsement”;

b. In paragraph (a), after the words “holding a license”, add the words “or MMC endorsement”;

c. In paragraph (b), after the words “The holder of a license”, add the words “or MMC endorsement”; and after the words “is eligible for”, remove the words “a license” and add, in their place, the words “an endorsement”.

§ 11.420 [Amended]

132. In newly redesignated § 11.420 text, after the words “qualify an applicant for” remove the words “a license” and add, in their place, the words “an endorsement”; and after the words “position while holding a license”, add the words “or endorsement”.

§ 11.421 [Amended]

133. In newly redesignated § 11.421 text, remove the words “a license” and add, in their place, the words “an endorsement”; and after the words “holding a certificate”, add the words “or endorsement”.

§ 11.422 [Amended]

134. In newly redesignated § 11.422—

a. In the section heading, remove the word “licenses” and add, in its place, the word “endorsements”;

b. In paragraph (a), remove the word “licenses” and add, in its place, the word “endorsements”; and remove the word “license” and add, in its place, the word “endorsement”;

c. In paragraph (b) introductory text, remove the word “licenses” and add, in its place, the word “endorsements”;

d. In paragraphs (b)(1) and (b)(2), remove the word “license” wherever it appears and add, in its place, the word “endorsement”;

e. In paragraph (b)(3), remove the word “license” and add, in its place, the words “officer endorsement”;

f. In paragraph (b)(4), after the words “increment on the”, remove the word “license” and add, in its place, the words “officer's license or MMC endorsement”;

g. In paragraph (c), after the words “vessels upon which”, remove the words “licensed personnel are not required” and add, in their place, the words “no personnel need an officer endorsement or license”; and after the words “required to engage”, remove the words “licensed individuals” and add, in their place, the words “individuals with officer endorsements”; and

h. In paragraph (e), remove the word “license” and add, in its place, the words “officer endorsement”.

§ 11.424 [Amended]

135. In newly redesignated § 11.424—

a. In paragraph (a) introductory text, remove the words “a license” and add, in their place, the words “an officer endorsement”;

b. In paragraph (a)(1), after the words “holding a license”, add the words “or MMC endorsement”;

c. In paragraph (a)(2), remove the word “licensed”;

d. In paragraph (b), remove the words “endorsement on this license” and add, in their place, the words “officer endorsement”; and after the words “master's license”, add the words “or MMC endorsement”; and

e. In paragraph (c), remove the words “§ 10.401(g) of this subpart” and add, in their place, the words “§ 11.401(g)”.

§ 11.426 [Amended]

136. In newly redesignated § 11.426—

a. In paragraph (a) introductory text, remove the words “a license” and add, in their place, the words “an endorsement”;

b. In paragraph (a)(1), after the words “holding a license” add the words “or endorsement”;

c. In paragraph (a)(2), remove the word “licensed”; and

d. In paragraph (b), remove the words “an endorsement on this license” and add, in its place, the words “this officer endorsement”; and after the words “of the master's license”, add the words “or MMC endorsement”.

§ 11.427 [Amended]

137. In newly redesignated § 11.427—

a. In paragraph (a) introductory text, remove the word “license” and add, in its place, the word “endorsement”;

b. In paragraph (a)(2), after the words “holding a license”, add the words “or MMC endorsement”;

c. In paragraph (b), after the words “holder of a license”, add the words “or MMC endorsement”; and after the words “may obtain this”, remove the word “license” and add, in its place, the word “endorsement”;

d. In paragraph (c), remove the words “an endorsement on this license” and add, in its place, the words “this officer endorsement”;

e. In paragraph (d), after the words “A license”, add the words “or MMC endorsement”; and

f. In paragraph (e), after the words “a tonnage endorsement”, remove the word “of” and add, in its place, the word “for”.

§ 11.428 [Amended]

138. In newly redesignated § 11.428—

a. In paragraph (a), remove the words “a license” and add, in their place, the words “an endorsement”; and

b. In paragraph (b), remove the words “endorsement on this license” and add, in their place, the word “endorsement”; and after the words “issuance of the license”, add the words “or MMC endorsement”.

§ 11.429 [Amended]

139. In newly redesignated § 11.429—

a. In paragraph (a) introductory text, after the words “Limited masters”', remove the word “licenses” and add, in its place, the word “endorsements”; after the words “educational institutions.”, remove the words “A license” and add, in their place, the words “An endorsement”; and after the words “obtain this restricted”, remove the word “license” and add, in its place, the word “endorsement”;

b. In paragraph (a)(1), after the words “for which the” remove the word “license” and add, in its place, the word “endorsement”;

c. In paragraph (b), remove the words “§ 10.205(h) of this part” and add, in their place, the words “§ 11.205(e)”; and

d. In paragraph (c), after the words “obtain an endorsement”, remove the words “on this license” and after the words “issuance of the license” add the words “or MMC endorsement”.

§ 11.430 [Amended]

140. In newly redesignated § 11.430—

a. In the section heading, remove the word “Licenses” and add, in its place, the word “Endorsements”; and

b. In the text, after the words “Any license”, wherever they appear, add the words “or MMC endorsement”; after the word “licenses”, wherever it appears, add the words “and MMC endorsements”; and, after the words “COLREGS or the”, remove the words “license must be endorsed with an exclusion from” and add, in their place, the words “endorsement must exclude”.

§ 11.431 [Amended]

141. In newly redesignated § 11.431—

a. In the section heading, remove the word “licenses”, and add, in its place, the word “endorsements”;

b. In paragraph (a), remove the word “licenses”, and add, in its place, the word “endorsements”; and

c. In paragraph (b), remove the word “licenses”, and add, in its place, the word “endorsements”; and remove the citation “§ 10.402” and add, in its place, the citation “§ 11.402”.

§ 11.433 [Amended]

142. In newly redesignated § 11.433—

a. In the introductory text, remove the word “license” and add, in its place, the words “an endorsement”; and

b. In paragraph (c), after the words “holding a license”, add the word “or MMC endorsement”.

§ 11.435 [Amended]

143. In newly redesignated § 11.435—

a. In the introductory text, remove the word “license”, and add, in its place, the word “an endorsement”; and

b. In paragraph (b), after the words “mate/first class pilot license”, add the words “or MMC endorsement”.

§ 11.437 [Amended]

144. In newly redesignated § 11.437—

a. In paragraph (a) introductory text, remove the word “license”, and add, in its place, the words “an endorsement”; and

b. In paragraph (a)(3), after the words “holding a license”, add the words “or MMC endorsement”.

§ 11.442 [Amended]

145. In newly redesignated § 11.442—

a. In the introductory text, remove the words “a license”, and add, in their place, the words “an endorsement”; and

b. In paragraphs (a) and (b), after the words “holding a license”, wherever they appear, add the words “or MMC endorsement”.

§ 11.444 [Amended]

146. In newly redesignated § 11.444—

a. In the introductory text, remove the word “license” and add, in its place, the words “an endorsement”;

b. In paragraph (a), after the words “holding a certificate”, add the words “or endorsement”; and

c. In paragraph (b), after the words “holding a license”, add the words “or MMC endorsement”.

§ 11.446 [Amended]

147. In newly redesignated § 11.446—

a. In the introductory text, remove the words “a license” and add, in their place, the words “an endorsement”;

b. In paragraph (a), after the words “holding a license”, add the words “or MMC endorsement”; and

c. In paragraph (b), after the words “holding a license”, wherever they appear, add the words “or MMC endorsement”; and after the words “eligible for this”, remove the word “license” and add, in its place, the word “endorsement”.

§ 11.448 [Amended]

148. In newly redesignated § 11.448 text, after the words “an applicant for”, remove the words “a license” and add, in their place, the words “an endorsement”; and after the words “holding a certificate”, add the words “or endorsement”.

§ 11.450 [Amended]

149. In newly redesignated § 11.450—

a. In the section heading, remove the word “licenses” and add, in its place, the word “endorsements”;

b. In paragraph (a), remove the word “licenses” and add, in its place, the word “endorsements”; and remove the citation “§ 10.422” each time it appears and add, in its place, the citation “§ 11.422”;

c. In paragraph (c), after the words “vessels upon which”, remove the words “licensed personnel” and add, in their place, the words “personnel with licenses or endorsements”; and, after the words “required to engage”, remove the words “licensed individuals” and add, in their place, the words “individuals with endorsements”; and

d. In paragraph (d), remove the word “license” and add, in its place, the word “endorsement”.

§ 11.452 [Amended]

150. In newly redesignated § 11.452—

a. In paragraph (a), after the words “qualify an applicant for”, remove the words “a license” and add, in their place, the words “an endorsement”; after the words “holding a license”, add the words “or MMC endorsement”; and after the words “otherwise the”, remove the word “license” and add, in its place, the word “endorsement”; and

b. In paragraph (b), after the words “In order to obtain an endorsement”, remove the words “on this license”; and after the words “master's license” add the words “or MMC endorsement”.

§ 11.454 [Amended]

151. In newly redesignated § 11.454—

a. In paragraph (a), after the words “qualify an applicant for”, remove the words “a license” and add, in their place, the words “an endorsement”; and after the words “otherwise the”, remove the word “license” and add, in its place, the word “endorsement”;

b. In paragraph (b), after the words “In order to obtain an endorsement”, remove the words “on this license”;

c. In paragraph (c), before the words “as master of steam”, remove the words “A license” and add, in their place, the words “An endorsement”; and

d. In paragraph (d), after the words “The holder of a license”, add the words “or MMC endorsement”; after the words “may obtain this”, remove the word “license” and add, in its place, the word “endorsement”; and after the words “otherwise the”, remove the word “license” and add, in its place, the word “endorsement”.

§ 11.455 [Amended]

152. In newly redesignated § 11.455—

a. In paragraph (a), after the words “qualify an applicant for”, remove the words “a license” and add, in their place, the words “an endorsement”; and after the words “otherwise the”, remove the word “license” and add, in its place, the word “endorsement”; and

b. In paragraph (b), after the words “In order to obtain an endorsement”, remove the words “on this license”; and after the words “issuance of the”, remove the word “license” and add, in its place, the word “endorsement”.

§ 11.456 [Amended]

153. In newly redesignated § 11.456—

a. In the introductory text, in the first sentence, after the words “Limited masters”', remove the word “licenses” and add, in its place, the word “endorsements”; in the second sentence, remove the words “A license” and add, in their place, the words “An endorsement”; and in the last sentence, remove the word “license” and add, in its place, the word “endorsement”;

b. In paragraph (a), remove the word “license” and add, in its place, the word “endorsement”; and

c. In paragraph (d), after the words “required by”, remove the citation “§ 10.205(h)” and add, in its place, the citation “§ 11.205(e)”.

§ 11.457 [Amended]

154. In newly redesignated § 11.457—

a. In paragraph (a), after the words “An applicant for”, remove the words “a license” and add, in their place, the words “an endorsement”; and after the words “requirements of”, remove the citation “§ 10.452” and add, in its place, the citation “§ 11.452”; and

b. In paragraph (b), after the words “In order to obtain an endorsement”, remove the words “on this license”; and after the words “issuance of the license”, add the words “or MMC endorsement”.

§ 11.459 [Amended]

155. In newly redesignated § 11.459—

a. In paragraph (a), after the words “An applicant for”, remove the words “a license” and add, in their place, the words “an endorsement”; and

b. In paragraph (b), after the words “An applicant for”, remove the words “a license” and add, in their place, the words “an endorsement”; and after the words “and inland steam or motor”, remove the word “license” and add, in its place, the word “endorsement”.

156. In newly designated § 11.462, revise the heading and paragraphs (a) introductory text, (b), (c) introductory text, (c)(1) through (3), (c)(4) introductory text, (c)(4)(v), (c)(4)(vi), (d) introductory text, (d)(1) through (3), (d)(4) introductory text, and (d)(4)(iv) through (vi) to read as follows:

§ 11.462 Endorsements for master or mate of uninspected fishing industry vessels.

(a) This section applies to endorsements for masters and mates of all vessels, however propelled navigating the high seas, which are documented to engage in the fishing industry, with the exception of:

* * * * *

(b) Endorsements as master or mate of uninspected fishing industry vessels are issued for either ocean or near-coastal routes, depending on the examination completed. To qualify for an uninspected fishing industry vessel endorsement, the applicant must satisfy the training and examination requirements of § 11.401(g) of this subpart.

(c) An applicant for an endorsement as master of uninspected fishing industry vessels must have four years of total service on ocean or near coastal routes. Service on Great Lakes or inland waters may substitute for up to two years of the required service. One year of the required service must have been as master, mate, or equivalent supervisory position while holding a license or MMC endorsement as master, mate, master or mate (pilot) of towing vessels, or OUPV.

(1) To qualify for an endorsement for not more than 500 gross tons, at least two years of the required service, including the one year as master, mate or equivalent, must have been on vessels of more than 50 gross tons.

(2) To qualify for an endorsement for not more than 1,600 gross tons, at least two years of the required service, including the one year as master, mate, or equivalent, must have been on vessels of more than 100 gross tons.

(3) To qualify for an endorsement for more than 1,600 gross tons, but not more than 5,000 gross tons, the vessel tonnage upon which the four years of required service was obtained will be used to compute the tonnage. The endorsement is limited to the maximum tonnage on which at least 25 percent of the required service was obtained or 150 percent of the maximum tonnage on which at least 50 percent of the service was obtained, whichever is higher. Limitations are in multiples of 1,000 gross tons, using the next higher figure when an intermediate tonnage is calculated. An endorsement as master of uninspected fishing industry vessels authorizing service on vessels more than 1,600 gross tons also requires one year as master, mate, or equivalent on vessels more than 100 gross tons.

(4) The tonnage limitation for this endorsement may be raised using one of the following methods but cannot exceed 5,000 gross tons. Limitations are in multiples of 1,000 gross tons, using the next higher figure when an intermediate tonnage is calculated.

* * * * *

(v) Two years of service as a deckhand on a vessel while holding a license or MMC endorsement as master results in a limitation on the MMC equal to 150 percent of the tonnage of that vessel up to 5,000 gross tons; or

(vi) One year of service as deckhand on a vessel while holding a license or MMC endorsement as master results in a limitation on the MMC equal to the tonnage of that vessel.

(d) An applicant for an endorsement as mate of uninspected fishing industry vessels must have three years of total service on ocean or near-coastal routes. Service on Great Lakes or inland waters may substitute for up to 18 months of the required service.

(1) To qualify for an endorsement of not more than 500 gross tons, at least one year of the required service must have been on vessels of more than 50 gross tons.

(2) To qualify for an endorsement of not more than 1,600 gross tons, at least one year of the required service must have been on vessels of more than 100 gross tons.

(3) To qualify for an endorsement of more than 1,600 gross tons, but not more than 5,000 gross tons, the vessel tonnage upon which the three years of required service was obtained will be used to compute the tonnage. The endorsement is limited to the maximum tonnage on which at least 25 percent of the required service was obtained, or 150 percent of the maximum tonnage on which at least 50 percent of the service was obtained, whichever is higher. Limitations are in multiples of 1,000 gross tons, using the next higher figure when an intermediate tonnage is calculated.

(4) The tonnage limitation on this endorsement may be raised using one of the following methods, but cannot exceed 5,000 gross tons. Limitations are in multiples of 1000 gross tons, using the next higher figure when an intermediate tonnage is calculated.

* * * * *

(iv) One year of service as deckhand on vessels more than 1,600 gross tons while holding a license or MMC endorsement as mate, results in raising the limitation on the MMC to 5,000 gross tons;

(v) Two years of service as a deckhand on a vessel while holding a license or MMC endorsed as mate results in a limitation on the MMC equal to 150 percent of the tonnage of that vessel up to 5,000 gross tons; or

(vi) One year of service as deckhand on a vessel while holding a license or MMC endorsement as mate results in a limitation on the MMC equal to the tonnage of that vessel.

* * * * *

§ 11.463 [Amended]

157. In newly redesignated § 11.463—

a. In the section heading, remove the words “licenses for” and add, in their place, the words “endorsements as”;

b. In paragraph (a) introductory text, remove the word “licenses” and add, in its place, the word “endorsements”; and

c. In paragraphs (b) and (c), remove the words “a license” wherever they appear and add, in their place, the words “an endorsement”.

158. In newly redesignated § 11.464, revise the section heading, paragraphs (a) through (e), and paragraphs (f) introductory text, (f)(2)(i), and (f)(3) to read as follows:

§ 11.464 Requirements for endorsements as master of towing vessels.

(a) If you would like to obtain an endorsement as master of towing vessels with a route listed in column 1 of table 11.464(a) of this section, then you must complete the service requirements indicated in columns 2 through 5. You may serve on the subordinate routes listed in column 6 without further endorsement.

Table 11.464(a)—Requirements for Endorsement as Master of Towing Vessels ¹
Route endorsed | Total service ² | TOS ³ on T/V as mate (pilot) | TOS ³ on T/V as mate (pilot) not as harbor assist | TOS ³ on particular route | Subordinate route authorized
1 | 2 | 3 | 4 | 5 | 6
(1) OCEANS (O) | 48 | 18 of 48 | 12 of 18 | 3 of 18 | NC, GL-I
(2) NEAR-COASTAL (NC) | 48 | 18 of 48 | 12 of 18 | 3 of 18 | GL-I
(3) GREAT LAKES—INLAND (GL-I) | 48 | 18 of 48 | 12 of 18 | 3 of 18
(4) WESTERN RIVERS (WR) | 48 | 18 of 48 | 12 of 18 | 3 of 18
¹ If you hold an endorsement as master of towing vessels you may have an endorsement-as mate (pilot) of towing vessels for a route superior to your current route on which you have no operating experience—placed on your MMC after passing an examination for that additional route. After you complete 90 days of experience and complete a Towing Officer's Assessment Record on that route, we will add it to your endorsement as master of towing vessels and remove the one for mate (pilot) of towing vessels.
² Service is in months.
³ TOS is time of service.

(b) If you would like to obtain an endorsement as master of towing vessels (limited), then you must complete the requirements listed in columns 2 through 5 of table 11.464(b) of this section.

Table 11.464(b)—Requirements for Endorsement as Master of Towing Vessels
[Limited]
Route endorsed | Total service ¹ | TOS ² on T/V as limited apprentice mate (steersman) | TOAR or an approved course | TOS ² on particular route
1 | 2 | 3 | 4 | 5
LIMITED LOCAL AREA (LLA) | 36 | 18 of 48 | 12 of 18 | 3 of 18.
¹ Service is in months.
² TOS is time of service.

(c) If you hold a license or MMC endorsement as mate (pilot) of towing vessels, you may have master of towing vessels (limited) added to your MMC for a limited local area within the scope of your current route.

(d) Before you serve as master of towing vessels on the Western Rivers, you must possess 90 days of observation and training and have your MMC include an endorsement for Western Rivers.

(e) Each company must maintain evidence that every vessel it operates is under the direction and control of a mariner with the appropriate endorsement and experience, including 30 days of observation and training on the intended route other than Western Rivers.

(f) If you hold a license or MMC endorsement as a master of steam or motor vessels of greater than 200 gross register tons, you may operate towing vessels within any restrictions on your endorsement if you:

(2) * * *

(i) Hold a completed Towing Officer's Assessment Record (TOAR) described in § 11.304(h) that shows evidence of assessment of practical demonstration of skills; or

* * * * *

(3) Your license or MMC does not need to include a towing endorsement if you hold a TOAR or complete an approved training course.

* * * * *

159. In newly redesignated § 11.465, revise the heading and paragraphs (a) through (c), (d) introductory text, (d)(2), (e) introductory text, (e)(1), and (f), and designate the undesignated text following (d)(2) as (d)(3) to read as follows:

§ 11.465 Requirements for endorsements as mate (pilot) of towing vessels.

(a) If you would like to obtain an endorsement as mate (pilot) of towing vessels endorsed with a route listed in column 1 of table 11.465(a) of this section, then you must complete the service in columns 2 through 5. If you hold a license or MMC endorsement as master of towing vessels (limited) and would like to upgrade it to mate (pilot) of towing vessels, then you must complete the service in columns 5 and 6. An endorsement with a route endorsed in column 1 authorizes service on the subordinate routes listed in column 7 without further endorsement. Time of service requirements as an apprentice mate (steersman) of towing vessels may be reduced by an amount equal to the time specified in the approval letter for the completed Coast Guard-approved training programs.

Table 11.465-1—Requirements for Endorsement as Mate (Pilot ¹) of Towing Vessels
Route endorsed | Total service ² | TOS ³ on T/V as apprentice mate (steersman) ⁵ | TOS ³ on particular route | TOAR ⁴ or an approved course | 30 days of observation and training while holding master (limited) and pass a limited examination | Subordinate route authorized
1 | 2 | 3 | 4 | 5 | 6 | 7
(1) OCEANS (O) | 30 | 12 of 30 | 3 of 12 | YES | YES | NC, GL-I
(2) NEAR-COASTAL (NC) | 30 | 12 of 30 | 3 of 12 | YES | YES | GL-I
(3) GREAT LAKES-INLAND (GL-I) | 30 | 12 of 30 | 3 of 12 | YES | YES |
(5) WESTERN RIVERS (WR) | 30 | 12 of 30 | 3 of 12 | YES | NO (90 days service required) |
¹ For all inland routes, as well as Western Rivers, the endorsement as pilot of towing vessels is equivalent to that as mate of towing vessels. All qualifications and equivalencies are the same.
² Service is in months unless otherwise indicated.
³ TOS is time of service.
⁴ TOAR is Towing Officers' Assessment Record.
⁵ Time of service requirements as an apprentice mate (steersman of towing vessels may be reduced by an amount equal to the time specified in the approval letter for a completed Coast Guard-approved training program.

(b) Before you serve as mate (pilot) of towing vessels on the Western Rivers, you must possess 90 days of observation and training and have your MMC include an endorsement for Western Rivers.

(c) Each company must maintain evidence that every vessel it operates is under the direction and control of a mariner with the appropriate endorsement and experience, including 30 days of observation and training on the intended route other than Western Rivers.

(d) If you hold a license or MMC endorsement as a mate of inspected, self-propelled vessels of greater than 200 GRT or one as first-class pilot, then you may operate towing vessels within any restrictions on your credential if you:

* * * * *

(2) Hold a completed Towing Officer's Assessment Record (TOAR) described in § 11.304(h) that shows evidence of assessment of practical demonstration of skills.

(3) Your license or MMC does not need to include a towing endorsement if you hold a TOAR or a course completion certificate.

(e) If you hold any endorsement as a master of steam or motor vessels of any tonnage that is 200 GRT or less, except for the limited masters endorsements specified in 46 CFR 11.429 and 11.456, then you may obtain an endorsement as mate (pilot) of towing vessels by meeting the following requirements:

(1) Providing proof of 36 months of service as a master under the authority of an endorsement described in paragraph (e) of this section;

* * * * *

(f) An approved training course for mate (pilot) of towing vessels must include formal instruction and practical demonstration of proficiency either onboard a towing vessel or at a shoreside training facility before a designated examiner, and must cover the material (dependent upon route) required by § 11.910-2 for apprentice mate (steersman), towing vessels on ocean and near coastal routes; apprentice mate (steersman), towing vessels on Great Lakes and inland routes; or, steersman, towing vessels on Western Rivers routes.

* * * * *

160. In newly redesignated § 11.466—

a. In the section heading, remove the word “licenses” and add, in its place, the word “endorsements”;

b. In paragraph (a), after the words “As Table” remove the designation “10.466-1” and add, in its place, the designation “11.466(a)”; and after the words “like to obtain”, remove the words “a license” and add, in their place, the words “an endorsement”;

c. Redesignate table 10.466-1 as table 11.466(a) and revise it to read as follows; and

d. In paragraph (b), in the first sentence, after the words “hold a license” add the words “or endorsement”; in the second sentence, after the words “endorsement will go on your”, remove the word “license” and add, in its place, the word “MMC”; and in the third sentence, after the words “may have the”, remove the words “restricted endorsement” and add, in their place, the word “restriction”:

§ 11.466 Requirements for endorsements as apprentice mate (steersman) of towing vessels.

* * * * *

Table 11.466(a)—Requirements for Endorsement as Apprentice Mate (Steersman) of Towing Vessels
Endorsement | Route endorsed | Total service ¹ | TOS ² on T/V | TOS ² on particular route | Pass examination ³
1 | 2 | 3 | 4 | 5 | 6
(1) APPRENTICE MATE (STEERSMAN) | OCEANS (0) | 18 | 12 of 18 | 3 of 18 | YES.
| NEAR-COASTAL (NC) | 18 | 12 of 18 | 3 of 18 | YES.
| GREAT LAKES | 18 | 12 of 18 | 3 of 18 | YES.
| INLAND (GL-I) | 18 | 12 of 18 | 3 of 18 | YES.
| WESTERN RIVERS (WR) | 18 | 12 of 18 | 3 of 18 | YES.
(2) APPRENTICE MATE (STEERSMAN) (LIMITED) | NOT APPLICABLE | 18 | 12 of 18 | 3 of 18 | YES.
¹ Service is in months.
² TOS is time of service.
³ The examination for apprentice mate is specified in subpart I of this part. The examination for apprentice mate (limited) is a limited examination.
⁴ For all inland routes, as well as Western Rivers, the endorsement as steersman is equivalent to that as apprentice mate. All qualifications and equivalencies are the same.

* * * * *

161. Revise newly redesignated § 11.467 to read as follows—

§ 11.467 Endorsement as operators of uninspected passenger vessels of less than 100 gross tons.

(a) This section applies to an applicant for the endorsement to operate an uninspected vessel of less than 100 gross tons, equipped with propulsion machinery of any type, carrying six or less passengers.

(b) An endorsement for OUPV issued for ocean waters will be limited to near-coastal waters not more than 100 miles offshore. An endorsement issued for inland waters will include all inland waters, except Great Lakes. An endorsement may be issued for a particular local area under paragraph (g) of this section.

(c) For an endorsement as OUPV on near-coastal waters, an applicant must have a minimum of 12-months experience in the operation of vessels, including at least three-months service on vessels operating on ocean or near-coastal waters.

(d) For an endorsement as OUPV on the Great Lakes and inland waters, an applicant must have 12-months service on Great Lakes or inland waters, including at least three-months service operating vessels on Great Lakes waters.

(e) For an endorsement as OUPV on inland waters, an applicant must have a minimum of 12-months experience in the operation of vessels.

(f) An endorsement as OUPV, limited to undocumented vessels, may be issued to a person who is not a citizen of the United States.

(g) Limited OUPV endorsements may be issued to applicants to be employed by organizations such as formal camps, yacht clubs, educational institutions, and marinas. An endorsement issued under this paragraph will be limited to the specific activity and the locality of the camp, yacht club, or marina. In order to obtain this restricted endorsement, an applicant must:

(1) Have three-months service in the operation of the type of vessel for which the endorsement is requested;

(2) Satisfactorily complete a safe-boating course approved by the National Association of State Boating Law Administrators, or those public education courses conducted by the U.S. Power Squadron or the American National Red Cross or a Coast Guard-approved course;

(3) Pass a limited examination appropriate for the activity to be conducted and the route authorized; and

(4) The first aid and cardiopulmonary resuscitation (CPR) course certificates required by § 11.205(e) of this part will only be required when, in the opinion of the OCMI, the geographic area over which service is authorized precludes obtaining medical services within a reasonable time.

§ 11.468 [Amended]

162. In newly redesignated § 11.468—

a. In the section heading and text, remove the word “Licenses” wherever it appears and add, in its place, the words “Officer endorsements”; and

b. In the text, remove the word “license” and add, in its place, the word “endorsement”.

163. In newly redesignated § 11.470, revise the heading and paragraphs (a) introductory text, (b) introductory text, (b)(2)(i), (b)(2)(iv), (c), (d) introductory text, (d)(2)(i), (d)(2)(iv), (e), (f) introductory text, (f)(2)(i), (f)(2)(iii), (g) introductory text, (h) introductory text, (h)(2)(iii), (i), (j) introductory text, (j)(2)(i), (j)(2)(iii), and (k) introductory text to read as follows:

§ 11.470 Officer endorsements as offshore installation manager.

(a) Officer endorsements as offshore installation manager (OIM) include:

* * * * *

(b) To qualify for an endorsement as OIM unrestricted, an applicant must:

(2) * * *

(i) A certificate from a Coast Guard-approved stability course approved for a license or MMC endorsement as OIM unrestricted;

* * * * *

(iv) A certificate from a firefighting training course as required by § 11.205(d) of this part; and

* * * * *

(c) An applicant for an endorsement as OIM unrestricted who holds an unlimited license or MMC endorsement as master or chief mate must satisfy the requirements in paragraphs (b)(2) and (b)(3) of this section and have at least 84 days of service on surface units and at least 28 days of service on bottom bearing units.

(d) To qualify for an endorsement as OIM surface units on location, an applicant must:

* * * * *

(2) * * *

(i) A certificate from a Coast Guard-approved stability course approved for a license or MMC endorsement as OIM surface units;

* * * * *

(iv) A certificate from a firefighting training course as required by § 11.205(d) of this part.

(e) An applicant for an endorsement as OIM surface units on location who holds an unlimited license or MMC endorsement as master or chief mate must satisfy the requirements of paragraph (d)(2) of this section and have at least 84 days of service on surface units.

(f) To qualify for an endorsement as OIM surface units underway, an applicant must:

* * * * *

(2) * * *

(i) A certificate from a Coast Guard-approved stability course approved for an OIM surface units endorsement;

* * * * *

(iii) A certificate from a firefighting training course as required by § 11.205(d) of this part.

(g) An applicant for endorsement as OIM surface units underway who holds an unlimited license or MMC endorsement as master or chief mate must satisfy the requirements in paragraph (f)(2) of this section and provide a company recommendation signed by a senior company official which:

* * * * *

(h) To qualify for an endorsement as OIM bottom bearing units on location, an applicant must:

* * * * *

(2) * * *

(iii) A certificate from a firefighting training course as required by § 11.205(d) of this part.

(i) An applicant for an endorsement as OIM bottom bearing units on location who holds an unlimited license or MMC endorsement as master or chief mate must satisfy paragraph (h)(2) of this section and have at least 28 days of service on bottom bearing units.

(j) To qualify for an endorsement as OIM bottom bearing units underway, an applicant must:

* * * * *

(2) * * *

(i) A certificate from a Coast Guard-approved stability course approved for a license or MMC endorsement as OIM bottom bearing units;

* * * * *

(iii) A certificate from a firefighting training course as required by § 11.205(d) of this part.

(k) An applicant for endorsement as OIM bottom bearing units underway who holds an unlimited license or MMC endorsement as master or chief mate must satisfy the requirements in paragraph (j)(2) of this section and provide a company recommendation signed by a senior company official, which:

* * * * *

§ 11.472 Officer endorsements as barge supervisor.

164. In newly redesignated § 11.472—

a. Revise the section heading as set forth above;

b. In paragraph (a) introductory text, remove the words “a license or” and add, in their place, the word “an”;

c. In paragraph (a)(2)(i), remove the words “barge supervisor license or endorsement” and add, in their place, the words “license or MMC endorsement as barge supervisor”;

d. In paragraph (a)(2)(iii), remove the citation “§ 10.205(g)” and add, in its place, the citation “§ 11.205(d)”; and

e. In paragraph (b), after the words “unlimited license” add the words “or MMC endorsement”.

§ 11.474 Officer endorsements as ballast control operator.

165. In newly redesignated § 11.474—

a. Revise the section heading as set forth above;

b. In paragraph (a) introductory text, remove the words “a license or” and add, in its place, the words “an”;

c. In paragraph (a)(1)(i) and (ii), remove the words “a licensed” wherever they appear and add, in their place, the words “an individual holding a license or MMC endorsement as”;

d. In paragraph (a)(2)(i), remove the words “barge supervisor or ballast control operator license or endorsement” and add, in their place, the words “license or MMC endorsement as barge supervisor or ballast control operator”;

e. In paragraph (a)(2)(iii), remove the citation “§ 10.205(g)” and add, in its place, the citation “§ 11.205(d)”; and

f. In paragraph (b), after the words “unlimited license”, add the words “or MMC endorsement”; and remove the word “licensed” and add, in its place, the words “an individual holding an endorsement as”.

§ 11.476 [Removed and Reserved]

166. Remove and reserve § 11.476.

§ 11.480 [Amended]

167. In newly redesignated § 11.480—

a. In paragraph (b) introductory text, remove the words “deck officer's license” and add, in their place, the word “MMC”;

b. In paragraph (c), remove the words “Endorsement as” wherever they appear;

c. In paragraph (f), remove the last sentence;

d. In paragraph (h), after the words “a license”, add the words “or MMC”; and after the words “may renew”, remove the words “the license”; and

e. In paragraph (i), after the words “grade of a license” add the words “or MMC endorsement”.

168. In newly redesignated § 11.482—

a. Revise paragraph (a) to read as set out below;

b. In paragraph (c), remove the words “An assistance towing endorsement on a license as master, mate, or operator authorizes the holder” and replace them with “The holder of a license or MMC for master, mate, or operator endorsed for assistance towing is authorized”; and after the words “scope of the license”, add the words “or MMC”; and

c. In paragraph (d), after the words “same as the license”, add the words “or MMC”; remove the words “on which it is endorsed” and add, in their place, the words “on which it is included”; and after the words “renewed with the”, remove the word “license” and add, in its place, the word “MMC”.

§ 11.482 Assistance towing.

(a) This section contains the requirements to qualify for an endorsement authorizing a mariner to engage in assistance towing. The endorsement applies to all MMCs except master and mate (pilot) of towing vessels and master or mate authorizing service on inspected vessels over 200 gross tons. Holders of any of these endorsements may engage in assistance towing within the scope of their MMC or license.

* * * * *

§ 11.491 [Amended]

169. In newly redesignated § 11.491—

a. In the section heading, remove the word “Licenses” and add, in its place, the word “Officer endorsements”; and

b. In the text, before the words “for service on”, remove the word “license” and add, in its place, the words “officer endorsement”; and after the words “restrictions placed on the license”, add the words “or MMC”.

§ 11.493 [Amended]

170. In newly redesignated § 11.493(a), remove the words “a license” and add, in their place, the words “an endorsement”.

§ 11.495 [Amended]

171. In newly redesignated § 11.495(a), remove the words “a license” and add, in their place, the words “an endorsement”.

§ 11.497 [Amended]

172. In newly redesignated § 11.497(a), remove the words “a license” and add, in their place, the words “an endorsement”.

Subpart E—Professional Requirements for Engineer Officer

173. Revise the heading for subpart E as set forth above.

§ 11.501 [Amended]

174. In newly redesignated § 11.501—

a. In the section heading, remove the word “licenses” and add, in its place, the word “endorsements”;

b. In paragraph (a) introductory text, remove the word “Licenses” and add, in its place, the words “Engineer endorsements”;

c. In paragraph (b) introductory text, remove the word “licenses” and add, in its place, the word “endorsements”;

d. In paragraph (c) introductory text, after the words “Engineer licenses” add the words “or MMC endorsements”;

e. In paragraph (d), remove the words “Engineer licenses are endorsed to authorize” and add, in its place, the words “An engineer officer's license or MMC endorsement authorizes”; and after the words “vessels or may be”, remove the words “be endorsed for” and add, in their place, the word “authorize”; and

f. In paragraph (e), after the words “holding an engineer license” add the words “or MMC endorsement”; and after the words “limitations of the license”, add the words “or MMC”.

§ 11.502 [Amended]

175. In newly redesignated § 11.502—

a. In the section heading, remove the word “licenses” and add, in its place, the word “endorsements”;

b. In paragraph (a), after the words “engineer licenses” add the words “or MMC endorsements”;

c. In paragraph (b) introductory text, remove the words “a licensed applicant desires to obtain an endorsement on an engineer license in the other propulsion mode (steam or motor)” and add, in their place, the words “an applicant desires to add a propulsion mode to his or her endorsement”; and after the words “holding a license”, add the words “or MMC endorsement”;

d. In paragraph (b)(1), remove the words “licensed capacity” and add, in their place, the words “capacity as their endorsement”;

e. In paragraph (b)(2), remove the words “a licensed officer at a lower license level” and add, in their place, the words “an engineer officer at a lower level”; and

f. In paragraph (c), after the words “of an engineer license”, add the words “or MMC endorsement”; and remove the citation “§ 10.205(g)” and add, in its place, the citation “§ 11.205(d)”.

176. Revise newly redesignated § 11.503 to read as follows—

§ 11.503 Horsepower limitations.

(a) Engineer licenses and endorsements of all grades and types may be subject to horsepower limitations. Other than as provided in § 11.524 of this part for the designated duty engineer (DDE), the horsepower limitation placed on a license or MMC endorsement is based on the applicant's qualifying experience considering the total shaft horsepower of each vessel on which the applicant has served.

(b) When an applicant for an original or raise of grade of an engineer license or MMC endorsement, other than a DDE, has not obtained at least 50 percent of the required qualifying experience on vessels of 4,000 or more horsepower, a horsepower limitation is placed on the MMC based on the applicant's qualifying experience. The endorsement is limited to the maximum horsepower on which at least 25 percent of the required experience was obtained, or 150 percent of the maximum horsepower on which at least 50 percent of the service was obtained, whichever is higher. Limitations are in multiples of 1,000 horsepower, using the next higher figure when an intermediate horsepower is calculated. When the limitation as calculated equals or exceeds 10,000 horsepower, an unlimited horsepower endorsement is issued.

(c) The following service on vessels of 4,000 horsepower or over will be considered qualifying for the raising or removing of horsepower limitations placed on an engineer license or MMC endorsement:

(1) Six months of service in the highest-grade endorsed: removal of all horsepower limitations.

(2) Six months of service as an officer in any capacity other than the highest grade for which licensed or endorsed: Removal of all horsepower limitations for the grade in which service is performed and raise the next higher grade endorsement to the horsepower of the vessel on which service was performed. The total cumulative service before and after issuance of the limited license or MMC endorsement may be considered in removing all horsepower limitations.

(3) Twelve months of service as oiler or junior engineer while holding a license or MMC endorsement as third assistant engineer or assistant engineer (limited oceans): removal of all horsepower limitations on third assistant engineer or assistant engineer's (limited oceans) endorsement.

(4) Six months of service as oiler or junior engineer while holding a license or MMC endorsement as second assistant engineer: removal of all horsepower limitations on third assistant engineer's endorsement.

(d) Raising or removing horsepower limitations based on service required by paragraph (c) of this section may be granted without further written examination providing the OCMI who issued the applicant's license or MMC endorsement, considers further examination unnecessary.

§ 11.504 [Amended]

177. In newly redesignated § 11.504—

a. In the section heading, remove the word “licenses” and add, in its place, the word “endorsements”; and

b. In the text, remove the words “a license” and add, in their place, the words “an endorsement”.

178. In newly redesignated § 11.505—

a. Revise the section heading as set forth below;

b. In the text, remove the word “license” and add, in its place, the word “endorsement”; and

c. Redesignate Figure 10.505 as Figure 11.505 and revise it to read as follows:

§ 11.505 Engineer officer structure.

* * * * *

BILLING CODE 4910-15-P

BILLING CODE 4910-15-C

§ 11.510 [Amended]

179. In newly redesignated § 11.510—

a. In the introductory text, remove the word, “license”, and add, in its place, the word “endorsement”; and

b. In paragraph (b), after the words, “holding a license”, add the words, “or MMC endorsement”.

§ 11.512 [Amended]

180. In newly redesignated § 11.512—

a. After the words, “qualify an applicant for”, remove the word “license”, and add, in its place, the word “endorsement”; and

b. After the words “holding a license”, add the words, “or MMC endorsement”.

§ 11.514 [Amended]

181. In newly redesignated § 11.514—

a. In the introductory text, after the words, “qualify an applicant for”, remove the word, “license”, and add, in its place, the word, “endorsement”; and

b. In paragraph (a) and paragraph (b) introductory text, after the words, “holding a license”, add the words, “or MMC endorsement”.

§ 11.516 [Amended]

182. In newly redesignated § 11.516, in paragraph (a) introductory text, after the words, “an applicant for”, remove the word “license”, and add, in its place, the word, “endorsement”.

183. Revise newly redesignated § 11.518 to read as follows:

§ 11.518 Service requirements for chief engineer (limited oceans) of steam and/or motor vessels.

The minimum service required to qualify an applicant for endorsement as chief engineer (limited oceans) of steam and/or motor vessels is five years total service in the engineroom of vessels. Two years of this service must have been as an engineer officer. Thirty months of the service must have been as a qualified member of the engine department (QMED) or equivalent supervisory position.

184. Revise newly redesignated § 11.520 to read as follows:

§ 11.520 Service requirements for chief engineer (limited near coastal) of steam and/or motor vessels.

The minimum service required to qualify an applicant for endorsement as chief engineer (limited near coastal) of steam and/or motor vessels is four years total service in the engineroom of vessels. One year of this service must have been as an engineer officer. Two years of the service must have been as a QMED or equivalent supervisory position.

185. Revise newly redesignated § 11.522 to read as follows:

§ 11.522 Service requirements for assistant engineer (limited oceans) of steam and/or motor vessels.

The minimum service required to qualify an applicant for endorsement as assistant engineer (limited oceans) of steam and/or motor vessels is three years of service in the engineroom of vessels. Eighteen months of this service must have been as a QMED or equivalent supervisory position.

186. In newly redesignated § 11.524, revise paragraphs (a) and (b) introductory text to read as follows:

§ 11.524 Service requirements for designated duty engineer of steam and/or motor vessels.

(a) DDE endorsements are issued in three levels of horsepower limitations dependent upon the total service of the applicant and completion of appropriate examination. These MMCs are limited to vessels of not more than 500 gross tons on certain waters as specified in § 11.501 of this part.

(b) The service requirements for endorsements as DDE are:

* * * * *

187. Revise newly redesignated § 11.530 to read as follows:

§ 11.530 Endorsements for engineers of uninspected fishing industry vessels.

(a) This section applies to endorsements for chief and assistant engineers of all vessels, however propelled, navigating the high seas, which are documented to engage in the fishing industry, with the exception of:

(1) Wooden ships of primitive build;

(2) Unrigged vessels; and,

(3) Vessels of less than 200 gross tons.

(b) Endorsements as chief engineer and assistant engineer of uninspected fishing industry vessels are issued for ocean waters and with horsepower limitations in accordance with the provisions of § 11.503 of this part.

(c) For an endorsement as chief engineer, the applicant must have served four years in the engineroom of vessels. One year of this service must have been as an assistant-engineer officer or equivalent supervisory position.

(d) For an endorsement as assistant engineer, an applicant must have served three years in the engine room of vessels.

(e) Two-thirds of the service required under this section must have been on motor vessels.

(f) Applicants may request an orally assisted examination on the subjects listed in subpart I of this part.

188. Revise newly redesignated § 11.540 to read as follows:

§ 11.540 Endorsements for engineers of mobile offshore drilling units.

Endorsements as chief engineer (MODU) or assistant engineer (MODU) authorize service on certain self-propelled or non-self-propelled units of any horsepower where authorized by the vessel's certificate of inspection.

§ 11.542 [Amended]

189. In newly redesignated § 11.542—

a. In the section heading, remove the words “License for” and add, in their place, the words “Endorsement as”;

b. In the introductory text and paragraph (c), remove the words “a license” wherever they appear and add, in their place, the words “an endorsement”; and

c. In paragraph (b), remove the citation, “10.205(g)”, and add, in its place, the citation, “11.205(d)”.

§ 11.544 [Amended]

190. In newly redesignated § 11.544—

a. In the section heading, remove the words, “License for”, and add, in their place, the words, “Endorsement as”;

b. In the introductory text and paragraph (c), remove the words, “a license”, wherever they appear, and add, in their place, the words, “an endorsement”;

c. In paragraph (a)(3), remove the words, “Commanding Officer,”, and add, in their place, the word, “The”; and

d. In paragraph (b), remove the citation “10.205(g)”, and add, in its place, the citation, “11.205(d)”.

191. Revise newly redesignated § 11.551 to read as follows:

§ 11.551 Endorsements for service on offshore supply vessels.

Each endorsement for service on OSVs as chief engineer (OSV) or engineer (OSV) authorizes service on OSVs as defined in 46 U.S.C. 2101(19) and as interpreted under 46 U.S.C. 14104(b), subject to any restrictions placed on the MMC.

§ 11.553 [Amended]

192. In newly redesignated § 11.553(a), remove the words, “a license”, and add, in their place, the words, “an endorsement”.

§ 11.555 [Amended]

193. In newly redesignated § 11.555(a), remove the words, “a license”, and add, in their place, the words, “an endorsement”.

Subpart F—Credentialing of Radio Officers

194. Revise the heading for subpart F to read as set forth above.

195. In newly redesignated § 11.601, revise paragraphs (a)-(c) to read as follows:

§ 11.601 Applicability.

This subpart provides for endorsement as radio officers for employment on vessels, and for the issue of STCW endorsements for those qualified to serve as radio operators on vessels subject to the provisions on the Global Maritime Distress and Safety System (GMDSS) of Chapter IV of SOLAS. SOLAS is available from the International Maritime Organization (IMO), 4 Albert Embankment, London SE1 7SR, England, telephone: + 44 (0)20 7735 7611, http://www.imo.org.

196. Revise newly redesignated § 11.603 to read as follows:

§ 11.603 Requirements for radio officers' endorsements and STCW endorsements for GMDSS radio operators.

(a) Each applicant for an original endorsement or renewal of license shall present a current first or second class radiotelegraph operator license issued by the Federal Communications Commission. The applicant shall enter on the endorsement application form the number, class, and date of issuance of his or her Federal Communications Commission license.

(b) [Reserved]

(c) Each applicant who furnishes evidence that he or she meets the standard of competence set out in STCW Regulation IV/2 (incorporated by reference, see § 11.102), including the competence to transmit and receive information using subsystems of GMDSS, to fulfill the functional requirements of GMDSS, and to provide radio services in emergencies is entitled to hold an STCW endorsement suitable for performing duties associated with GMDSS.

Subpart G—Professional Requirements for Pilots

197. Revise the heading for subpart G to read as set forth above.

198. Revise newly redesignated § 11.701 to read as follows:

§ 11.701 Scope of pilot endorsements.

(a) An applicant for an endorsement as first-class pilot need not hold any other officer endorsement issued under this part.

(b) The issuance of an endorsement as first-class pilot to an individual qualifies that individual to serve as pilot over the route(s) specified on the endorsement, subject to any limitations imposed under paragraph (c) of this section.

(c) The OCMI issuing an endorsement as first-class pilot, imposes appropriate limitations commensurate with the experience of the applicant, with respect to class or type of vessel, tonnage, route, and waters.

(d) A license or MMC endorsement issued for service as a master, mate, or operator of uninspected towing vessels authorizes service as a pilot under the provisions of § 15.812 of this subchapter. Therefore, first-class pilot endorsements will not be issued with tonnage limitations of 1,600 gross tons or less.

199. In newly redesignated § 11.703—

a. Revise paragraphs (a) introductory text and (c), to read as set out below; and

b. In paragraph (d), after the words, “holding a license”, add the words, “or MMC endorsement”:

§ 11.703 Service requirements.

(a) The minimum service required to qualify an applicant for an endorsement as first-class pilot is predicated upon the nature of the waters for which pilotage is desired.

* * * * *

(c) Completion of a course of pilot training approved by the National Maritime Center under subpart C of this part may be substituted for a portion of the service requirements of this section in accordance with § 11.304 of this part. Additionally, round trips made during this training may apply toward the route familiarization requirements of § 11.705 of this part. An individual using substituted service must have at least nine months of shipboard service.

* * * * *

200. In newly redesignated § 11.705, revise paragraphs (b) and (c) to read as follows:

§ 11.705 Route familiarization requirements.

* * * * *

(b) An applicant holding no other deck officer endorsement seeking an endorsement as first-class pilot shall furnish evidence of having completed a minimum number of round trips, while serving as quartermaster, wheelsman, able seaman, apprentice pilot, or in an equivalent capacity, standing regular watches at the wheel or in the pilot house as part of routine duties, over the route sought. Evidence of having completed a minimum number of round trips while serving as an observer, properly certified by the master and/or pilot of the vessel, is also acceptable. The range of round trips for an endorsement is a minimum of 12 round trips and a maximum of 20 round trips. An applicant may have additional routes added to the first-class pilot endorsement by meeting the requirements in paragraph (c) of this section.

(c) An applicant who currently holds a deck officer license or MMC endorsement seeking an endorsement as first-class pilot for a particular route shall furnish evidence of having completed the number of round trips over the route, specified by the OCMI, within the range limitations of this paragraph, for the particular grade of existing license or MMC endorsement held. The range of round trips for an endorsement is a minimum of eight round trips and a maximum of 15 round trips.

* * * * *

201. Revise newly redesignated § 11.707 to read as follows:

§ 11.707 Examination requirements.

(a) An applicant for an endorsement as first-class pilot, except as noted in paragraph (b) of this section, is required to pass the examination described in subpart I of this part.

(b) An applicant for an extension of route, or an applicant holding a license or MMC endorsement as master or mate authorized to serve on vessels of over 1,600 gross tons seeking an endorsement as first-class pilot, is required to pass those portions of the examination described in subpart I of this part that concern the specific route for which endorsement is sought.

202. In newly redesignated § 11.709, revise paragraphs (b), (c), (d), and (e) to read as follows:

§ 11.709 Annual physical examination requirements.

* * * * *

(b) Every person holding a license or MMC endorsement as first-class pilot shall have a thorough physical examination each year.

(c) Each annual physical examination must meet the requirements specified in § 10.215 of this chapter.

(d) An individual's first class pilot credential becomes invalid on the first day of the month following the first anniversary of the individual's most recent physical examination satisfactorily completed; the individual may not operate under the authority of that credential until a physical examination has been satisfactorily completed.

(e) A first class pilot must provide the Coast Guard with a copy of his or her most recent physical examination.

§ 11.711 [Amended]

203. In newly redesignated § 11.711—

a. In paragraphs (a) and (d), after the words, “first class pilot”, remove the words, “license or”; and

b. In paragraph (b), after the words “1,600 gross tons, the” remove the words “license or”, and, after the words, “contained in § ” remove the number “10.705”, and add, in its place, the number “11.705”.

§ 11.713 [Amended]

204. In newly redesignated § 11.713—

a. In paragraphs (a) and (b), wherever the words “license or endorsement” appear, add the word “MMC” before the word “endorsement”; and

b. In paragraph (b), in the last sentence, after the words, “of the renewed”, remove the words, “license or”.

§ 11.803 [Removed and Reserved]

205. Remove and reserve newly redesignated § 11.803.

206. Revise newly redesignated § 11.805 to read as follows:

§ 11.805 General requirements.

(a) The applicant for an endorsement as staff officer is not required to take any examination; however, the applicant shall present to the OCMI a letter justifying the need for the endorsement.

(b) [Reserved]

(c) An applicant for a higher grade in the staff department shall apply in the same manner as for an original endorsement and shall surrender the previous Coast Guard-issued credentials upon issuance of the new MMC. A staff officer may serve in a lower grade of service for which he or she is registered.

(d) Title 46 U.S.C. 8302 addresses uniforms for staff officers who are members of the Naval Reserve.

(e) A duplicate MMC may be issued by the OCMI. (See § 10.229 of this chapter.)

(f) An MMC is valid for a term of five years from the date of issuance. Procedures for renewing endorsements are found in § 10.227 of this chapter.

(g) Each applicant for an original or a higher grade of endorsement, as described by paragraph (c) of this section, shall produce evidence of having passed a chemical test for dangerous drugs or of qualifying for an exception from testing in § 16.220 of this subchapter. An applicant who fails a chemical test for dangerous drugs will not be issued an MMC.

207. Amend newly redesignated § 11.807 by adding paragraphs (a)(7) and (8) and revising paragraphs (c) and (d) to read as follows:

§ 11.807 Experience requirements for registry.

(a) The applicant for an endorsement as staff officer shall submit evidence of experience as follows:

* * * * *

(7) Marine physician assistant. Successful completion of an accredited course of instruction for a physician's assistant or nurse practitioner program.

(8) Hospital corpsman. A rating of at least hospital corpsman or health services technician, first class in the U.S. Navy, U.S. Coast Guard, U.S. Marine Corps, or an equivalent rating in the U.S. Army (not less than staff sergeant, Medical Department, U.S.A.), or in the U.S. Air Force (not less than technical sergeant, Medical Department, U.S.A.F.), and a period of satisfactory service of at least one month in a military hospital or U.S. Public Health Service Hospital.

* * * * *

(c) In computing the length of service required of an applicant for an endorsement, service of one season on vessels on the Great Lakes is counted as service of one year.

(d) In the event an applicant for an endorsement, other than medical doctor or professional nurse, presents evidence of other qualifications which, in the opinion of the Officer in Charge, Marine Inspection, is equivalent to the experience requirements of this section and is consistent with the duties of a staff officer, the Officer in Charge, Marine Inspection may issue the MMC.

§ 11.809 [Removed and Reserved]

208. Remove and reserve newly redesignated § 11.809.

Subpart I—Subjects of Examinations and Practical Demonstrations of Competence

209. Revise the heading for subpart I to read as set forth above.

210. In newly redesignated § 11.901—

a. In paragraph (a), remove the word, “license”, and add, in its place, the word, “endorsement”; and remove the citation, “10.903(b)” and add, in its place, the citation, “11.903(b)”;

b. Revise paragraph (b) to read as set out below; and

c. In paragraph (c) introductory text, after the words, “as provided in §§ ”, remove the citations, “10.202 and 10.209” and add, in their place, the citations, “11.202 and 10.227”; and after the words “reference in”, remove the citation, “10.102”, and add, in its place, the citation, “11.102”:

§ 11.901 General provisions.

* * * * *

(b) If the endorsement is to be limited in a manner which would render any of the subject matter unnecessary or inappropriate, the examination may be amended accordingly by the OCMI. Limitations which may affect the examination content are:

(1) MMCs endorsed for restricted routes for reduced service (master or mate of vessels of not more than 200 gross tons, OUPV or master or mate (pilot) of towing vessels); or

(2) Engineer endorsements with horsepower restrictions.

* * * * *

§ 11.903 [Amended]

211. In newly redesignated § 11.903—

a. Redesignate “Table 10.903-1” as “Table 11.903(c)”; and

b. Revise paragraphs (a) introductory text, (b) introductory text, (b)(2), (b)(3), (c) introductory text, and (d) to read as follows:

§ 11.903 Endorsements requiring examination.

(a) The following endorsements require examinations for issuance:

* * * * *

(b) The following endorsements do not require examinations:

* * * * *

(2) Master ocean or near coastal not more than 200 gross tons, when raising grade from mate near coastal not more than 200 gross tons. Master ocean not more than 200 gross tons would, however, require an examination in celestial navigation.

(3) Master Great Lakes and inland, inland, and rivers not more than 200 gross tons when raising grade from mate of the same route not more than 200 gross tons.

* * * * *

(c) Each candidate for any of the following endorsements shall meet the requirements of the appropriate STCW regulations and standards of competence and those in part A of the STCW Code (incorporated by reference, see § 11.102), as indicated in table 11.903(c) of this section:

* * * * *

(d) Any candidate for an endorsement listed in paragraph (c) of this section, who meets the requirements of the appropriate regulations and standards of competence in STCW and part A of the STCW code (incorporated by reference, see § 11.102) as indicated in table 11.903(c) of this section, need not comply with §§ 11.910 or 11.950, of this part.

212. In newly redesignated § 11.910—

a. Revise the section heading and introductory text as set out below;

b. Redesignate table 10.910-1 as table 11.910-1, and revise the heading and subheading to read as set out below;

c. Redesignate table 10.910-2 as table 11.910-2;

d. In the heading for newly redesignated table 11.910-2, remove the word “License” and add, in its place, the word “Endorsement”;

e. In newly redesignated table 11.910-2, in the first column entitled, “Examination topics”, under the entry for “National Maritime Law”, remove the words, “Licensing & Certification”, and add, in their place, the word, “Credentialing”;

f. In footnotes 6 and 7 to newly redesignated table 11.910-2, remove the word “licenses” wherever it appears and add, in its place, the words “officer endorsements”; and

g. In footnote 8 to newly redesignated table 11.910-2, remove the word “licenses”:

§ 11.910 Subjects for deck officer endorsements.

Table 11.910-1 gives the codes used in table 11.910-2 for all deck officers. Table 11.910-2 indicates the examination subjects for each endorsement, by code number. Figures in the body of the table, in place of the letter “x”, refer to notes.

Table 11.910-1—Codes for Deck Officer Endorsements

Deck Officer Endorsements:

* * * * *

213. In newly redesignated § 11.920—

a. Revise the section heading and introductory text to read as set out below;

b. Redesignate table 10.920-1 as table 11.920-1 and revise it to read as set out below;

c. Redesignate table 10.920-2 as table 11.920-2; and

d. In newly redesignated table 11.920-2, in the first column entitled, “Examination topics”, under the entry for, “National Maritime Law”, remove the words, “Licensing and certification”, and add, in their place, the word, “Credentialing”:

§ 11.920 Subjects for MODU endorsements.

Table 11.920-1 gives the codes used in table 11.920-2 for MODU endorsements. Table 11.920-2 indicates the examination subjects for each endorsement by the code number.

Table 11.920-1—Codes for MODU Endorsements

* * * * *

214. Revise the section heading and table heading to newly redesignated § 11.950 to read as follows:

§ 11.950 Subjects for engineer endorsements.

Table 11.950—Subjects for Engineer Endorsements

* * * * *

215. Revise newly redesignated § 11.1005 to read as follows:

§ 11.1005 General requirements for officers.

To serve on a Ro-Ro passenger ship, a person endorsed as master, chief mate, mate, chief engineer, or engineer shall meet the appropriate requirements of STCW Regulation V/2 and Section A-V/2 of the STCW Code (incorporated by reference, see § 11.102) and shall hold documentary evidence to show his or her meeting these requirements.

216. Revise newly redesignated § 11.1105 section heading, introductory text, and paragraph (a) to read as follows:

§ 11.1105 General requirements for officer's endorsements.

If you are a master, mate, chief mate, engineer, or chief engineer, then, before you may serve on a passenger ship, you must—

(a) Meet the appropriate requirements of the STCW Regulation V/3 and of section A-V/3 of the STCW Code (incorporated by reference, see § 11.102); and

* * * * *

PART 12—REQUIREMENTS FOR RATING ENDORSEMENTS

217. The authority citation for part 12 is revised to read as follows:

Authority: 31 U.S.C. 9701; 46 U.S.C. 2101, 2103, 2110, 7301, 7302, 7503, 7505, 7701, and 70105; Department of Homeland Security Delegation No. 0170.1.

218. Revise the heading for part 12 to read as set forth above.

§ 12.01-1 [Amended]

219. In § 12.01-1—

a. In paragraph (a)(2), after the words, “and to receive the”, remove the words, “certificate or”, and after the words “required by STCW”, remove the words, “(incorporated by reference in § 12.01-3)”; and

b. Remove paragraphs (a)(3) and (c).

220. Revise § 12.01-3 to read as follows:

§ 12.01-3 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (CG-5221), 2100 Second Street, SW., Washington, DC 20593-0001, 202-372-1405 and is available from the sources indicated in this section.

(b) International Maritime Organization (IMO), 4 Albert Embankment, London, SE1 7SR, England, telephone: + 44 (0)20 7735 7611, http://www.imo.org.

(1) The International Convention on Standards of Training, Certification and Watchkeeping for Seafarers, 1978, as amended 1995 (the STCW Convention or the STCW), incorporation by reference approved for §§ 12.02-7, 12.02-11, 12.05-3, 12.05-11, 12.10-3; 12.10-5, 12.10-7, 12.10-9, 12.15-3, 12.30-5, and 12.35-5.

(2) The Seafarers' Training, Certification and Watchkeeping Code, as amended 1995 (the STCW Code), incorporation by reference approved for §§ 12.02-11, 12.03-1, 12.05-3, 12.05-7, 12.10-5, 12.10-9, 12.15-3, 12.15-7, 12.25-45, 12.30-5, and 12.35-5.

§ 12.01-6 [Removed and Reserved]

221. Remove and reserve § 12.01-6.

§ 12.01-7 [Removed and Reserved]

222. Remove and reserve § 12.01-7.

§ 12.01-11 [Removed and Reserved]

223. Remove and reserve § 12.01-11.

§ 12.02-3 [Removed and Reserved]

224. Remove and reserve § 12.02-3.

§ 12.02-4 [Removed and Reserved]

225. Remove and reserve § 12.02-4.

§ 12.02-5 [Removed and Reserved]

226. Remove and reserve § 12.02-5.

227. In § 12.02-7, revise paragraphs (a) through (e) and (f) introductory text to read as follows:

§ 12.02-7 When documents are required.

(a) Every seaman employed on any merchant vessel of the United States of 100 gross tons or upward, except vessels employed exclusively in trade on the navigable rivers of the United States, must carry a valid merchant mariner credential (MMC) or merchant mariner's document (MMD) with all appropriate endorsements for the position served and, beginning on April 15, 2009, a valid Transportation Worker Identification Credential (TWIC). Provisions of this section are not applicable to unrigged vessels except seagoing barges and certain tank barges.

(b) Every seaman, as referred to in paragraph (a) of this section, shall produce a valid MMC or MMD with all applicable rating endorsements for the position sought and, beginning on April 15, 2009, a valid TWIC to the master of the vessel at the time of his or her employment before signing articles of agreement. Seamen who do not possess one of these credentials may be employed at a foreign port or place.

(c)(1) Every person employed on any merchant vessel of the United States of 100 gross tons and upward, except those navigating rivers exclusively and the smaller inland lakes, below the grades of officer and staff officer, must possess a valid MMC or MMD with all appropriate endorsements for the positions served;

(2) No endorsements are required of any person below the rank of officer employed on any unrigged vessel except seagoing barges and certain tank barges.

(3) No endorsements are required of any person below the rank of officer employed on any sail vessel of less than 500 net tons while not carrying passengers for hire and while not operating outside the line dividing inland waters from the high seas, as defined in section 2 of the act of February 19, 1895, as amended (33 U.S.C. 151) and in 33 CFR part 82.

(d) Each person serving as an able seaman or a rating forming part of a navigational watch on a seagoing ship of 500 gross tonnage (200 GRT) or more shall hold an STCW endorsement certifying him or her as qualified to perform the navigational function at the support level, in accordance with STCW (incorporated by reference, see § 12.01-3).

(e) Each person serving as a qualified member of the engine department (QMED) or a rating forming part of a watch in a manned engine-room or designated to perform duties in a periodically unmanned engine-room, on a seagoing ship driven by main propulsion machinery of 750 kW [1,000 hp] of propulsion power or more, shall hold an STCW endorsement certifying him or her as qualified to perform the marine-engineering function at the support level, in accordance with STCW.

(f) Notwithstanding any other rule in this part, no person subject to this part serving on any of the following vessels needs to hold an STCW endorsement, either because he or she is exempt from application of the STCW, or because the vessels are not subject to further obligation under STCW, on account of their special operating conditions as small vessels engaged in domestic voyages:

* * * * *

§ 12.02-9 [Removed and Reserved]

228. Remove and reserve § 12.02-9.

§ 12.02-10 [Removed and Reserved]

229. Remove and reserve § 12.02-10.

230. Revise § 12.02-11 to read as follows:

§ 12.02-11 General provisions respecting rating endorsements.

(a)(1) An MMC with a deck officer endorsement will authorize the holder to serve in any rating capacity in the deck department, except able seaman. If a deck officer qualifies as able seaman, the MMC will be endorsed with the appropriate able seaman and lifeboatman endorsement. STCW endorsements as RFPNW and PSC will also be entered upon qualification.

(2) An MMC issued to an engineer officer endorsed for inspected vessels of over 2,000 horsepower will authorize the holder to serve in any rating capacity in the engine department. If an engineer officer qualifies as a lifeboatman, the appropriate lifeboatman endorsement will be placed on the MMC. STCW endorsements as RFPEW and PSC will also be entered upon qualification.

(b) The authorized holder of any valid rating endorsement may serve in any capacity in the staff department of a vessel, except in those capacities requiring a staff officer; except that whenever the service includes the handling of food, no person may be so employed unless his or her credential bears the food handler's endorsement “(F.H.)”.

(c) A rating endorsement as able seaman or lifeboatman authorizes service as lifeboatman.

(d) The OCMI will issue an STCW endorsement if the applicant for or holder of an MMC is qualified for the endorsement. The OCMI will issue an STCW endorsement for the following ratings:

(1) A rating forming part of a navigational watch on a seagoing ship of 500 GT or more if the holder of the credential is qualified according to STCW Regulation II/4 of the STCW Code (incorporated by reference, see § 12.01-3) to perform the navigational function at the support level.

(2) A rating forming part of a watch in a manned engineroom, or designated to perform duties in a periodically unmanned engineroom, on a seagoing ship driven by main propulsion machinery of 750 kW (1,000 hp) of propulsion power or more, if the holder is qualified in according to STCW Regulation III/4 and Section A-III/4 of the STCW Code, (incorporated by reference, see § 12.01-3) to perform the marine-engineering function at the support level.

(e) At the request of the holder of the document, the OCMI may add an endorsement to indicate that a qualified holder has received basic-safety training or instruction required under Chapter VI of STCW (incorporated by reference, see § 12.01-3).

§ 12.02-12 [Removed and Reserved]

231. Remove and reserve § 12.02-12.

§ 12.02-13 [Removed and Reserved]

232. Remove and reserve § 12.02-13.

§ 12.02-14 [Removed and Reserved]

233. Remove and reserve § 12.02-14.

§ 12.02-15 [Removed and Reserved]

234. Remove and reserve § 12.02-15.

235. Revise § 12.02-17 to read as follows—

§ 12.02-17 Examination procedures and denial of rating endorsements.

(a) Upon application for a rating endorsement, any required examination will be given as soon as practicable.

(b) An applicant for a rating endorsement who has been duly examined and refused a certificate by the Coast Guard may come before the Coast Guard for reexamination at any time after the date of the initial examination. The Coast Guard sets the time of reexamination based on the applicant's performance on the initial examination. However, the maximum waiting period after the initial failure will be 30 days, and the maximum waiting period after a second or subsequent failure will be 90 days.

(c) An applicant who has been examined and refused a certificate by the Coast Guard may not again make application for examination until 30 days after the applicant's last failure of an examination or reexamination.

§§ 12.02-18 through 12.02-27 [Removed and Reserved]

236. Remove and reserve §§ 12.02-18 through 12.02-27.

237. In § 12.03-1 revise paragraphs (a) introductory text, (a)(3)(iii), (a)(4), (b), (c) introductory text, and (c)(2) to read as follows:

§ 12.03-1 Coast Guard-accepted training other than approved courses.

(a) When the training and assessment of competence required by parts 10 or 12 of this subchapter are not subject to approval under § 11.302 of this chapter, but are used to qualify an applicant to hold an STCW or rating endorsement, the training and assessment must meet the following requirements:

* * * * *

(3) * * *

(iii) Hold the level of Coast Guard credential or other professional credential required of those who would apply, on board a vessel, the relevant level of knowledge, skills, and abilities described in the training objectives.

(4) Neither a specialist in a particular field of non-maritime education, such as mathematics or first aid, nor a person with at least 3 years of service as a member of the Armed Forces of the United States, specializing in a particular field, need hold a Coast Guard credential to conduct training in that field.

* * * * *

(b) The Coast Guard will maintain a list of training each of whose offerors submits a certificate, initially not less than 45 calendar days before offering training under this section, and annually thereafter, signed by the offeror or its authorized representative, stating that the training fully complies with requirements of this section, and identifying the Coast Guard-accepted QSS being used for independent monitoring. Training on this list will offer the training necessary for both officer and STCW endorsements under this part. The Coast Guard will update this list periodically and make it available to members of the public on request.

(c) If the Coast Guard determines, on the basis of observations or conclusions either of its own or of someone authorized by it to monitor the training, that the particular training does not satisfy one or more of the conditions described in paragraph (a) of this section—

* * * * *

(2) The offeror may, within a period specified in the notice, either appeal the observations or conclusions to the National Maritime Center (NMC) or bring the training into compliance; and

* * * * *

§ 12.05-1 [Amended]

238. In § 12.05-1—

a. In paragraph (a), remove the words, “employed in a rating”, and add, in their place, the words, “serving under the authority of a rating endorsement”; and remove the words, “a merchant mariner's document”, and add, in their place, the words, “an MMC or MMD endorsement”; and

b. In paragraph (b), remove the word, “certificate” and add, in its place, the words, “MMD or MMC endorsed”.

239. In § 12.05-3—

a. In paragraph (a) introductory text, remove the word, “certification”, and add, in its place, the words, “an endorsement”;

b. In paragraph (a)(2), remove the word, “examination” and add, in its place, the words, “and medical examination in § 10.215 of this subchapter”;

c. In paragraph (b) introductory text, remove the words, “valid for any period on or after February 1, 2002,”; and

d. Revise paragraph (c) to read as follows:

§ 12.05-3 General requirements.

* * * * *

(c) An STCW endorsement as rating forming part of the navigational watch will be issued or renewed when the candidate for an endorsement meets the requirements of STCW Regulation II/4 and of Section A-II/4 of the STCW Code (incorporated by reference, see § 12.01-3).

§ 12.05-5 [Removed and Reserved]

240. Remove and reserve § 12.05-5.

§ 12.05-7 [Amended]

241. In § 12.05-7—

a. In paragraph (a) introductory text, after the words, “categories of”, remove the words, “able seaman is as”, and add, in their place, the words, “endorsement as able seamen are”;

b. In paragraph (b) introductory text, after the words, “approved by”, remove the words “Commanding Officer,”; and

c. Remove paragraphs (c), (d), and (e).

242. In § 12.05-9—

a. In paragraph (a) introductory text, remove the word, “certified”, and add, in its place, the words, “issued an endorsement”; and

b. Revise paragraph (e) to read as follows:

§ 12.05-9 Examination and demonstration of ability.

* * * * *

(e) Any person who holds a valid MMC or MMD endorsed as able seaman, any waters-12 months and who can produce documentary evidence of sufficient service to qualify for an endorsement as able seaman, any waters-unlimited, may be issued a new MMC bearing this endorsement without additional professional examination. The applicant shall surrender for cancellation the credential bearing the limited endorsement. No physical examination will be required at the time of this exchange unless it is found that the applicant obviously suffers from some physical or mental infirmity to a degree that in the opinion of the Officer in Charge, Marine Inspection, would render him incompetent to perform the usual duties of an able seaman at sea. If such condition is believed to exist, the applicant shall be required to undergo an examination to determine his competency as set forth in § 10.215 of this chapter.

243. In § 12.05-11, revise paragraphs (a) and (b) to read as follows:

§ 12.05-11 General provisions respecting endorsements for service as able seamen.

(a) The holder of an MMC or MMD endorsed for the rating of able seamen may serve in any rating in the deck department without obtaining an additional endorsement; provided, however, that the holder shall hold the appropriate endorsement under the STCW (incorporated by reference, see § 12.01-3) when serving as a rating forming part of a navigational watch (RFPNW) on a seagoing ship of 500 GT or more.

(b) An MMC or MMD endorsed as able seaman will also be considered an endorsement as lifeboatman.

* * * * *

244. Revise § 12.10-1 to read as follows:

§ 12.10-1 Credentials required.

Every person serving under the authority of a rating endorsement as lifeboatman on any United States vessel requiring lifeboatmen must produce an MMC or MMD endorsed as lifeboatman or able seaman to the United States Customs and Border Protection Port Director or his or her representative or master before signing articles of agreement. No endorsement as lifeboatman is required of any person employed on any unrigged vessel, except on a seagoing barge and on a tank barge navigating waters other than rivers and/or canals.

§ 12.10-3 [Amended]

245. In § 12.10-3—

a. In paragraph (a) introductory text, remove the word, “certification”, and add, in its place, the words, “an endorsement”;

b. In paragraphs (a)(2), (a)(5), and (a)(6) after the words, “by the”, remove the words, “Commanding Officer,”;

c. In paragraph (a)(5), after the words, “National Maritime Center,”, remove the word, “and”, and add, in its place, the word, “or”;

d. In paragraph (b), remove the word, “certification”, and add, in its place, the words, “an endorsement”; and

e. In paragraph (c), remove the word, “certified”, and add, in its place, the words, “eligible for an endorsement”.

§ 12.10-5 [Amended]

246. In § 12.10-5—

a. In paragraph (a) introductory text, remove the word, “certified”, and add, in its place, the words, “issued an endorsement”; and

b. In paragraph (d), remove the words, “After July 31, 1998, each”, and add, in their place, the word, “Each”; and remove the words, “certificate endorsed for”, and add, in their place, the words, “endorsement with an STCW endorsement for”.

247. Revise § 12.10-7 to read as follows:

§ 12.10-7 General provisions respecting an MMC or MMD endorsed as lifeboatman.

An MMC or MMD endorsed as able seaman is the equivalent of an endorsement as lifeboatman and will be accepted wherever a lifeboatman is required by law; provided, however, that, when an able seaman has to be endorsed as either proficient in survival craft and rescue boats or proficient in fast rescue boats, he or she shall hold an endorsement under the STCW (incorporated by reference, see § 12.01-3).

248. In § 12.10-9, revise the heading, paragraphs (a), (b) introductory text, and (b)(2) to read as follows:

§ 12.10-9 Endorsement for proficiency in fast rescue boats.

(a) Each person engaged or employed as a lifeboatman proficient in fast rescue boats must hold an appropriately endorsed MMC or MMD.

(b) To be eligible for an MMC endorsed for proficiency in fast rescue boats, an applicant must:

* * * * *

(2) Furnish satisfactory proof that he or she has met the requirements for training and competence of STCW Regulation, VI/2 paragraph 2, and the appropriate requirements of Section A-VI/2 of the STCW Code (incorporated by reference in § 12.01-3).

§ 12.13-3 [Amended]

249. In § 12.13-3, remove the words, “license or document” and add, in their place, the word, “MMC”.

250. Revise § 12.15-1 to read as follows:

§ 12.15-1 Credentials required.

(a) Every person serving under the authority of a rating endorsement as qualified member of the engine department on any United States vessel requiring qualified members of the engine department shall produce an endorsement as qualified member of the engine department to the United States Customs and Border Protection Port Director or his or her representative or master before signing articles of agreement.

(b) No endorsement as qualified member of the engine department is required of any person employed on any unrigged vessel, except seagoing barges.

251. In § 12.15-3 revise paragraphs (a) through (c), (d) introductory text, and (e) to read as follows:

§ 12.15-3 General requirements.

(a) A qualified member of the engine department is any person below officer and above the rating of coal passer or wiper, who holds an MMC or MMD endorsed as qualified member of the engine department issued by the Coast Guard.

(b) For purposes of administering this part the rating of assistant electrician is considered a rating equal to coal passer or wiper.

(c) An applicant, to be eligible for an endorsement as qualified member of the engine department, shall be able to speak and understand the English language as would be required in the rating of qualified member of the engine department and in an emergency aboard ship.

(d) An STCW endorsement will be issued or renewed only when the candidate for endorsement as a qualified member of the engine department also produces satisfactory evidence, on the basis of assessment of a practical demonstration of skills and abilities, of having achieved or maintained within the previous 5 years the minimum standards of competence for the following 4 areas of basic safety:

* * * * *

(e) An STCW endorsement will be issued or renewed only when the candidate for endorsement as a qualified member of the engine department meets the standards of competence set out in STCW Regulation III/4 and Section A-III/4 of the STCW Code (incorporated by reference, see § 12.01-3), if the candidate will be serving as a rating forming part of a watch in a manned engine-room, or designated to perform duties in a periodically unmanned engine-room, on a seagoing ship driven by main propulsion machinery of 750 kW [1,000 hp] propulsion power or more.

252. Revise § 12.15-5 to read as follows:

§ 12.15-5 Physical and medical requirements.

The physical and medical requirements for an endorsement as QMED are found in § 10.215 of this chapter.

§ 12.15-7 [Amended]

253. In § 12.15-7—

a. In paragraph (a), after the words, “applicant for”, remove the words, “a certificate of service”, and add, in their place, the words, “an endorsement”;

b. In paragraph (b)(1), after the words, “graduate of a school ship may”, remove the words, “be rated”, and add, in their place, the words, “qualify for a rating endorsement”; and

c. In paragraph (c), in the first sentence, after the words, “qualified rating”, add the words, “in the engine department”.

§ 12.15-9 [Amended]

254. In § 12.15-9—

a. In paragraph (a), remove the word, “certification” and add, in its place, the word, “endorsement”; and

b. In paragraphs (c) and (d), remove the word “certification” wherever it appears and add, in its place, the words, “an endorsement”.

255. Revise § 12.15-11 heading and introductory text to read as follows:

§ 12.15-11 General provisions respecting an endorsement as qualified member of the engine department.

The holder of an endorsement with one or more qualified members of the engine department ratings may serve in any unqualified rating in the engine department without obtaining an additional endorsement. This does not mean that an endorsement of one qualified member of the engine department rating authorizes the holder to serve in all qualified member of the engine department ratings. Each qualified member of the engine department rating must be a separate endorsement. When, however, the applicant qualifies for all ratings covered by an endorsement as a QMED, the endorsement may read QMED—any rating. The ratings are as follows:

* * * * *

§ 12.15-13 [Amended]

256. In § 12.15-13—

a. In paragraph (a) introductory text, remove the words, “a certificate”, and add, in their place, the words “an endorsement”; and remove the words, “a merchant mariner's document”, and add, in their place, the words, “an MMC or MMD”;

b. In paragraph (b), remove the words, “merchant mariner's document” and add, in their place, the word “MMC”; and

c. In paragraph (c), remove the words, “a merchant mariner's document”, and add, in their place, the words, “an MMC or MMD”; remove the word “unlicensed”; and after the words, “entered on his”, remove the word “document”, and add, in its place, the words, “or her credential”.

257. In § 12.15-15, revise paragraphs (a) introductory text, (b), and (c) to read as follows:

§ 12.15-15 Engineman.

(a) An applicant for an endorsement as engineman shall be a person holding an MMC or MMD document endorsed as fireman/watertender and oiler, or junior engineer. The applicant shall be eligible for such endorsement upon furnishing one of the following:

* * * * *

(b) The Officer in Charge, Marine Inspection, who is satisfied that an applicant for the rating of engineman meets the requirements specified in this section, will endorse this rating on the applicant's MMC.

(c) Any holder of an MMC or MMD endorsed for any rating in the engine department, QMED—any rating or deck engine mechanic is qualified as an engineman and that endorsement will not be entered on his or her credential.

§ 12.25-1 [Amended]

258. In § 12.25-1—

a. In the section heading, remove the word, “Certification”, and add, in its place, the word, “Credentials”; and

b. In the text, remove the word “certificated”; remove the words, “a merchant mariner's document”, and add, in their place, the words, “an MMC or MMD with the appropriate endorsement”.

259. Revise § 12.25-10 to read as follows:

§ 12.25-10 General requirements.

(a) Rating endorsements shall be issued without professional examination to applicants in capacities other than able seaman, lifeboatman, tankerman, or QMED. For example, ordinary seaman, wiper, and steward's department (F.H.) endorsements do not require an exam. Holders of MMCs or MMDs endorsed as ordinary seaman may serve in any unqualified rating in the deck department. Holders of MMCs or MMDs endorsed as wiper may serve in any unqualified rating in the engine department. MMCs or MMDs endorsed as steward's department (F.H.) will authorize the holder's service in any capacity in the steward's department. (See § 12.02-11(b) of this part for unqualified ratings in the staff department.)

(b) When the holder of an endorsement is qualified as a food handler, the steward's department endorsement will be followed by the further endorsement (F.H.).

260. Revise § 12.25-20 to read as follows:

§ 12.25-20 Physical and medical requirements.

The physical and medical requirements for this subpart are found in part 10 of this chapter.

261. Revise § 12.15-25 to read as follows:

§ 12.25-25 Members of Merchant Marine Cadet Corps.

No ratings other than cadet (deck) or cadet (engine), as appropriate, and lifeboatman will be shown on an MMC issued to a member of the U.S. Merchant Marine Cadet Corps. The MMC will also indicate that it is valid only while the holder is a cadet in the U.S. Maritime Administration training program. The MMC must be surrendered upon the holder being endorsed in any other rating or upon being issued an officer's endorsement and the rating of cadet (deck) or cadet (engine) will be omitted.

§ 12.25-30 [Amended]

262. In § 12.25-30, remove the words, “merchant mariner's document”, and add, in their place, the words, “MMC endorsed”; remove the words, “documents or certificates”, and add, in their place, the word, “endorsements”.

§ 12.25-35 [Amended]

263. In § 12.25-35—

a. In paragraph (a), remove the words, “a merchant mariner's document”, and add, in their place, the words, “an endorsement”; and

b. In paragraph (b), remove the words, “merchant mariner's documents with”.

§ 12.25-40 [Amended]

264. In § 12.25-40 text, remove the words, “a merchant mariner's document”, and add, in their place, the words, “an endorsement”.

§ 12.25-45 [Amended]

265. In § 12.25-45, remove the words, “certificate or”.

§ 12.30-1 [Amended]

266. In § 12.30-1, remove the words, “certification of”, and add, in their place, the words, “endorsements for”.

§ 12.30-3 [Removed and Reserved]

267. Remove and reserve § 12.30-3.

§ 12.30-5 [Amended]

268. In § 12.30-5, remove the words, “after January 31, 1997,”; and remove the word, “MMD”, and add, in its place, the word, “endorsement”.

§ 12.35-1 [Amended]

269. In § 12.35-1, remove the word “certification” and add, in its place, the word “qualification”; remove the citation, “§ 12.35-3”, and add, in its place, the words “part 10 of this chapter”.

§ 12.35-3 [Removed and Reserved]

270. Remove and reserve § 12.35-3.

§ 12.35-5 [Amended]

271. In § 12.35-5—

a. In the introductory text, remove the words, “If you are an unlicensed person, then, before you”, and add, in their place, the words, “A mariner with no endorsements,”; and remove the words, “you must”, and add, in their place, the words, “only after meeting the following conditions”; and

b. In paragraph (b), remove the words, “you do meet”, and add, in their place, the words, “the mariner meets”.

Subpart 12.40—Non-resident Alien Members of the Steward's Department on U.S.-Flag Large Passenger Vessels

272. Revise the heading for the subpart 12.40 to read as set forth above.

§ 12.40-1 [Amended]

273. In § 12.40-1, remove the words, “merchant mariner's documents”, and add, in their place, the words, “merchant mariner credentials”.

§ 12.40-3 [Removed and Reserved]

274. Remove and reserve § 12.40-3.

§ 12.40-5 [Amended]

275. In § 12.40-5—

a. In paragraph (a), remove the words, “merchant mariner's documents”, and add, in their place, the words, “merchant mariner credentials”; and

b. In paragraph (b) remove the words, “merchant mariner's document”, and add, in their place, the words, “merchant mariner credential”.

§ 12.40-7 [Amended]

276. In § 12.40-7, remove the words, “merchant mariner's document”, wherever they occur, and add, in their place, the words, “merchant mariner credential”.

§ 12.40-9 [Amended]

277. In § 12.40-9—

a. Remove the words, “merchant mariner's document”, wherever they occur, and add, in their place, the words, “merchant mariner credential”; and

b. After the words, “denial established in”, remove the words, “§ 12.02-4 of this part”, and add, in their place, the words, “§§ 10.209, 10.211, and 10.213 of this subchapter”.

§ 12.40-11 [Amended]

278. In § 12.40-11—

a. In paragraph (a), remove the words, “§§ 12.02-10, 12.02-12 and 12.02-14 of this part”, and add, in their place, the words, “§ 10.221 of this subchapter”; remove the words, “merchant mariner's document”, and add, in their place, the words, “merchant mariner credential”; and

b. In paragraph (c) remove the words, “merchant mariner's document”, and add, in their place, the words, “merchant mariner credential”.

§ 12.40-13 [Amended]

279. In § 12.40-13—

a. In paragraphs (a), (b), and (c), remove the words “merchant mariner's document”, wherever they occur, and add, in their place, the words, “merchant mariner credential”; and

b. In paragraph (c)(2), remove the words, “§§ 12.02-10, 12.02-12 and 12.02-14 of this part”, and add, in their place, the words, “§ 10.221 of this subchapter”.

§ 12.40-15 [Amended]

280. In § 12.40-15—

a. In paragraph (a) remove the words, “merchant mariner's document”, and add, in their place, the words, “merchant mariner credential”.

PART 13—CERTIFICATION OF TANKERMEN

281. The authority citation for part 13 continues to read as follows:

Authority: 46 U.S.C. 3703, 7317, 8105, 8703, 9102; Department of Homeland Security Delegation No. 0170.1.

§ 13.101 [Amended]

282. In § 13.101, remove the words, “to a merchant mariner's document”, and add, in their place, the words, “on a merchant mariner credential”.

§ 13.103 [Removed and Reserved]

283. Remove and reserve § 13.103.

284. Add new § 13.106 to read as follows:

§ 13.106 Requirement to hold an MMC.

An applicant for any endorsement in this part must also meet the requirements for the MMC on which the endorsement would appear. These requirements are set out in part 10 of this chapter.

§ 13.107 [Amended]

285. In § 13.107—

a. In paragraphs (a), (b), (c), (d), (e), and (f), remove the word, “MMD”, wherever it appears, and add, in its place, the word, “MMC”;

b. In paragraph (a), remove the words, “engineer's license”, and add, in its place, the words, “engineer license or engineer endorsement”;

c. In paragraph (d), place quotation marks (“”) before and after the words, “Tankerman-Engineer”; after the words “No person licensed”, add the words, “or credentialed”; and remove the citation, “part 10”, and add, in its place, the citation “part 11”;

d. In paragraph (e), remove the citation, “13.103” and add, in its place, the citation, “10.107”; and

e. In paragraph (f), remove the citation “10.105”, and add, in its place, the citation “10.217”; remove the word “chapter”, and add, in its place, the word, “title”.

§ 13.109 [Amended]

286. In § 13.109(c), remove the citation, “10.105”, and add, in its place, the citation, “10.217”; and remove the word, “MMD”, and add, in its place, the word, “MMC”.

§ 13.111 [Amended]

287. In § 13.111—

a. In the section heading, after the word, “Restricted”, add the word, “tankerman”;

b. In paragraph (a), remove the citation, “46 CFR 10.105”, and add, in their place, the words, “§ 10.217 of this chapter”;

c. In paragraph (d)(3), after the words, “passing a physical”, add the words, “and medical”; remove the words “in accordance with § 13.125”, and add, in their place, the words, “according to § 10.215 of this chapter”; and

d. In paragraph (f), after the words “Seafarers, 1978”, add the words “, as amended”.

§ 13.119 [Amended]

288. In § 13.119, remove the word, “MMD”, and add, in its place, the words, “merchant mariner's document or merchant mariner credential on which the endorsement appears”.

§ 13.120 [Amended]

289. In § 13.120, in the section heading, before the word, “endorsement”, add the word, “tankerman”; remove the citation, “12.02-27”, and add, in its place, the citation, “10.227”; and remove the word, “MMD”, and add, in its place, the word, “MMC”.

§ 13.121 [Amended]

290. In § 13.121—

a. In the section heading, remove the word, “training”, and after the word, “tankerman”, add the word, “endorsements”; and

b. In paragraph (a), remove the text, “10.203 and 10.304”, and add, in its place, the text, “11.302 and 11.304”.

§ 13.125 [Amended]

291. In § 13.125—

a. In the section heading, after the word, “Physical”, add the words, “and medical”.

b. In the text, remove the words, “10.205(d) of this chapter, excluding paragraph (d)(2) of that section”, and add, in their place, the words, “10.215 of this chapter”.

§ 13.129 [Amended]

292. In § 13.129—

a. In the section heading, after the word, “tankerman”, add the word, “endorsements”.

b. In table 13.129, in the column, “Physical required”, remove the numbers “13.125”, “13.111(b)”, “13.111(c)”, and “13.111(d)(3)” wherever they appear and add, in their place, the number “10.215”.

§ 13.201 [Amended]

293. In paragraph (c), after the word, “physical”, add the words, “and medical”; and remove the words, “in accordance with § 13.125”, and add, in their place, the words, “according to § 10.215 of this chapter”.

§ 13.203 [Amended]

294. In § 13.203—

a. In paragraph (a)(1), after the words, “service as a”, remove the word, “licensed”; after the words, “deck officer or”, remove the words, “a licensed”; and before the word, “engineering”, add the word, “an”;

b. In paragraph (a)(2), remove the word, “unlicensed”, and add, in its place, the word, “rating”; and

c. In paragraph (c) introductory text, after the word, “MMD”, add the words “or MMC”.

§ 13.207 [Amended]

295. In § 13.207, remove the words, “license or a tankerman endorsement”, and add, in their place, the words, “license, tankerman endorsement, or officer endorsement on an MMC”.

§ 13.301 [Amended]

296. In § 13.301(c), after the word, “physical”, add the words, “and medical”; and remove the words, “in accordance with § 13.125”, and add, in their place, the words, “according to § 10.215 of this chapter”.

§ 13.303 [Amended]

297. In § 13.303(c) introductory text, after the word, “MMD”, add the words, “or MMC”.

§ 13.307 [Amended]

298. In § 13.307(a), remove the words, “license or a tankerman endorsement”, and add, in their place, the words, “license, tankerman endorsement on an MMD or MMC, or an officer endorsement on an MMC”.

§ 13.401 [Amended]

299. In § 13.401(c), after the word, “physical”, add the words, “and medical”; and remove the words, “in accordance with § 13.125”, and add, in their place, the words, “according to § 10.215 of this chapter”.

§ 13.403 [Amended]

300. In § 13.403(b) introductory text, after the word, “MMD”, add the words, “or MMC”.

§ 13.407 [Amended]

301. In § 13.407, remove the words, “for a license or endorsement”, and add, in their place, the words, “to the Coast Guard for any other endorsement or credential”.

§ 13.501 [Amended]

302. In § 13.501(c), after the word, “physical”, add the words, “and medical”; remove the words, “in accordance with § 13.125”, and add, in their place, the words, “according to § 10.215 of this chapter”.

§ 13.503 [Amended]

303. In § 13.503—

a. In paragraph (a)(1), remove the words, “a licensed”, and add, in their place, the word, “an”; after the words, “engineering officer”, remove the word, “of”, and add, in its place, the word, “on”;

b. In paragraph (a)(2), remove the word, “unlicensed”, and add, in its place, the word, “rating”; and

c. In paragraph (b), after the word, “MMD”, add the words, “or MMC”.

§ 13.505 [Amended]

304. In § 13.505(a)(2), remove the words, “licensed and unlicensed”, and add, in their place, the words, “officer, rating, and cadet”.

§ 13.507 [Amended]

305. In § 13.507 text, remove the words, “for a license or tankerman endorsement”, and add, in their place, the words, “to the Coast Guard for any other endorsement or credential”.

PART 14—SHIPMENT AND DISCHARGE OF MERCHANT MARINERS

306. The authority citation for part 14 is revised to read as follows:

Authority: 5 U.S.C. 552; 46 U.S.C. Chapters 103 and 104; 46 U.S.C. 70105.

§ 14.205 [Amended]

307. In § 14.205, after the words, “every document, certificate,” add the word, “credential,”.

§ 14.207 [Amended]

308. In § 14.207(a)(1), after the words, “specify at least the name, the”, remove the words, “number of the license or merchant mariner's document”, and add the words, “license, MMD, or MMC number,”.

§ 14.307 [Amended]

309. In § 14.307(a), remove the words, “and merchant mariner's document number”, and add, in their place, the words, “MMD or MMC number”.

PART 15—MANNING REQUIREMENTS

310. The authority citation for part 15 is revised to read as follows:

Authority: 46 U.S.C. 2101, 2103, 3306, 3703, 8101, 8102, 8104, 8105, 8301, 8304, 8502, 8503, 8701, 8702, 8901, 8902, 8903, 8904, 8905(b), 8906, 9102, and 70105; and Department of Homeland Security Delegation No. 0170.1.

§ 15.103 [Amended]

311. In § 15.103—

a. In paragraph (b), remove the words, “of licensed individuals and members of the crew”, and add, in their place, the words, “number of officers and rated crew”; and after the words, “minimum qualifications concerning licenses”, add the words, “and MMC endorsements”;

b. In paragraph (c), remove the words, “licensed individuals”, and add, in their place, the word, “officers”; and

c. In paragraph (g), remove the words, “Licensed personnel”, and add, in their place, the word, “Personnel”; after the words, “an appropriate STCW”, remove the words “certificate or endorsement”, and add, in their place, the words, “endorsement on their license or MMC”; and before the words, “endorsement will be expressly limited”, remove the words, “certificate or”.

Subpart B—[Removed and Reserved]

312. Remove and reserve subpart B, consisting of § 15.301.

313. Revise § 15.401 to read as follows:

§ 15.401 Employment and service within restrictions of credential.

A person may not employ or engage an individual, and an individual may not serve, in a position in which an individual is required by law or regulation to hold a license, certificate of registry, merchant mariner's document, transportation worker identification credential, and/or merchant mariner credential, unless the individual holds all credentials required, as appropriate, authorizing service in the capacity in which the individual is engaged or employed and the individual serves within any restrictions placed on the credential. Beginning April 15, 2009, all mariners holding an active license, certificate of registry, MMD, or MMC issued by the Coast Guard must also hold a valid transportation worker identification credential (TWIC) issued by the Transportation Security Administration under 49 CFR part 1572.

§ 15.405 [Amended]

314. In § 15.405, remove the words, “licensed, registered, or certificated”, and add, in their place, the word, “credentialed”.

§ 15.410 [Amended]

315. In § 15.410—

a. In the section heading, remove the word, “Licensed” and add, in its place, the word, “Credentialed”; and

b. In the text, remove the words, “a licensed individual authorized”, and add, in their place, the words, “an individual holding a license or MMC authorizing them”.

§ 15.415 [Removed and Reserved]

316. Remove and reserve § 15.415.

§ 15.515 [Amended]

317. In § 15.515(b) introductory text, remove the words, “issued by the Coast Guard”, and add, in their place, the words, “or appropriate officer endorsement on their MMC”.

318. In § 15.520, revise paragraphs (b) through (i) and (l) to read as follows:

§ 15.520 Mobile offshore drilling units.

* * * * *

(b) The OCMI determines the minimum number of officers and crew (including lifeboatmen) required for the safe operation of inspected MODUs. In addition to other factors listed in this part, the specialized nature of the MODU is considered in determining the specific manning levels.

(c) A license or officer endorsement on an MMC as offshore installation manager (OIM), barge supervisor (BS), or ballast control operator (BCO) authorizes service only on MODUs. A license or endorsement as OIM is restricted to the MODU type and mode of operation specified on the credential.

(d) A self-propelled MODU other than a drillship must be under the command of an individual who holds a license as master endorsed as OIM or an MMC with master and OIM officer endorsements.

(e) A drillship must be under the command of an individual who holds a license or MMC officer endorsement as master. When a drillship is on location, the individual in command must hold a license as master endorsed as OIM or an MMC with master and OIM officer endorsements.

(f) A non-self-propelled MODU must be under the command of an individual who holds a license or MMC officer or endorsement as OIM.

(g) An individual serving as mate on a self-propelled surface unit other than a drillship must hold an appropriate license or MMC officer endorsement as mate and an endorsement as BS or BCO. An individual holding a license or MMC officer endorsement as barge supervisor or ballast control operator may be substituted for a required mate when a self-propelled surface unit other than a drillship is on location or under tow, under certain circumstances as determined by the cognizant OCMI.

(h) An individual holding a license or MMC officer endorsement as barge supervisor is required on a non-self-propelled surface unit other than a drillship.

(i) An individual holding a license or MMC officer endorsement as barge supervisor may serve as ballast control operator.

* * * * *

(l) A surface mobile offshore drilling unit underway or on location, when afloat and equipped with a ballast control room, must have that ballast control room manned by an individual holding a license or MMC officer endorsement authorizing service as ballast control operator.

§ 15.530 [Amended]

319. In § 15.530—

a. Remove paragraph (a) and redesignate paragraphs (b) through (g) as paragraphs (a) through (f), respectively;

b. In newly redesignated paragraphs (a), (b), (d) and (e), remove the words, “merchant mariner's document”, wherever they occur, and add, in their place, the words, “merchant mariner credential”; and

b. In newly redesignated paragraph (c), remove the words, “unlicensed seamen”, and add, in their place, the word, “ratings”.

§ 15.605 [Amended]

320. In § 15.605—

a. In the section heading, remove the word, “Licensed”, and add, in its place, the word, “Credentialed”;

b. In the introductory text, remove the word, “licensed”, and add, in its place, the word, “credentialed”;

c. In paragraph (a), remove the words, “, carrying not more than six passengers,”; after the words, “holding a license”, add the words, “or MMC endorsed”; after the words, “as operator”, add the words, “of uninspected passenger vessels”; and

d. In paragraph (b), remove the word, “licensed”, and add, in its place, the word, “credentialed”.

§ 15.610 [Amended]

321. In § 15.610—

a. In paragraph (a), after the words, “and control of a person”, remove the word, “licensed”, and add, in its place, the words, “holding a license or MMC officer endorsement”; and after the words, “endorsement on his or her license”, add the words, “or MMC”;

b. Remove paragraph (b);

c. Redesignate paragraph (c) as paragraph (b); and

d. In newly redesignated paragraph (b) introductory text, remove the words, “who holds a first-class pilot's license or endorsement for that route, or”, and add, in their place, the words, “meeting the requirements of paragraph (a) of this section who holds either a first-class pilot's endorsement for that route, MMC officer endorsement for the Western Rivers, or meets the requirements of paragraph (a) and”; and remove the words, “paragraph (c)(1) or paragraph (c)(2)”, and add, in their place, the words, “paragraphs (b)(1) or (b)(2)”.

§ 15.701 [Amended]

322. In § 15.701—

a. In paragraph (b), after the words, “must hold a license”, add the words, “or MMC officer endorsement”; and remove the words, “part 10”, and add, in their place, the words, “parts 10 and 11”; and

b. In paragraph (c), after the words, “employees of the”, remove the word, “Customs”, and add, in their place, the words, “Customs and Border Protection”.

§ 15.705 [Amended]

323. In § 15.705—

a. In paragraph (b), in the first sentence, remove the words, “licensed individuals”, and add, in their place, the word, “officers”; and in the second sentence, after the words, “deck department other than”, remove the word, “licensed”;

b. In paragraph (c) introductory text, remove the words, “licensed individuals”, and add, in their place, the word, “officers”; and

c. In paragraphs (d), (e)(1) introductory text, and (e)(2), remove the word “licensed” wherever it appears.

§ 15.710 [Amended]

324. In § 15.710 introductory text, in the first sentence, after the words, “on the working hours of”, remove the words, “licensed individuals”, and add, in their place, the words, “credentialed officers”; and in the third sentence, after the words, “master or other”, remove the words, “licensed individual”, and add, in their place, the words, “credentialed officer”.

324. In § 15.720, revise paragraphs (a), (b) introductory text, and (d) to read as follows:

§ 15.720 Use of non-U.S. credentialed personnel.

(a) United States vessels which need to replace one or more persons while on a foreign voyage and outside the jurisdiction of the United States, in order to meet manning requirements, may use non-U.S. credentialed personnel without a TWIC, except for the positions of master and radio officer, until the vessel returns to a port at which in the most expeditious manner replacements who are citizens of the United States can be obtained.

(b) The citizenship requirements of 46 U.S.C. 8103(a) and (b) and the TWIC requirement of 46 U.S.C. 70105 are waived, except for the requirement that the master must be a U.S. citizen holding a TWIC, with respect to the following vessels:

* * * * *

(d) The master shall assure that any replacements of crewmembers by non-U.S. citizens made in accordance with this section will be with an individual who holds a credential which is equivalent in experience, training, and other qualifications to the U.S. credential required for the position and that the person possesses or will possess the training required to communicate to the extent required by § 15.730 of this part.

§ 15.725 [Amended]

325. In § 15.725, in the first sentence, remove the words, “licensed or documented”, and add, in their place, the word, “credentialed”.

§ 15.730 [Amended]

326. In § 15.730(d), remove the words, “licensed individuals”, wherever they appear, and add, in their place, the word, “officers”; and in the fourth sentence, after the words “spoken directly by the”, remove the words, “licensed individual”, and add, in their place, the word, “officer”.

§ 15.805 [Amended]

327. In § 15.805—

a. In paragraph (a) introductory text, after the words, “license as”, add the words, “or a valid MMC with endorsement as master”;

b. In paragraph (a)(5) introductory text, remove the word, “licensed”, and add, in its place, the words, “holding a license or MMC endorsed”; and

c. In paragraph (a)(5)(ii), remove the word, “endorsed” and add, in its place, the words, “or MMC with officer endorsement”.

§ 15.810 [Amended]

328. In § 15.810—

a. In paragraph (a), remove the word “licensed”;

b. In paragraph (b) introductory text, remove the word, “licensed mates” and add, in its place, the words “mariners holding a license or MMC officer endorsement as mate”;

c. In paragraphs (b)(1) through (5), remove the word, “licensed”, wherever it appears;

d. In paragraph (c), after the words, “appropriate license”, add the words, “or MMC”;

e. In paragraph (d) introductory text, remove the words, “hold a license”, and add, in their place, the words, “satisfy the requirements of § 15.805(a)(5) of this part or hold a license or MMC”;

f. In paragraph (d)(2) introductory text, after the words, “officer's license”, add the words, “or MMC”; and

g. In paragraph (d)(2)(ii), remove the word, “endorsed”, and add, in its place, the words, “or MMC with officer endorsement”.

329. In § 15.812—

a. In table 15.812(e)(1), in the heading to the second column, after the words, “First Class Pilot's licenses”, add the words, “or MMC officer endorsements”;

b. In table 15.812(e)(2), in the heading to the second column, after the words, “First Class Pilot's licenses”, add the words, “or MMC officer endorsements”; remove the word, “Operator”, wherever it appears and add, in its place, the words, “Master, Mate (Pilot) of towing vessels”; and

c. Revise paragraphs (b), (c), (f)(1) introductory text, (f)(1)(i), and (f)(2) introductory text to read as follows:

§ 15.812 Pilots.

* * * * *

(b) The following individuals may serve as a pilot for a vessel subject to paragraph (a) of this section, when underway on the navigable waters of the United States that are designated areas:

(1) An individual holding a valid first class pilot's license or MMC with a first class pilot's endorsement, operating within the restrictions of his or her credential, may serve as pilot on any vessel to which this section applies.

(2) An individual holding a valid license or MMC officer endorsement as master or mate, employed aboard a vessel within the restrictions of his or her credential, may serve as pilot on a vessel of not more than 1,600 gross tons propelled by machinery, described in paragraphs (a)(1) and (a)(3) of this section, provided he or she:

(i) Is at least 21 years old;

(ii) Complies with the currency of knowledge provisions of § 11.713 of this chapter; and

(iii) Has completed a minimum of four round trips over the route to be traversed while in the wheelhouse as watchstander or observer. At least one of the round trips must be made during the hours of darkness if the route is to be traversed during darkness

(3) An individual holding a valid license or MMC officer endorsement as master, mate, or operator employed aboard a vessel within the restrictions of his or her credential, may serve as pilot on a tank barge or tank barges totaling not more than 10,000 gross tons, described in paragraphs (a)(1) and (a)(3) of this section, provided he or she:

(i) Is at least 21 years old;

(ii) Complies with the currency of knowledge provisions of § 11.713 of this chapter;

(iii) Has a current physical examination in accordance with the provisions of § 11.709 of this chapter;

(iv) Has at least six-months service in the deck department on towing vessels engaged in towing operations; and

(v) Has completed a minimum of twelve round trips over the route to be traversed, as an observer or under instruction in the wheelhouse. At least three of the round trips must be made during the hours of darkness if the route is to be traversed during darkness.

(c) An individual holding a valid license or MMC officer endorsement as master, mate, or operator, employed aboard a vessel within the restrictions of his or her credential, may serve as a pilot for a vessel subject to paragraphs (a)(1) and (a)(2) of this section, when underway on the navigable waters of the United States that are not designated areas of pilotage waters, provided he or she:

(1) Is at least 21 years old;

(2) Complies with the currency of knowledge provisions of § 11.713 of this chapter; and

(3) Has a current physical examination in accordance with the provisions of § 11.709 of this chapter.

* * * * *

(f) * * *

(1) When operating from 60°49′ north latitude to the Port of Valdez be under the direction and control of an individual holding a valid license or MMC endorsed as pilot who:

(i) Is operating under the authority of a license or MMC;

* * * * *

(2) Navigate with either two credentialed deck officers on the bridge or an individual holding a valid license or MMC endorsed as pilot when operating south of 60°49′ north latitude and in the approaches through Hinchinbrook Entrance and in the area bounded:

* * * * *

§ 15.815 [Amended]

330. In § 15.815—

a. In paragraph (a), remove the words, “licensed deck individuals”, and add, in their place, the words, “deck officers”; and

b. In paragraph (c), remove the words, “be licensed”, and add, in their place, the words, “hold a license or MMC officer endorsement”; and after the words, “service as master”, remove the words, “, mate, or operator”, and add, in their place, the words “or mate”.

§ 15.820 [Amended]

331. In § 15.820—

a. In paragraph (a) introductory text, remove the words, “appropriate license”, and add, in their place, the words, “MMC or license endorsed”; and after the words, “as chief engineer or”, remove the words, “a license”, and add, in their place, the words, “other credential”;

b. In paragraph (a)(3), remove the words, “a licensed individual”, and add, in their place, the words, “an individual with a license or the appropriate MMC officer endorsement”; and

c. In paragraph (b), remove the words, “appropriate license” and add, in their place, the words, “appropriately endorsed license or MMC”.

§ 15.825 [Amended]

332. In § 15.825—

a. In paragraph (a), remove the words, “appropriate license” and add, in their place, the words, “appropriately endorsed license or MMC”; and

b. In paragraph (b), remove the word, “licensed”, and add, in its place, the word, “credentialed”.

§ 15.835 [Amended]

333. In § 15.835 text, remove the number, “10”, and add, in its place, the number, “11”.

§ 15.840 [Amended]

334. In § 15.840(a), remove the words, “licensed individuals”, and add, in their place, the words, “individuals serving as officers”.

§ 15.860 [Amended]

335. In § 15.860—

a. In paragraph (a), after the words, “merchant mariner's documents”, add the words, “or MMCs”;

b. In paragraph (f) introductory text, after the words, “merchant mariner's documents”, add the words, “or MMCs”;

c. In paragraph (f)(3), remove the words, “licensed person”, and add, in their place, the words, “credentialed officer”;

d. In paragraph (f)(4), remove the words, “licensed or unlicensed person”, and add, in their place, the words, “officer or crewmember”; and

e. In table 15.860(a)(2), in the first column, sixth row, remove the words, “Licensed Person”, and add, in their place, the words, “Credentialed Officer”; and in the first column, seventh row, remove the words “Licensed or Unlicensed Person”, and add, in their place, the words, “Credentialed Officer or Crewmember”.

§ 15.901 [Amended]

336. In § 15.901, paragraphs (a), (b), (c), and (d), after the words “holding a license”, wherever they appear, add the words, “or MMC endorsed”; after the words, “on the individual's license”, wherever they appear, add the words, “or MMC”; and remove the words, “authorizing service”, wherever they appear.

§ 15.905 [Amended]

337. In § 15.905 (a), (b), and (c), after the words, “holding a license”, wherever they appear, add the words, “or MMC endorsed”; and after the words, “on the individual's license”, wherever they appear, add the words, “or MMC”.

338. Revise § 15.910 to read as follows:

§ 15.910 Towing vessels.

No person may serve as a master or mate (pilot) of any towing vessel without meeting the requirements of §§ 15.805(a)(5) or 15.810(d) of this part.

§ 15.915 Engineer Officer Endorsements.

339. In § 15.915—

a. Revise the heading to read as set forth above.

b. In the introductory text, after the words, “following licenses”, add the words, “and MMC officer endorsements”; and after the words, “on the license”, add the words, “or MMC”; and

c. In paragraphs (a) introductory text, (b), (c), and (d), after the word, “license”, wherever it appears, add the words, “or endorsement”.

§ 15.1001 [Amended]

340. In § 15.1001, remove the words, “an appropriately endorsed Federal first class pilot's license issued by the Coast Guard”, and add, in their place, the words, “a valid MMC or license with appropriate endorsement as a first-class pilot”.

341. In § 15.1103—

a. Revise the section heading;

b. In paragraph (c), remove the words, “After January 31, 2002, on”, and add, in their place, the word, “On”; and

c. Revise paragraphs (d), (e) introductory text, (f), and (h).

The revisions read as follows:

§ 15.1103 Employment and service within the restrictions of an STCW endorsement or of a certificate of training.

* * * * *

(d) You must hold documentary evidence to show you meet the requirements of §§ 11.1005 or 12.30-5 of this chapter, as appropriate, if you are a master or crewmember on board a Ro-Ro passenger ship to which a certificate signifying compliance with the International Convention for the Safety of Life at Sea, 1974, as amended (SOLAS) (SOLAS is available from the International Maritime Organization (IMO), 4 Albert Embankment, London, SE1 7SR, England, telephone: + 44 (0)20 7735 7611, http://www.imo.org), has been issued.

(e) You must hold documentary evidence to show you meet the requirements of §§ 11.1005 or 12.30-5 of this chapter, as appropriate, if you are a master or crewmember on board a vessel that is—

* * * * *

(f) On board a seagoing vessel required to comply with provisions of the Global Maritime Distress and Safety System (GMDSS) in Chapter IV of SOLAS, no person may employ or engage any person to serve, and no person may serve, as the master, chief mate, or officer of the navigational watch, unless the person serving holds the appropriate certificate or endorsement for operator of radio in GMDSS.

* * * * *

(h) On board a seagoing vessel fitted with an Automatic Radar Plotting Aid (ARPA), no person may employ or engage any person to serve, and no person may serve, as the master, chief mate, or officer of the navigational watch, unless the person so serving has been trained in the use of ARPA according to §§ 11.205 or 11.209 of this chapter, whichever is appropriate.

§ 15.1105 [Amended]

342. In § 15.1105(a) introductory text, (b), and (c) introductory text, remove the words, “After January 31, 1997, on”, wherever they appear and add, in their place, the word, “On”.

§ 15.1107 [Amended]

343. In § 15.1107—

a. In the introductory text, after the words, “mariner holding a license”, add the words, “, MMC,”; and

b. In paragraph (c), remove the words, “licenses, documents, or endorsements”, and add, in their place, the word, “credentials”.

§ 15.1111 [Amended]

344. In § 15.1111, paragraph (a), remove the words, “After January 31, 1997, each”, and add, in their place, the word, “Each”.

PART 16—CHEMICAL TESTING

345. The authority citation for part 16 continues to read as follows:

Authority: 46 U.S.C. 2103, 3306, 7101, 7301, and 7701; Department of Homeland Security Delegation No. 0170.1.

346. In § 16.105, add, in alphabetical order, a definition for “credential” as set out below; in the definition for “crewmember”, redesignate paragraphs (a), (b) introductory text, (b)(1), (b)(2), (b)(3) and (b)(4) as paragraphs (1), (2), (2)(i), (2)(ii), (2)(iii), and (2)(iv) respectively; and revise newly redesignated paragraphs (1) and (2) introductory text of the definition for “crewmember” to read as follows:

§ 16.105 Definitions of terms used in this part.

* * * * *

Credential is a term used to refer to any or all of the following:

(1) Merchant mariner's document.

(2) Merchant mariner's license.

(3) STCW endorsement.

(4) Certificate of registry.

(5) Merchant mariner credential.

Crewmember means an individual who is—

(1) Onboard a vessel acting under the authority of a credential issued under this subchapter, whether or not the individual is a member of the vessel's crew; or

(2) Engaged or employed onboard a vessel owned in the United States that is required by law or regulation to engage, employ, or be operated by an individual holding a credential issued under this subchapter, except for the following:

* * * * *

§ 16.113 [Amended]

347. In § 16.113(a), remove the words, “documented and licensed”, and add, in their place, the word, “credentialed”.

§ 16.201 [Amended]

348. In § 16.201—

a. In paragraph (c), after the words, “If an individual holding”, remove the words, “a license, certificate of registry, or merchant mariner's document”, and add, in their place, the words, “a credential”; after the words, “against his or her”, remove the words, “license, certificate of registry, or merchant mariner's document”, and add, in their place, the word “credential”; and

b. In paragraph (d), remove the words, “a license, certificate of registry, or merchant mariner's document”, and add, in their place, the words, “a credential”.

349. Revise § 16.220(a) and (b) to read as follows:

§ 16.220 Periodic testing requirements.

(a) Except as provided by paragraph (c) of this section and § 10.227(e) of this chapter, an applicant must pass a chemical test for dangerous drugs for—

(1) An original issuance of a license, COR, MMD, or MMC;

(2) The first issuance, raise of grade, or renewal of an officer endorsement on a merchant mariner credential;

(3) A raise of grade of a license or COR;

(4) The first endorsement as an able seaman, lifeboatman, qualified member of the engine department, or tankerman; or

(5) A reissuance of a credential with a new expiration date. The applicant must provide the results of the test to the Coast Guard Regional Examination Center (REC) at the time of submitting an application. The test results must be completed and dated not more than 185 days before submission of the application.

(b) Unless excepted under paragraph (c) of this section, each pilot required by this subchapter to receive an annual physical examination must pass a chemical test for dangerous drugs as a part of that examination, and provide the results to the Coast Guard. Applicants need not submit additional copies of their annual chemical test for dangerous drugs pursuant to paragraph (a) of this section if the applicant submitted passing results of a chemical test for dangerous drugs to the Coast Guard within 12 months of the date of application.

* * * * *

§ 16.230 [Amended]

350. In § 16.230—

a. In paragraph (b)(1), remove the words, “issued by the Coast Guard hold a license”, and add, in their place the words, “hold a license or MMC endorsed as master, mate, or operator”; and

b. In paragraph (k), remove the words, “license or merchant mariner's document”, and add, in their place, the word, “credential”.

§ 16.250 [Amended]

351. In § 16.250, in paragraph (a), remove the words “license, certificate of registry, or merchant mariner's document” and add, in their place, the word, “credential”.

PART 26—OPERATIONS

352. The authority citation for part 26 continues to read as follows:

Authority: 46 U.S.C. 3306, 4104, 6101, 8105; Pub. L. 103-206, 107 Stat. 2439; E.O. 12234, 45 FR 58801, 3 CFR, 1980 Comp., p. 277; Department of Homeland Security Delegation No. 0170.1.

Subpart 26.20—Exhibition of Coast Guard Credential

353. Revise the heading to subpart 26.20 as set forth above.

§ 26.20-1 [Amended]

354. In § 26.20-1, after the words, “valid Coast Guard license”, add the words “or MMC officer endorsement”; and after the words, “must have the license”, add the words, “or MMC”.

PART 28—REQUIREMENTS FOR COMMERCIAL FISHING INDUSTRY VESSELS

355. The authority citation for part 28 continues to read as follows:

Authority: 46 U.S.C. 3316, 4502, 4505, 4506, 6104, 10603; Department of Homeland Security Delegation No. 0170.1.

§ 28.275 [Amended]

356. In § 28.275—

a. In paragraph (a)(2) introductory text, remove the words, “merchant mariner's license” and add, in their place, the words, “license or officer endorsement”; remove the words “64 CFR” and add, in their place, the text “§ ”; and

b. In paragraph (a)(3) introductory text, remove the words, “merchant mariner's license”, and add, in their place, the words, “license or officer endorsement”; and remove the words, “46 CFR” and add, in their place, the text, “§”.

PART 30—GENERAL PROVISIONS

357. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.10-71 [Amended]

358. In § 30.10-71 introductory text, remove the words, “merchant mariners' documents” and add, in their place, the word, “endorsements”.

PART 31—INSPECTION AND CERTIFICATION

359. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.15-1 [Amended]

360. In § 31.15-1, in the section heading, remove the words, “Licensed officers” and add, in their place, the word, “Officers”.

PART 35—OPERATIONS

361. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.05-1 [Amended]

362. In § 35.05-1—

a. In the section heading, remove the words, “Licensed officers”, and add, in their place, the word, “Officers”; and

b. In the text, remove the words “licensed” and “certificated” wherever they appear.

PART 42—DOMESTIC AND FOREIGN VOYAGES BY SEA

363. The authority citation for part 42 continues to read as follows:

Authority: 46 U.S.C. 5101-5116; Department of Homeland Security Delegation No. 0170.1; section 42.01-5 also issued under the authority of 44 U.S.C. 3507.

364. Add new § 42.05-27 to read as follows:

§ 42.05-27 Credential.

As used in this subchapter, credential means any or all of the following:

(a) Merchant mariner's document.

(b) Merchant mariner's license.

(c) STCW endorsement.

(d) Certificate of registry.

(e) Merchant mariner credential.

§ 42.07-50 [Amended]

365. In § 42.07-50(b)(5), remove the words, “license or merchant mariner's document”, and add, in their place, the word, “credential”.

PART 58—MAIN AND AUXILIARY MACHINERY AND RELATED SYSTEMS

366. The authority citation for part 58 continues to read as follows:

Authority: 43 U.S.C. 1333; 46 U.S.C. 3306, 3703; E.O. 12234, 45 FR 58801, 3 CFR, 1980 Comp., p. 277; Department of Homeland Security Delegation No. 0170.1.

§ 58.16-19 [Amended]

367. In § 58.16-19(b), remove the word, “licensed”, and add, in its place, the word, “credentialed”.

PART 61—PERIODIC TESTS AND INSPECTIONS

368. The authority citation for part 61 continues to read as follows:

Authority: 43 U.S.C. 1333; 46 U.S.C. 2103, 3306, 3307, 3703; E.O. 12234, 45 FR 58801, 3 CFR 1980 Comp., p. 277; Department of Homeland Security Delegation No. 0170.1.

§ 61.15-10 [Amended]

369. In § 61.15-10(a), remove the words, “a licensed”, and add, in their place, the words, “an appropriately credentialed”.

PART 78—OPERATIONS

370. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

Subpart 78.65—[Amended]

371. In the heading to subpart 78.65, remove the word, “License”, and add, in its place, the words, “Merchant Mariner Credential”;

372. Revise § 78.65-1 to read as follows:

§ 78.65-1 Officers.

All officers on a vessel must have their licenses or officer endorsements conspicuously displayed.

PART 97—OPERATIONS

373. The authority citation for part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; Department of Homeland Security Delegation No. 0170.1.

Subpart 97.53—Exhibition of Merchant Mariner Credential

374. Revise the heading to subpart 97.53 to read as set forth above.

375. Revise § 97.53-1 to read as follows:

§ 97.53-1 Officers.

All officers on a vessel must have their licenses or officer endorsements conspicuously displayed.

PART 98—SPECIAL CONSTRUCTION, ARRANGEMENT, AND OTHER PROVISIONS FOR CERTAIN DANGEROUS CARGOES IN BULK

376. The authority citation for part 98 continues to read as follows:

Authority: 33 U.S.C. 1903; 46 U.S.C. 3306, 3307, 3703; 49 U.S.C. App. 1804; E.O. 12234, 45 FR 58801, 3 CFR, 1980 Comp., p. 277; Department of Homeland Security Delegation No. 0170.1.

§ 98.30-17 [Amended]

377. In § 98.30-17—

a. In paragraph (b)(1), before the words, “merchant mariner's document”, add the words, “endorsement on his or her merchant mariner credential or”; and

b. In paragraph (b)(2), remove the words, “license or certificate”, and add, in their place, the words, “merchant mariner credential, license, or certificate”; and remove the words, “on his or her MMD”.

PART 105—COMMERCIAL FISHING VESSELS DISPENSING PETROLEUM PRODUCTS

378. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.05-10 [Amended]

379. In § 105.05-10(c)(2), remove the word, “licensed”.

§ 105.45-1 [Amended]

380. In § 105.45-1—

a. In paragraph (a)(1), remove the word, “documents” and add, in its place, the words, “merchant mariner credentials or merchant mariner's documents”;

b. In paragraph (b)(1), before the words, “merchant mariner's document”, add the words, “merchant mariner credential or”; and

c. In paragraph (b)(2), after the word, “license”, add the words, “or merchant mariner credential”.

PART 114—GENERAL PROVISIONS

381. The authority citation for part 114 continues to read as follows:

Authority: 46 U.S.C. 2103, 3306, 3703; Pub. L. 103-206, 107 Stat. 2439; 49 U.S.C. App. 1804; Department of Homeland Security No. 0170.1; § 114.900 also issued under 44 U.S.C. 3507.

§ 114.400 [Amended]

382. In § 114.400(b), in the definition for, “Master”, after the word, “license”, add the words, “or merchant mariner credential”.

PART 115—INSPECTION AND CERTIFICATION

383. The authority citation for part 115 is revised to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 115.113 [Amended]

384. In § 115.113(b)(1)(iii), remove the word, “licensed” and add, in its place, the word “credentialed”.

PART 122—OPERATIONS

385. The authority citation for part 122 continues to read as follows:

Authority: 46 U.S.C. 2103, 3306, 6101; E.O. 12234, 45 FR 58801, 3 CFR, 1980 Comp., p. 277; Department of Homeland Security Delegation No. 0170.1.

§ 122.402 [Amended]

386. In § 122.402—

a. In the section heading, remove the word, “Licenses”, and add, in its place, the word “Officers”; and

b. In the text, remove the words, “licensed individual”, and add, in their place, the word “officer”; remove the words, “shall have his or her “license”, and add, in their place, the words, “must have his or her license or merchant mariner credential”.

§ 122.910 [Amended]

387. In § 122.910 text, after the words, “An individual holding a”, add the words, “merchant mariner credential,”; and after the words, “suspension or revocation of a”, remove the words, “license, certificate, or document”, and add, in their place, the word, “credential”.

PART 125—GENERAL

388. The authority for part 125 continues to read as follows:

Authority: 46 U.S.C. 2103, 3306, 3307; 49 U.S.C. App. 1804; Department of Homeland Security Delegation No. 0170.1.

389. In § 125.160, add, in alphabetical order, a definition for the term “credential” to read as follows:

§ 125.160 Definitions.

* * * * *

Credential means any or all of the following:

(1) Merchant mariner's document.

(2) Merchant mariner's license.

(3) STCW endorsement.

(4) Certificate of registry.

(5) Merchant mariner credential.

* * * * *

PART 131—OPERATIONS

390. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

§ 131.410 [Amended]

391. In § 131.410, before the words, “merchant mariner's document” wherever they appear, add the words, “merchant mariner credential or”.

§ 131.905 [Amended]

392. In § 131.905(b), after the words, “the suspension or revocation of”, add the words, “credentials”.

393. Revise § 131.955 to read as follows:—

§ 131.955 Display of merchant mariner credential.

Each officer on a vessel must conspicuously display his or her license or officer endorsements as required by 46 U.S.C. 7110.

PART 151—BARGES CARRYING BULK LIQUID HAZARDOUS MATERIAL CARGOES

394. The authority citation for part 151 continues to read as follows:

Authority: 33 U.S.C. 1903; 46 U.S.C. 3703; Department of Homeland Security Delegation No. 0170.1.

§ 151.03-53 [Amended]

395. In § 151.03-53 introductory text, before the words, “merchant mariner's documents”, add the words, “merchant mariner credentials or”.

PART 166—DESIGNATION AND APPROVAL OF NAUTICAL SCHOOL SHIPS

396. The authority citation for part 166 continues to read as follows:

Authority: 46 U.S.C. 2103, 3306, 8105; 46 U.S.C. App. 1295g; Department of Homeland Security Delegation No. 0170.1.

§ 166.01 [Amended]

397. In § 166.01(a), before the words, “or merchant mariner's documents”, add the words, “on merchant mariner credentials”.

PART 169—SAILING SCHOOL VESSELS

398. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.107 [Amended]

399. In § 169.107, in the definition for, “Master”, remove the word, “licensed”, and add, in its place, the word, “credentialed”.

§ 169.805 [Amended]

400. In § 169.805—

a. In the section heading, remove the word, “licenses”, and add, in its place, the words, “merchant mariner credentials”; and

b. In the text, remove the words, “Licensed personnel” and add, in their place, the word “Officers”; remove the words, “shall have their licenses”, and add, in their place, the words, “must have their license or merchant mariner credential”.

PART 175—GENERAL PROVISIONS

401. The authority citation for part 175 continues to read as follows:

Authority: 46 U.S.C. 2103, 3205, 3306, 3703; Pub. L. 103-206, 107 Stat. 2439; 49 U.S.C. App. 1804; Department of Homeland Security Delegation No. 0170.1; 175.900 also issued under authority of 44 U.S.C. 3507.

§ 175.118 [Amended]

402. Revise § 175.118(c)(3) to read as follows:

§ 175.118 Vessels operating under an exemption afforded in the Passenger Vessel Safety Act of 1993 (PVSA).

* * * * *

(c) * * *

(3) The owner or operator must crew the vessel under the requirements of this subchapter. All officers must be endorsed for the appropriate vessel tonnage. The OCMI may require an appropriately endorsed engineer officer for those vessels of at least 200 gross tons. Vessels carrying more than 50 passengers must have an additional deckhand, and all deckhands on vessels carrying more than 50 passengers must be adequately trained. The crew members on a vessel of at least 200 gross tons, except those operated exclusively on lakes and rivers, are required to hold merchant mariner credentials or merchant mariner documents and 50 percent of the merchant mariner credentials or at least an able seaman.

* * * * *

§ 175.400 [Amended]

403. In § 175.400, in the definition for, “Master”, remove the word, “license”, and add, in its place, the words, “merchant mariner credential”.

PART 176—INSPECTION AND CERTIFICATION

404. The authority citation is revised to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 176.113 [Amended]

405. In § 176.113(b)(1)(iii), remove the word, “licensed”.

PART 185—OPERATIONS

406. The authority citation continues to read as follows:

Authority: 46 U.S.C. 2103, 3306, 6101; E.O. 12234, 45 FR 58801, 3 CFR, 1980 Comp., p. 277; Department of Homeland Security Delegation No. 0170.1.

407. Revise § 185.402 to read as follows:

§ 185.402 Officers.

Each officer employed on any vessel subject to this subchapter must have his or her license or merchant mariner credential onboard and available for examination at all times when the vessel is operating.

§ 185.910 [Amended]

408. In § 185.910, after the words, “individual holding a”, add the words, “merchant mariner credential,”; and after the words, “suspension or revocation of a”, add the words, “merchant mariner credential,”.

PART 196—OPERATIONS

409. The authority citation for part 196 continues to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; Department of Homeland Security Delegation No. 0170.1.

Subpart 196.53—Exhibition of Credential

410. Revise the heading to subpart 196.53 to read as set forth above.

411. Revise § 196.53-1 to read as follows:

§ 196.53-1 Officers.

All officers on a vessel must have their licenses or officer endorsements conspicuously displayed.

PART 199—LIFESAVING SYSTEMS FOR CERTAIN INSPECTED VESSELS

412. The authority citation for part 199 continues to read as follows:

Authority: 46 U.S.C. 3306, 3703; Pub. L. 103-206, 107 Stat. 2439; Department of Homeland Security Delegation No. 0170.1.

§ 199.30 [Amended]

413. In § 199.30, in the definition for, “Certificated person”, after the words, “merchant mariner's document”, add the words, “or merchant mariner credential”.

PART 401—GREAT LAKES PILOTAGE REGULATIONS

414. The authority citation for part 401 continues to read as follows:

Authority: 46 U.S.C. 2104(a), 6101, 7701, 8105, 9303, 9304 and 70105; Department of Homeland Security Delegation No. 0170.1; 46 CFR 401.105 also issued under the authority of 44 U.S.C. 3507.

415. In § 401.110—

a. In paragraph (a)(8), after the word, “license”, add the words, “or merchant mariner credential”; and

b. In paragraph (a)(12), after the words, “who holds a license”, add the words, “or merchant mariner credential endorsed”; and

c. Add a new paragraph (a)(17) to read as follows:

§ 401.110 Definitions.

(a) * * *

(17) Merchant mariner credential or MMC means the credential issued by the Coast Guard under 46 CFR part 10. It combines the individual merchant mariner's document, license, and certificate of registry enumerated in 46 U.S.C. subtitle II part E as well as the STCW endorsement into a single credential that serves as the mariner's qualification document, certificate of identification, and certificate of service.

§ 401.210 [Amended]

416. Revise § 401.210(a)(1) and (a)(6) to read as follows:

§ 401.210 Requirements and qualifications for registration.

(a) * * *

(1) The individual holds a license or MMC endorsed as a master, mate, or pilot, issued under the authority of the provisions of Title 52 of the Revised Statutes, and has acquired at least twenty-four months service as a licensed or credentialed officer or comparable experience on vessels or integrated tugs and tows, of 4,000 gross tons, or over, operating on the Great Lakes or oceans. Those applicants qualifying with ocean service must have obtained at least six months of service as a licensed or credentialed officer or comparable experience on the Great Lakes. Those applicants qualifying with comparable experience must have served a minimum of twelve months as a deck officer under the authority of their license or MMC.

* * * * *

(6) Until April 15, 2009, the individual possesses a validated Merchant Mariner's Document issued by the Coast Guard or a valid Transportation Worker Identification Credential (TWIC). After April 15, 2009, the individual must posses a valid TWIC.

§ 401.220 [Amended]

417. In § 401.220(d), remove the word, “license”, and add, in its place, the word, “endorsement”.

§ 401.230 [Amended]

418. In § 401.230(a), remove the word, “license”, and add, in its place, the word, “endorsement”.

§ 401.250 [Amended]

419. In § 401.250(d), after the words, “whenever his or her license”, add the words, “or MMC officer endorsement”; after the words, “simultaneously with his or her license”, add the words, “and/or MMC”; after the words, “If the license”, add the words, “or officer endorsement”; and after the words, “with the suspended license”, add the words, “or officer endorsement”.

PART 402—GREAT LAKES PILOTAGE RULES AND ORDERS

420. The authority citation for part 402 continues to read as follows:

Authority: 46 U.S.C. 2104(a), 8105, 9303, 9304; 49 CFR 1.46 (mmm).

§ 402.220 [Amended]

421. In § 402.220(a)(1), (a)(2), and (a)(3), after the word, “license”, wherever it appears, add the words, “or endorsement”.

Dated: January 15, 2009.
Brian M. Salerno,
Rear Admiral, U.S. Coast Guard, Assistant Commandant for Marine Safety, Security & Stewardship.

[FR Doc. E9-5436 Filed 3-10-09; 4:15 pm]

BILLING CODE 4910-15-P